DEPARTMENT OF ENERGY

Privacy Act of 1974; Publication of Compilation of Privacy Act Systems of Records

AGENCY: Department of Energy.

ACTION: Publication of Department of Energy (DOE) compilation of Privacy Act Systems of Records and notice of intent to publish proposed new systems of records.

SUMMARY: As required by the Privacy Act of 1974, 5 U.S.C. 552a, and the Office of Management and Budget (OMB) Circular A-130, the DOE is publishing the compilation of the Privacy Act systems of records of the agency. This notice reflects various significant and administrative changes to existing systems of records and identifies proposed new systems of records.

DATES: Any interested person may submit written comments concerning the proposed changes to DOE's Privacy Act System of Records by June 15, 2001. Except for proposed exemptions that require separate notice and comment rulemaking, the changes proposed in this notice will be effective on July 2, 2001 unless DOE receives comments that require a contrary determination. DOE will publish a document in the Federal Register notifying the pubic if any changes are necessary.

ADDRESSES: Written comments should be directed to Abel Lopez, Director, Freedom of Information Act and Privacy Act Division, U.S. Department of Energy, MA-73, 1000 Independence Avenue, SW., Washington, DC 20585.

FOR FURTHER INFORMATION CONTACT: Abel Lopez, Director, Freedom of Information Act and Privacy Act Division, MA-73, U.S. Department of Energy, 1000 Independence Avenue, SW., Washington, DC 20585, (202) 586-5955; Verlette Moore, Freedom of Information Act and Privacy Act Division, MA-73, 1000 Independence Avenue, SW., Washington, DC 20585, (202) 586-5958; and Isiah Smith, Office of General Counsel, GC-80, U.S. Department of Energy, 1000 Independence Avenue, SW., Washington, DC 20585, (202) 586-8618.

SUPPLEMENTARY INFORMATION:

I. Background

II. Proposed Amendments to Existing Systems of Records

III. Establishment of New Systems of Records

IV. Discussion of Deletion Notices

V. Comment Procedures

VI. Table of Contents of All DOE Systems of Records as Adopted or Proposed

I. Background

This notice provides an accurate and complete text of notices for the sixty systems of records established under the Privacy Act by the DOE. The last compilation of the Department's systems of records was published at 47 FR 14306, April 2, 1982. Since that time, the DOE has published several notices to establish new systems of records and to amend published systems.

The Department's previous compilation included appendices that listed the DOE locations where the records are maintained and the routine uses applicable to the various systems. We have determined that the proposed system notices will be a more useful tool to the subject of the records if all information related to each of the particular systems is incorporated into the individual notices. Each system notice will provide a more accurate description of the systems of records, identify the purpose and authority for collecting and maintaining the information, reflect administrative changes that have been made, identify the appropriate DOE locations, and incorporate all routine uses. In addition, this Federal Register notice proposes new routine uses for existing systems of records and establishes seven new systems of records.

II. Proposed Amendments to Existing Systems of Records

DOE-1 Personnel and General Employment Records

This notice proposes to change the name of “DOE-1 Personnel and General Employment Records” to “DOE-1 Grievance Records.” The notice also will expand the categories of records maintained in the system and establish three new routine use provisions.

The system currently encompasses all personnel and general employment records for Federal employees at the DOE. With the exception of grievance records, the maintenance of general employment records in the system duplicates “OPM Gov't-1 Personnel Records,” the government-wide system of records of the Office of Personnel Management (OPM). Therefore, the Department will no longer maintain a system for these records.

The amended system will maintain only grievance records subject to the negotiated grievance process under DOE 3771.1, “Grievance Policy and Procedures.” The records in this system will be used by management officials in the resolution of employee concerns about working conditions, administration of collective bargaining agreements, employee-supervisor relations, work processes, or other similar issues.

The categories of records maintained in the system of records will include those records covered by the DOE and administrative grievance process and a negotiated grievance process, security clearance documents, management reports, witness statements, affidavits, checklists, and notes.

This notice also proposes to establish three new routine use disclosures for the system of records. The three proposed routine uses will allow disclosure of information maintained in the system (1) to union officials acting in their official capacity as a representative of the grievant or affected employees under 5 U.S.C. 7121; (2) to an appropriate Federal, State, or local agency that is authorized to review and resolve the issue(s) raised in the grievance; and (3) to another Federal agency, a court, or a party in litigation before a court or in an administrative proceeding being conducted by a Federal agency, when the Department is a party to the judicial or administrative proceeding. These routine uses are compatible with the purpose for which the information is being collected and maintained.

DOE-5 Personnel Records of Former Contractor Employees

This notice proposes to amend “DOE-5 Personnel Records of Former Contractor Employees” by establishing a new routine use disclosure pursuant to the Energy Employees Occupational Illness Compensation Program Act of 2000. The proposed routine use will allow disclosure of information maintained in the system to the Department of Health and Human Services, its contractors, grantees, and cooperative agreement holders, to estimate radiation doses and other workplace exposures received by Department of Energy federal and contractor employees. The Secretary of Health and Human Services and the Secretary of Energy shall each make available information to researchers and the general public on the assumptions, methodology, and data used in establishing radiation doses consistent with the protection of private medical records. Those provided information under this routine use are subject to the same limitations applicable to DOE officers and employees under the Privacy Act.

DOE-8 Intergovernmental Personnel Act (IPA) Contracts

This notice proposes to amend “DOE-8 Intergovernmental Personnel Act (IPA) Contracts” by expanding an existing routine use provision and modifying how the records are stored. Presently, records are maintained in paper medium. The storage of the records has been modified to include records maintained in an on-line database. Automation of the documents will improve the management of paper records. Access to records in the system is limited to those whose duties require access to the records and is completely password protected. Hard copies of the same records are stored in locked metal or office file cabinets.

This notice proposes to expand an existing routine use disclosure. Presently, information may be disclosed to State and local governments and institutions of higher education for the purpose of assigning individuals for temporary periods. The proposed routine use provision will be expanded to include disclosure of information to federally funded research and development centers. The proposed expanded routine use disclosure is compatible with the system's purpose to maintain information used to provide payments under the terms of the personnel agreements, and to provide employment histories and information for reports and program evaluations to a Federal agency in connection with the hiring or retention of an employee.

DOE-18 Accounts Payable Financial System

This notice proposes to amend the categories of individuals section to include contractor employees of the Agency who are due monies from the Department.

DOE-23 Property Accountability System

This notice proposes to amend the categories of individuals and the categories of records sections, and to add a new routine use disclosure. The categories of individuals will be expanded to include contractor employees of the Agency who are authorized to be custodians of controlled DOE equipment. The categories of records maintained in the system will be expanded to include information about the equipment such as date of purchase; cost price; purchase order number; property tag identification; status/date; condition of property; operation number; high risk field; and disposal code.

The proposed new routine use disclosure will allow the disclosure of information to a Federal agency, in response to its request, in connection with the hiring or retention of an employee, the issuance of security clearance, the reporting of an investigation of an employee, the letting of a contract, or the issuance of a license, grant, or other benefit by the requesting agency. A routine use disclosure will be made to the extent that the information is relevant and necessary to the requesting agency's decision on the matter.

The proposed new routine use disclosure is compatible with the system's purpose to provide inventories to satisfy other Federal Procurement Management Regulations (FPMR) requirements; to maintain records of the location of emergency equipment; to control equipment; to document assignments authorized under union contracts; to provide management information necessary for the budgeting and allocation of equipment; and to provide evidence of assignment, location, and value in the event that Government property is stolen.

DOE-24 Land Record System

This notice proposes to amend the system by establishing two new routine use provisions. The new routine uses will permit the disclosure of information to the Internal Revenue Service to provide notification of individuals who have received payment exceeding $600.00 on any one land right transaction, and disclosure to the Department of Justice to provide support of land right condemnation actions. These disclosures are compatible with the system's purpose to maintain and track land rights information resulting from property rights acquisitions, outgrants, licenses, transfers, exchanges, encroachments, disposals, and construction and maintenance programs.

DOE-25 Employee Parking Records

This notice proposes to change the name of “DOE-25 Employee Parking Records” to “DOE-25 U.S. Department of Energy Commuter Locator and Parking Space Information System.” This notice also proposes to amend the system of records by establishing a new routine use provision.

The proposed new routine use provision will permit the disclosure of information to the Council of Governments who will provide information about car pools and van pools to commuters seeking to make commuter connections. This disclosure is compatible with the system's purpose to maintain information of existing car pools, van pools, and other categories of parking for a current record of employees who commute to work.

DOE-26 Official Travel Records

This notice proposes to amend “DOE-26 Official Travel Records” by expanding the categories of individuals and categories of records sections, and to add a new routine use disclosure. The categories of individuals will be expanded to include individuals who relocate at the Department's expense. The categories of records maintained in the system also will be expanded to include charge card account numbers, residential sales records, and receipts.

The proposed routine use disclosure will allow transmittal of information maintained in the system of records to the General Services Administration for the audit of transportation services. The proposed new routine use disclosure is compatible with the system's purpose to document official domestic and foreign travel, relocation expenditures, foreign travel approval and reimbursement of allowable expenses.

DOE-33 Personnel Medical Records

This notice proposes to amend “DOE-33 Personnel Medical Records” by establishing a new routine use disclosure pursuant to the Energy Employees Occupational Illness Compensation Program Act of 2000. The proposed routine use will allow disclosure of information maintained in the system to the Department of Health and Human Services, its contractors, grantees, and cooperative agreement holders, to estimate radiation doses and other workplace exposures received by Department of Energy federal and contractor employees. The Secretary of Health and Human Services and the Secretary of Energy shall each make available information to researchers and the general public on the assumptions, methodology, and data used in establishing radiation doses consistent with the protection of private medical records. This routine use is compatible with the purpose for which the information is being collected and maintained. Those provided information under this routine use are subject to the same limitations applicable to DOE officers and employees under the Privacy Act.

DOE-34 Employee Assistance Program (EAP)

The DOE published for public comment in the Federal Register an amendment to an existing system of records on May 13, 1996. The amendment expanded the system's scope to include records on assistance on all behavioral problems or issues. The existing system covers only those records relating to counseling and referral services to resolve alcohol and/or drug counseling and records relating to referral services to resolve alcohol and/or drug abuse problems.

Records from this system will be used to provide information to the employee assistance program provider, program coordinator, and program evaluators to assist in the operation of the program. The information also will be provided to appropriate Departmental management officials regarding possible health, safety, or security risks.

The number of system locations was increased to include the offices of the Departmental service providers (counselors) when their offices are off-site. The categories of individuals covered also was amended to include former employees. The categories of records in the system now includes a detailed employee profile, interest inventory and/or psychological test results, issue inventory, case notes, consent/release forms, and psychological reports.

The new routine uses permit the disclosure of information maintained in the system of records to (1) the Department's contractors and their personnel who provide services to the Program who have a need for the records in the performance of their duties; (2) appropriate officials of law enforcement agencies, government and social service agency officials, and court officials if the employee is suspected of child, spousal, or elder abuse; (3) any person or entity to the extent necessary to prevent an imminent or potential crime that directly threatens loss of life or serious bodily injury; (4) qualified personnel for the purpose of conducting scientific research, management audits, financial audits, or program evaluation, but such personnel may not identify, directly or indirectly, any individual patient in any report, or otherwise disclose patient identities in any manner; and (5) the Department of Justice or other appropriate Federal agencies in defending claims against the United States, when the claim results from action against an individual based upon the individual's behavior or mental or physical condition, or is alleged to have arisen because of activities of any Federal agency in connection with the individual. These routine uses do not apply to records maintained in the system of records that pertain to alcohol and substance abuse that are subject to the more restrictive confidentiality constraints set forth at Title 42, United States Code, section 290 dd-2, and Title 42, Code of Federal Regulations, part 2.

The proposed notice published in 1996 also deleted the routine uses listed for the system in the Department's complete compilation of Privacy Act systems of records at 47 FR 14306, and subsequent Federal Register republications. All intended disclosures of information maintained in the system are included in the proposed routine uses to be established in this notice.

Response to Comment Received—One comment was received in response to the amendments to the system in 1996. The comment addressed the disclosure of records to the employee's supervisor when the employee waives confidentiality. The commenter opposed allowing an employee's supervisor access to EAP records under any circumstances. The commenter states that when a waiver of confidentiality has occurred, it is acceptable for an EAP provider to discuss information with a supervisor, but not to release records. DOE agrees with this comment and is revising the Purpose section of the system to address this comment. Accordingly, the Purpose section is revised to read as follows:

These records are used by the Department of Energy to maintain documentation on employees seeking assistance on behavioral problems or issues. Records from this system will be used to provide information to the employee assistance program provider, program coordinator, and program evaluators to assist the operation of the program. In cases of employee supervisor initiated referrals, information will be discussed with the employee's supervisor if the employee waives confidentiality, but documents will not be provided. The information also will be provided to appropriate Departmental management officials regarding possible health, safety, or security risks.

DOE-35 Personnel Radiation Exposure Records

This notice proposes to amend “DOE-35 Personnel Radiation Exposure Records” by establishing a new routine use disclosure pursuant to the Energy Employees Occupational Illness Compensation Program Act of 2000. The proposed routine use will allow disclosure of information maintained in the system to the Department of Health and Human Services, its contractors, grantees, and cooperative agreement holders, to estimate radiation doses and other workplace exposures received by Department of Energy federal and contractor employees. The Secretary of Health and Human Services and the Secretary of Energy shall each make available information to researchers and the general public on the assumptions, methodology, and data used in establishing radiation doses consistent with the protection of private medical records. This disclosure is compatible with the purpose for which the information is being collected and maintained. Those provided information under this routine use are subject to the same limitations applicable to DOE officers and employees under the Privacy Act.

DOE-41 Legal Files (Claims, Litigation, Criminal Violations, Patents, and Others)

This notice proposes to amend “DOE-41 Claims, Litigation, Criminal Violations, Patents, and Others” by modifying how the records are stored. Records now are maintained in paper medium. The storage section will be modified to include electronic generated records. Maintenance of electronic records improves the management of paper records by using current technology to reduce redundant processes, multiple copying, and misfiling of correspondence. Access to the records will be on a need to know basis. All records containing personal information will be maintained in secured file cabinets or in files accessible only by authorized personnel. Access doors will be locked when offices are vacant and access to computerized files is password protected.

DOE-43 Personnel Security Clearance Files

This notice proposes to amend “DOE-43 Personnel Security Clearance Files” by establishing a new routine use provision. The proposed new routine use will permit disclosure of information to competent medical authorities who, under a formal agreement for payment of services with the local DOE personnel security elements, conduct evaluations under 10 CFR part 710. These evaluations are conducted to determine whether an individual has an illness or mental condition of a nature that causes or may cause a significant defect in judgment or reliability, or is alcohol dependent or suffering from alcoholism.

DOE-46 Clearance Board Cases

This notice proposes to change the name of the system from “DOE-46 Clearance Board Cases” to “DOE-46 Administrative Review Files.” The proposed name reflects the administrative review proceedings that determine a DOE access authorization eligibility of an individual. The categories of individuals section has been revised to provide greater specificity about the individuals covered by the system. In addition, this notice more clearly identifies the records that are currently maintained in connection with the process established at 10 CFR part 710.

DOE-48 Security Education and/or Infraction Reports

This notice proposes to amend “DOE-48 Security Education and/or Infraction Reports” by modifying how the records are stored. Records now are maintained in paper medium. The storage section is being amended to include electronic records. Maintenance of electronic records and a database improves the management of paper records by using current technology and allows better tracking of security infractions issued and security training taken by individuals. Access is limited to employees with a need-to-know. Records are stored in secured areas.

DOE-49 Security Correspondence File

The last compilation of DOE's Privacy Act system of records was published on April 2, 1982. This publication included the system of records notice for DOE-49 Security Correspondence File. On November 27, 1998, this system of records was inappropriately deleted from DOE's inventory. For this reason, the DOE is republishing “DOE-49 Security Correspondence File.” This notice proposes to change the name to “DOE-49 Security Communications File” and to amend how the records are stored.

The records are being compiled by DOE as part of it's efforts to adequately carry out its physical security responsibilities by creating and maintaining profiles of all individuals who have made threats of any kind, and through any medium, against DOE officials, DOE employees, DOE contractor employees, DOE facilities and/or DOE buildings. Information maintained in the system will consist of threat correspondence received from individuals, as well as individuals who have been identified from articles in the new media as being potential threats to the Department, its employees, and facilities. The records will consist of information obtained from the subject individual, complainants, witnesses, agency files and records, official federal, state or local records and publicly available information. The records will be stored as paper records, microfiche, and electronic media.

The system is being establish under the authority vested in the Secretary contained in 42 U.S.C. 7101 et seq., and 52 U.S.C. 2401 et seq. The system also will satisfy the requirements of E.O. 12958, “Classified National Security Information” (April 17, 1995).

The system will be exempt from subsections (k)(1), (k)(2), and (k)(5) of the Privacy Act, to the extent that information within the System meets the criteria of those subsections of the Act. Such information has been exempted from the provisions of subsections (c)(3), (d), and (e)(1) of the Act; see the Department's Privacy Act regulation at 10 CFR 1008.12(b). The DOE Privacy Act regulation has been amended to allow these exemptions.

DOE-50 Personnel Assurance Program Records

This notice proposes to amend “DOE-50 Personnel Assurance Program Records” by modifying how the records are stored. Presently, records are maintained in paper medium. The storage section is being amended to include computer database files. Maintenance of electronic records improves the management of paper records by using current technology to provide greater access to the records. Access is limited to those employees with a need-to-know. All records are stored in locked file cabinets in secured buildings.

DOE-51 Employee Visitor and Access Control Records

This notice proposes to amend “DOE-51 Employee Visitor and Access Control Records” by expanding the categories of individuals section, expanding an existing routine use provision, and modifying how the records are stored. The section for categories of individuals also will include DOE contractor employees seeking access to DOE facilities and classified records.

This notice also proposes to expand an existing routine use disclosure. Presently, records may be disclosed to the Department of Defense to authorize access to classified information and areas. This proposed routine use will be amended to include disclosure of information to the National Aeronautics and Space Administration. The proposed routine use disclosure is compatible with the system's purpose to control access to Departmental facilities to those with proper identification.

This notice also proposes to amend the system by modifying how the records are stored. Presently, records are maintained in paper medium. The storage section is being amended to include an automated database. The database may contain the clearance history of an individual, access identification information, and photographs. Maintenance of electronic records improves the management of paper records by using current technology to provide greater access to the records. Access is limited to employees with a need-to-know. Records are stored in a secure area.

DOE-52 Alien Visits and Participation

This notice proposes to amend the system and change the name from “DOE-52 Alien Visits and Participation” to “DOE-52 Access Control Records of International Visits, Assignments, and Employment at DOE Facilities and Contractor Sites.” The categories of individuals and the categories of records sections are more detailed. They are amended to more clearly identify the individuals and records covered by the system. In addition, the locations where the records are maintained have been expanded to include all DOE facilities and contractor facilities.

The storage section is being amended to include files on electronic media. Maintenance of electronic records improves the management of paper records by using current technology. In addition, it provides greater access to the records and improves the tracking of security infractions and security training. Access is limited to employees with a need-to-know.

DOE-55 Freedom of Information Act and Privacy Act (FOIA/PA) Requests for Records

This notice proposes to amend “DOE-55 Freedom of Information and Privacy Act (FOIA/PA) Requests for Records” by expanding the section of categories of records, establishing two new routine use provisions, and modifying how the records are stored.

The categories of records section is being amended to include the identity of the FOIA/PA Division analyst assigned to process requests and case notes for requests.

The new routine uses permit disclosures of information maintained in the system to another Federal agency to consult on or refer requests for processing, and to a Federal agency, court of law, or party in litigation or administrative proceeding challenging or seeking to enjoin actions by the Department under the FOIA or PA. This new routine use is compatible with the system's purpose to determine the actions taken on FOIA and PA requests to produce statistical reports and for case management.

This notice also will amend how records are stored and retrieved. Records now are stored in paper and microfiche media. Records will be stored in an optical imaging system database, where records are scanned and stored in an electronic media. Records include video, audio, and electronic media files. Maintaining information electronically will improve the management of the records and is in compliance with the Electronic Freedom of Information Act Amendments to the FOIA. Information will be retrieved by name and case number. Computerized files are password protected, and paper records are stored in locked metal file cabinets. Access to the records will be limited to a need-to-know basis.

DOE-56 Congressional Constituent Inquiries

The notice proposes to amend “DOE-56 Congressional Constituent Inquiries” by establishing two new routine use disclosures. This notice will allow records to be disclosed to another Federal agency when consultation or referral is required to process the request. In addition, records from this system may be disclosed to members of Congress on behalf of their constituents, and to the Department's contractors in performance of their contracts and their officers and employees who have a need for the record to perform their duties. These parties will be subject to the same limitations applicable to the Department's officers and employees under the Privacy Act. The new routine uses are compatible with the system's purpose to track inquiries by members of Congress on behalf of constituents, to ensure proper document control of the response, and to record the Department's responses to such inquiries.

This notice also will amend how the records are stored. Records now will include electronic records. Maintaining information electronically will improve the management of executive correspondence in the Department using current technology to reduce redundant processes, multiple copying, and misfiling of correspondence. Access to the records is limited to a need-to-know basis. The records are password protected.

DOE-57 Congressional Profiles

Records from this system will be used by DOE personnel, particularly those in the Office of Congressional Affairs, who need to be informed about energy issues of interest to members of Congress and to have available minimal biographical information on each member and the member's district or State. Maintaining the information will enable DOE to be better informed and more responsive in its interactions with Congress. For this reason, DOE will collect and maintain publicly available information derived from information releases by members' offices, abstracts from the Congressional Record, committee hearings, and other published or public sources. This information will be maintained by the name of each individual member of the current Congress.

The storage of these records was previously reported as paper records and computer printouts. This notice will amend and modify this section of the systems notice to include storage of the records on electronic format.

DOE-58 General Correspondence Files of the Office of the Secretary of Energy

Records in this system consist of correspondence written to the Secretary, Deputy Secretary, and Under Secretary of Energy. The system of records has been amended to expand the categories of individuals who are covered by the system to include all individuals who communicate by letter with the Secretary, Deputy Secretary, and Under Secretary. This section will include members of Congress, representatives of organizations, other Federal and state agencies, and the general public.

At present, the records maintained in the system are only paper records. This notice proposes to amend the storage section of the system to include databases and electronic images. The records will be stored in an optical imaging system database, where records are scanned and stored in an electronic medium. Maintaining information electronically will improve the management of executive correspondence in the Department using current technology to reduce redundant processes, multiple copying, and misfiling of correspondence. The records are password protected. Access to the records is limited to a need-to-know basis.

DOE-62 Historical Files—Published Information Concerning Selected Persons in the Energy Field

The History Division in the Office of the Executive Secretariat of the DOE is responsible for assembling significant materials about the history of the Federal role in energy development in the United States. In furtherance of this function, published information from newspaper and magazine articles, press releases, announcements, and speeches is collected and maintained about individuals who are prominently involved in historic events of interest to the energy community. These materials are used to prepare official histories and to respond to specific requests for historical information.

The previously published notice described one routine use disclosure to members of the public and media. This notice will amend the system by adding three proposed new routine use disclosures. The proposed new routine use disclosures will permit disclosure of information (1) to another Federal agency when consultation or referral is required to process requests; (2) to a congressional office submitting a request or inquiring about a request on behalf of a constituent who is the subject matter of the record; and (3) to DOE contractors to perform their duties in accordance with the same limitations applicable to the DOE officers and employees under the Privacy Act. These proposed routine uses are compatible with the purpose of preparing histories to respond to informational inquiries from members of the public and from DOE officials.

DOE-71 The Radiation Accident Registry

This notice proposes to amend “DOE-71 Radiation Accident Registry” by establishing a new routine use disclosure pursuant to the Energy Employees Occupational Illness Compensation Program Act of 2000. The proposed routine use will allow disclosure of information maintained in the system to the Department of Health and Human Services, its contractors, grantees, and cooperative agreement holders, to estimate radiation doses and other workplace exposures received by Department of Energy and contractor employees. The Secretary of Health and Human Services and the Secretary of Energy shall each make available information to researchers and the general public on the assumptions, methodology, and data used in establishing radiation doses consistent with the protection of private medical records. This disclosure is compatible with the purpose for which the information is being collected and maintained.

DOE-72 The DOE Radiation Study Registry

This notice proposes to amend “DOE-72 The DOE Radiation Study Registry” by establishing a new routine use disclosure pursuant to the Energy Employees Occupational Illness Compensation Program Act of 2000. The proposed routine use will allow disclosure of information maintained in the system to the Department of Health and Human Services, its contractors, grantees, and cooperative agreement holders, to estimate radiation doses and other workplace exposures received by Department of Energy Federal and contractor employees. The Secretary of Health and Human Services and the Secretary of Energy shall each make available information to researchers and the general public on the assumptions, methodology, and data used in establishing radiation doses consistent with the protection of private medical records. This disclosure is compatible with the purpose for which the information is being collected and maintained.

DOE-73 The US-DPTA Registry

This notice proposes to amend “DOE-73 The US-DPTA Registry” by establishing a new routine use disclosure. The proposed routine use will allow disclosure of information maintained in the system to the Department of Health and Human Services, its contractors, grantees, and cooperative agreement holders, pursuant to the Energy Employees Occupational Illness Compensation Program Act of 2000, to estimate radiation doses and other workplace exposures received by Department of Energy Federal and contractor employees. The Secretary of Health and Human Services and the Secretary of Energy shall each make available to researchers and the general public information on the assumptions, methodology, and data used in establishing radiation doses consistent with the protection of private medical records. This disclosure is compatible with the purpose for which the information is being collected and maintained.

DOE-84 Counterintelligence Investigations

The DOE, as the successor agency to the Atomic Energy Commission, has broad responsibilities under the Atomic Energy Act (AEA) to direct the development, use, and control of atomic energy. These responsibilities include a specific mandate to protect sensitive and classified information and materials involved in the design, production, and maintenance of nuclear weapons, and a general obligation to ensure that permitting an individual to have access to information classified under the AEA will not endanger the nation's common defense and security. As an element of carrying out its national security mission, the DOE has instituted a more rigorous counterintelligence program to strengthen its protection of information and technologies in connection with DOE's atomic energy defense activities. This stronger counterintelligence program has emphasized selection and training of field counterintelligence personnel; counterintelligence analysis; counterintelligence and security awareness; protections against potential insider threats; computer security; improved coordination with the Federal Bureau of Investigation (FBI), the Central Intelligence Agency (CIA), and the National Security Agency (NSA); and the establishment of a counterintelligence evaluation program to include a counterintelligence-scope polygraph examination.

At 64 FR 70962 on December 17, 1999, the DOE published a final rule for the use of counterintelligence-scope polygraph examinations for certain DOE Federal and contractor employees, applicants for employment, and other individuals assigned or detailed to Federal positions at DOE. See 10 CFR part 709. The DOE now requires counterintelligence-scope polygraph examinations for individuals in positions with access to the most sensitive and classified information and materials in connection with DOE's atomic energy defense activities as a necessary, prudent measure to fulfill DOE's national security responsibilities.

An additional part of DOE's enhanced counterintelligence program is the establishment of a pilot program to monitor and analyze selected outgoing and incoming electronic mail (e-mail) from the DOE Sandia National Laboratories, Los Alamos National Laboratory, Lawrence Livermore National Laboratory, and Pacific Northwest National Laboratory, which are engaged in nuclear weapons design or work involving special nuclear material. The purpose of the pilot project at the national laboratories is to test whether e-mail monitoring is an effective device to address threats to DOE assets by foreign governments, groups, organizations or persons that attempt to gather classified and other protected information through e-mail communications with DOE Federal and contractor personnel.

In accordance with the Privacy Act, 5 U.S.C. 552a, DOE proposes to amend “DOE-84, Counterintelligence Investigative Records” by expanding the categories of records section and categories of individuals section. The amendment will expand the categories of records section to include hard copy as well as electronic versions of investigative reports, evaluations records, polygraph examination records and videotapes of polygraph sessions, and compact disks of e-mail.

In addition, as a result of the implementation of the DOE counterintelligence evaluation program to include the counterintelligence-scope polygraph examination, the categories of individuals section covered by the system also will be expanded to include employees and applicants for employment with DOE and its contractors (including subcontractors at all tiers), and individuals who may be assigned or detailed to Federal positions at DOE. There are eight program categories covered by the polygraph examination regulation. These include positions that DOE has determined include counterintelligence activities or access to counterintelligence sources and methods; positions requiring access to Sensitive Compartmented Information; positions requiring access to non-intelligence Special Access Programs; positions subject to the Personnel Assurance Program (PAP) or Personnel Security Assurance Program (PSAP); positions with a need-to-know or access to information specifically designated by the Secretary regarding the design and operation of nuclear weapons and associated use and control features; positions within the Office of Independent Oversight and Performance Assurance, or any successor thereto, involved in inspection and assessment of safeguards and security functions, including cyber-security, of the Department; and positions within the Office of Security and Emergency Operations, or any successor thereto. The categories of individuals also will include those individuals who voluntarily request a polygraph examination in order to respond to questions that have arisen in the context of a counterintelligence investigation. These last examinations are referred to as exculpatory polygraph examinations. The categories of individuals also will be expanded as a result of the e-mail analysis pilot project to include users of the e-mail systems at the Sandia National Laboratories, Los Alamos National Laboratory, Lawrence Livermore National Laboratory, and Pacific Northwest National Laboratory.

Hard copy and electronic versions of investigative records and counterintelligence evaluation records, except polygraph records and videotape and e-mail records, contained in this system of records may be maintained at DOE Headquarters or other DOE sites listed below. The polygraph records and videotapes will be maintained only at the DOE Test Center, Albuquerque, NM, 87106, and at DOE, Headquarters, 1000 Independence Avenue, SW., Washington, DC 20585. The records will be stored as paper records, electronic records, and videotapes. The polygraph records are safeguarded in locked cabinets and electronic records are password protected. Access is limited to authorized staff only.

The e-mail records will be maintained only at the DOE Sandia National Laboratories, Los Alamos National Laboratory, Lawrence Livermore National Laboratory, Pacific Northwest National Laboratory, and at DOE Headquarters, 1000 Independence Avenue, SW., Washington, DC 20585. The records will be stored as electronic records on compact disks. The e-mail records are safeguarded in locked cabinets, and access is limited to authorized staff only.

The polygraph examinations are authorized by the National Defense Authorization Act of Fiscal Year 2000, Pub. L. 106-65 section 3154; the Employee Polygraph Protection Act, Pub. L. 100-347; 29 U.S.C. 2006 (b)(1)(B); Executive Order 12958, Classified National Security Information (April 17, 1995); Executive Order 12968, Access to Classified Information (August 2, 1995); and Presidential Decision Directive-61.

The pilot e-mail analysis project is authorized by the Electronic Communications Privacy Act, Pub. L. 99-508, 18 U.S.C. 2510 et seq., Executive Order 12333, and the DOE Procedures for Intelligence Activities.

DOE-88 Epidemiologic and Other Health Studies, Surveys and Surveillances

This notice proposes to amend “DOE-88 Epidemiologic and Other Health Studies, Surveys and Surveillances” by establishing a new routine use disclosure pursuant to the Energy Employees Occupational Illness Compensation Program Act of 2000. The proposed routine use will allow disclosure of information maintained in the system to the Department of Health and Human Services, its contractors, grantees, and cooperative agreement holders to estimate radiation doses and other workplace exposures received by Department of Energy Federal and contractor employees. The Secretary of Health and Human Services and the Secretary of Energy shall each make available information to researchers and the general public on the assumptions, methodology, and data used in establishing radiation doses consistent with the protection of private medical records. This disclosure is compatible with the purpose for which the information is being collected and maintained.

III. Discussion of New Systems of Records

DOE-3 Employee Concerns Program Records

The Department of Energy (DOE) proposes to establish a new system of records entitled “DOE-3 Employee Concerns Program Records.” The DOE recognizes that free and open expression pertaining to the concerns of DOE Federal and contractor and subcontractor employees is essential to accomplishing DOE's mission. The employees have the right and responsibility to report concerns relating to the environment, safety, health, or management of Department operations. The Employee Concerns Program is designed to encourage open communication; inform employees of the proper forum for consideration of their concerns; ensure employees can raise issues without fearing reprisal; address employee concerns in a timely and objective manner; and provide employees an avenue for consideration of concerns that fall outside existing systems.

The categories of records maintained in the system will include concerns or complaints brought to the attention of the appropriate Employee Concerns Program office. This can include the receipt of complaints filed under 10 CFR part 708, Department of Energy Contractor Employee Protection Program, informal complaints; names; social security numbers; work and home address and telephone numbers; job titles; job series; grade or pay levels; organization; supervisor names and telephone numbers; copies of employee records such as personnel actions; performance appraisals; pay and leave records and security clearance documents; management reports; witness statements; affidavits; checklists; and notes. The records maintained in this system will be used by the Department Employee Concerns Program offices to document concerns brought to their attention and to assist in the resolution of concerns about various work-related issues including the environment, safety, health, employer-supervisor relationships, or work processes and practices.

The records will be maintained at all Department Employee Concerns Program offices at DOE Headquarters and Field offices. The categories of individuals covered will include current and former DOE employees, and current and former DOE contractor and subcontractor employees who have filed appropriate concerns.

This system proposes five new routine use disclosures. The five proposed routine uses will allow disclosure to designated representatives, including union or legal representatives, acting in their official capacity on behalf of the employee raising a concern or complaint; to a member of Congress or their staff when submitting a request involving a constituent and the constituent has requested assistance with respect to the subject matter of the record; to an appropriate Federal, State or local agency that is authorized to review and resolve or assist in the resolution of the concern or complaint; to another Federal agency; to a court, or a party in litigation before a court or in an administrative proceeding being conducted by or at the request of the Department or another Federal agency; and to a contractor or subcontractor of the Department that is authorized or responsible to review and resolve the issue(s) raised in the concern or complaint, including a mediator, facilitator, or arbitrator. These routine uses are compatible with the purpose of the system enabling the Department to document and resolve employee concerns about environmental, safety and health issues, employee-supervisor relations, work processes and practices, and other work-related issues.

The DOE proposes to exempt this system from subsections (k)(1), (2), and (5) of the Privacy Act, 5 U.S.C. 552a, to the extent that information within the system meets the requirements of those subsections of the Act. The system will further be exempted from subsections (c)(3), (d), and (e)(1) of 5 U.S.C. 552a to the extent the information in this system of records is exempt pursuant to 5 U.S.C. 552a(k)(1), (2), and (5). See DOE Privacy Act Regulation at 10 CFR part 1008.12(b). The DOE Privacy Act regulation will be amended to allow these exemptions by publishing a separate proposed rulemaking under RIN: 1901-AA69.

The records in this system will be stored both in paper hard copy and in an automated database.

DOE-4 EIA-Form 457 Residential Energy Consumption Survey

On April 20, 1983, the DOE established a new system of records entitled “EIA Residential Energy Consumption Survey” (RECS). This system of records was grouped with an existing system of records “DOE-67 Participants in Experiments Studies and Surveys” and published as Subsystem C “EIA Residential Energy Consumption Survey” at 48 FR 16959. On November 27, 1998, DOE-67 and all of its subsystems were inappropriately deleted at 63 FR 65575. Documents within Subsystem C, are still required and maintained by the Energy Information Administration (EIA).

For this reason, the DOE is republishing the portion of DOE-67 that covered records maintained in Subsystem C. This notice proposes to change the name to “DOE-4 EIA-Form 457 Energy Survey Report—Residential Energy Consumption Survey (RECS).”

Data is collected by the EIA to satisfy the needs of the U.S. Government, State governments, industry, and the public for information at the national and sub-national levels on the consumption of and expenditures for fuels used by American homes. The data includes energy-related housing characteristics, appliance use, thermal characteristics of the housing unit, household vehicles, conservation measures taken by the household, demographic features of the household and weather conditions. The EIA disseminates this data through published reports used by a wide range of public and private groups, special statistical reports to U.S. Government agencies, and distribution of the basic data on computer data files properly edited to protect the identity of the household.

The data in the system of records will be collected by Roper Starch Worldwide, Inc. The information will be used by government and private groups for monitoring, modeling, and policymaking about energy use in U.S. households. In order to preserve the confidentiality of the data and to protect the privacy of the respondents, no individually identifiable data will be released.

DOE-6 EIA Customer Database

The DOE is proposing to establish a new system of records entitled “DOE-6 EIA Customer Data Base.” The EIA of the DOE is developing a program to gather data about its products and services provided to its customers. The data collection pertains largely to companies that request energy related information. However, there are occasions when private citizens request energy related information. The EIA will collect and maintain the names of its customers, business addresses and telephone numbers, description of information requested, and description of service(s). This data will be analyzed and evaluated by EIA staff personnel to account for orders and subscriptions and to better understand the needs and interests of its customers. The data may be retrieved under categories of records. The information will be maintained in computer programs and accessible to password holders in secured offices.

The system is being established under the authority vested in the Secretary contained in 42 U.S.C. 7101 et seq. and 50 U.S.C. 2401 et seq. The records also are maintained to better understand, control, and prepare for the work flow of the office and meeting the customers' needs. As a result, DOE does not believe the maintenance of this system will have any substantial effect on the privacy and other personal or property rights of the subject individuals. Access is restricted to authorized management personnel on a need-to-know basis.

DOE-7 Whistleblower Investigation, Hearing, and Appeal Records

DOE proposes to establish a new system of records entitled “DOE-7 Whistleblower Investigation, Hearing, and Appeal Records.” The records are being compiled by DOE as part of the Department's efforts to resolve whistleblower complaints, made by employees of DOE and by DOE contractors, at the investigatory, hearing, and appeal stages of a proceeding, for which the Office of Hearings and Appeals bears the responsibility. See Title 10, Code of Federal Regulations, part 708. These records will consist of information gathered, recorded, or processed in the course of the investigation of an allegation of acts of reprisal taken against a DOE employee or DOE-contractor employee who claims to have made a protected disclosure, as defined in those regulations, or in the course of a subsequent hearing or appeal. These records do not include the informal handling of whistleblower concerns in the Department's various Employee Concerns offices, nor files maintained at the Office of the Deputy Secretary concerning appeals from determinations made by the Director of the Office of Hearings and Appeals.

Information in the system will include whistleblower reprisal complaints; names and other identifying information about whistleblowers, their co-workers, their supervisors, and other individuals; employment records such as personnel actions and performance appraisals; witness statements and affidavits; notes taken by employees of the Office of Hearings and Appeals; reports of investigation; and correspondence related to the processing of the complaints.

The proposed new system will pertain to DOE employees and DOE-contractor employees who file reprisal complaints. Although the records contained in this system will be protected from disclosure in accordance with the provisions of the Privacy Act, the identity of the employee will be made known to his or her employer, because that entity will be provided with a copy of the complaint. See 10 CFR 708.11. Moreover, decisions, opinions, reports of investigation, orders and other determinations that the Office of Hearings and Appeals issues concerning such complaints are public documents and are published, along with our other decisions and orders, in a looseleaf service entitled Federal Energy Guidelines, as well as on the Office's website, the current address of which is http:/www.oha.doe.gov.

DOE proposes to exempt this system from subsections (k)(1), (2), and (5) of the Privacy Act, 5 U.S.C. 552a, to the extent that information within the system meets the requirements of those subsections of the Act. The system will further be exempted from subsections (c)(3), (d), and (e)(1) of 5 U.S.C. 552a to the extent the information in this system of records is exempt pursuant to 5 U.S.C. 552a(k)(1), (2), and (5). See DOE Privacy Act Regulation at 10 CFR 1008.12(b). The DOE Privacy Act regulation will be amended to allow these exemptions by publishing a separate proposed rulemaking under RIN: 1901-AA69.

DOE-10 Worker Advocacy Records

The Energy Employees Occupational Illness Compensation Program Act of 2000 (hereinafter the “Act”), Pub. L. 106-398, provides that DOE assist workers with occupational illnesses to file State workers' compensation claims. DOE contractor employees with occupational illnesses that are not covered under the Federal program created by the Act can apply to the DOE Office of Worker Advocacy for help in obtaining State workers' compensation benefits. Under this effort, DOE will forward a worker's application to an independent panel of physicians appointed by the Secretary of Health and Human Services. The panel will determine whether the employee's illness or death was due to exposure to a toxic substance at a DOE facility. Based on a determination of work-relatedness, the Office of Worker Advocacy could assist the employee with a State claim for benefits, and DOE contractors would be directed not to contest claims before the State.

To adequately carry out the responsibilities given to DOE under the Act, the Office of Worker Advocacy will collect and maintain several types of records, e.g. medical records, employment records, to assist current and former DOE contractor employees or their families with the filing of State workers' compensation claims for conditions that may be due to exposures during employment by or for DOE. The assistance provided by this Office may include, but is not limited to the following: (1) Maintaining a helpline; (2) conducting outreach and educational programs; (3) providing referral assistance; and (4) case review. Although the primary focus is on DOE contractor employees, assistance may be provided to DOE Federal employees and employees of other agencies by directing them to the appropriate compensation programs, such as the Federal Employees Compensation Act program administered by the Department of Labor.

Individually identifiable information will not appear in published or unpublished reports, studies, or surveys. The system, however, will contain records compiled to complete published or unpublished reports, studies, or surveys from which information may be retrieved by name or other personal identifier. Non-identifiable information regarding the assumptions, methodology, and data used in establishing radiation doses under section 3623(d) of the Energy Employees Occupational Illness Compensation Program Act of 2000 will be made available to researchers and the general public, consistent with the protection of private medical records.

DOE-12 Automated Materials and Property Systems (AMPS)

The DOE is proposing to establish a new system of records entitled “DOE-12, Automated Materials and Property Systems (AMPS).” The Department has established a Working Capital Fund (WCF) that charges benefitting programs and organizations for certain administrative and housekeeping activities traditionally funded in a central account. One of the activities is a central supply service for stock and non-stock supplies and equipment that are maintained to meet in whole or in part the requirements of the Department.

The AMPS will be used by the DOE to control the incoming and outgoing expendable supplies that are used by DOE Headquarters employees to perform their work. The system will maintain inventories and costs of all supply products; records on quantities of supplies at the warehouse and all self service stores; prices for all of the items in each location; and point of sale transactions at all locations. Receipts will be generated that provide information about purchasers from their DOE identification badges. Reports will be created to provide usage, trends, customers, dates of purchases, and other related information. This information is provided to the WCF for billing DOE program offices. The WCF issues bills to Headquarters program offices for both stock and non-stock supplies that were purchased for use by their employees.

DOE-15 Intelligence Related Access Authorization

The DOE is proposing to establish a new system of records entitled “DOE-15 Intelligence Related Access Authorization.” This system will consist of administrative records concerning DOE Federal and contractor employees, consultants and certain other persons applying for, granted, or denied access to certain categories of classified information. The purpose of the system is to satisfy the requirements of Executive Order 12333, “United States Intelligence Activities,” Executive Order 12958, “Classified National Security Information” (April 17, 1995); Executive Order 12968, “Access to Classified Information” (August 2, 1995); Presidential Decision Directive-61, U.S. Department of Energy Counterintelligence Program, the DOE Procedures for Intelligence Activities, and DOE Order 5670.1A, Management and Control of Foreign Intelligence. Under DOE Order 5670.1A, the Director of the Office of Intelligence is directed to control access to and use of Sensitive Compartmented Information (SCI) and other classified intelligence information bearing the Director, Central Intelligence (DCI), authorized control markings, and to approve access to SCI in compliance with DCI directives. The proposed system will contain information necessary for the Director, IN, to conduct eligibility determinations, adjudications, revocations, and appeals from denials and revocations. The system is being established under the authority vested in the Secretary contained in 42 U.S.C. 7101 et seq. and 50 U.S.C. 2401 et seq. Access will be limited to authorized staff only.

The DOE proposes to exempt this system from subsections (k)(1), (2), and (5) of the Privacy Act, 5 U.S.C. 552a, to the extent that information within the system meets the requirements of those subsections of the Act. The system will further be exempted from subsections (c)(3), (d), and (e)(1) of 5 U.S.C. 552a to the extent the information in this system of records is exempt pursuant to 5 U.S.C. 552a(k)(1), (2), and (5). See DOE Privacy Act Regulation at 10 CFR Part 1008.12(b). The DOE Privacy Act regulation will be amended to allow these exemptions by publishing a separate proposed rulemaking under RIN: 1901-AA69.

The seven proposed new systems identified above have been assigned reserve numbers that were previously assigned to systems of records that have been deleted or are being deleted with this notice.

IV. Discussion of Deletion Notices

During the review process of the systems of records established by DOE under the Privacy Act, DOE identified 35 record systems for deletion. These record systems either duplicate other governmental or departmental record systems, were obsolete, or were not record systems subject to the Privacy Act. The published notice of these deleted systems can be found at 47 FR 14285, April 2, 1982; 62 FR 61497, November 18, 1997; and 63 FR 65575, November 27, 1998. This notice also deletes nine additional DOE internal record systems.

We have determined that information maintained in six systems of records is no longer collected or maintained. These systems are “DOE-12 Nationwide Traineeship Reporting System'; “DOE-22 Plant Services History”; “DOE-47 Security Investigation Records”; “DOE-65 Energy Extension Service Records'; “DOE-76 California, Utah, and Nevada Milk Directory”; and “DOE-87 Human Radiation Helpline Records.”

DOE-40 Contractor Employee Insurance Claims” currently covers Federal employees who sustain injuries while working on the job. It is not necessary for the DOE to maintain a record system of this type since these records are covered by the government-wide system DOL/GOV't-1 “Office of Workers” Compensation Programs, Federal Employees' Compensation Act File” that is administered by the Department of Labor.

Information maintained in “DOE-74 Bonneville Power Administration Conservation Program” is retrieved by company or utility name and, therefore, does not constitute a Privacy Act system of records.

Information maintained in “DOE-78 Pacific Northwest Residential Energy Survey” is retrieved by company or utility name and, therefore, does not constitute a Privacy Act system of records.

Information maintained in “DOE-27 Foreign Travel Records” duplicates information in a DOE internal system, “DOE-26 Official Travel Records.”

The following is a listing of all the record systems that DOE identified or has deleted from the Department's inventory of systems of records.

A. Obsolete

DOE-6

System Name:

Report of Consultants to DOE Contracts (Deleted November 18, 1997).

DOE-7

System Name:

Applications and Reference Checks for Overseas Employment with International Atomic Energy Agency (IAEA) (Deleted November 18, 1997).

DOE-12

System Name:

Nationwide Traineeship Reporting System (Deleted with this notice).

DOE-15

System Name:

Payroll and Pay Related Data for Employees of Terminated Contractors (Deleted November 27, 1998).

DOE-17

System Name:

Certificates of Eligibility for FHA Insured Loans (Deleted November 18, 1997).

DOE-22

System Name:

Plant Services History (Deleted with this notice).

DOE-29

System Name:

Technology Training Program—Skill Training at Technician Level (Deleted November 18, 1997).

DOE-30

System Name:

Nuclear Qualification Examination Records (Deleted April 2, 1982).

DOE-32

System Name:

Government Motor Vehicle Operator Records (Deleted November 27, 1998).

DOE-39

System Name:

Labor Standards Complaints & Grievances (Deleted November 27, 1998).

DOE-47

System Name:

Security Investigation Records (Deleted with this notice).

DOE-63

System Name:

Electric Rate Demonstration Data Base (Deleted April 2, 1982).

DOE-64

System Name:

Low-Income Weatherization Program Home Report Records (Deleted November 18, 1997).

DOE-65

System Name:

Energy Extension Service Records (Deleted with this notice).

DOE-68

System Name:

Minority Energy Technical Assistance Program (METAP) Records (Deleted November 18, 1997).

DOE-76

System Name:

California, Nevada, and Utah Milk Directory (Deleted with this notice).

DOE-78

System Name:

Clinch River Breeder Reactor Plant Work Force Survey (Deleted with this notice).

DOE-79

System Name:

Clinch River Breeder Reactor Plant Work Force Survey (Deleted November 27, 1998).

DOE-80

System Name:

Quality Assurance Training and Qualification Records (Deleted April 2, 1982).

DOE-87

System Name:

Human Radiation Helpline Records (Deleted with this notice).

B. Duplicates Other Systems of Records

DOE-3

System Name:

DOE Personnel Appraisal and Development Records (Deleted November 18, 1997. This system duplicates Office Personnel Management OPM/Gov't-2).

DOE-4

System Name:

Applications for DOE Employment (Deleted November 18, 1997. This system duplicates Office of Personnel Management OPM/Gov't-5).

DOE-10

System Name:

Office of General Counsel Time and Accountability Reports (Deleted November 27, 1998. This system duplicates DOE-13 Payroll and Leave Records).

DOE-16

System Name:

Reports of Financial Interest (Deleted November 18, 1997. This system duplicates Office of Government Ethics OGE/Gov't-1 and OGE/Gov't-2).

DOE 27

System Name:

Foreign Travel Records (Deleted with this notice. This system duplicates DOE internal system DOE-26 “Official Travel Records”).

DOE-36

System Name:

Statistical Analysis Using Personnel Security Questionnaire (Deleted November 18, 1997. This system duplicates DOE-88 “Epidemiologic and Other Health Studies, Surveys and Surveillances”).

DOE-37

System Name:

Equal Employment Opportunity Complaint Files (Deleted November 18, 1997. This system duplicates Equal Employment Opportunity Commission EEOC/Gov't-1).

DOE-40

System Name:

Contractor Employee Insurance Claims (Deleted with this publication notice. This system duplicates the Department of Labor DOL/Gov't-1 Office of Workers' Compensation Program Federal Employees' Compensation Act File).

DOE-42

System Name:

Personnel Security Clearance Index (Deleted November 27, 1998).

DOE-67

System Name:

Participants in Experiments Studies, and Surveys (Deleted November 27, 1998).

DOE-69

System Name:

Residential Solar Water Heating Workshops Pilot Program Records (Deleted November 18, 1997).

DOE-70

System Name:

Electricity Uses and Conservation Analysis Records (Deleted November 18, 1997).

C. Not Retrieved by Name or Personal Identifiers

DOE-20

System Name:

Imprest Fund and Cashiers (Deleted November 18, 1997).

DOE-74

System Name:

Bonneville Power Administration Conservation Program (Deleted with this notice).

V. Comment Procedures

As provided by section 3(e)(11) of the Privacy Act of 1974, interested persons are invited to submit written data, views or comments related to these proposals to the U.S. Department of Energy, FOIA and Privacy Act Division, MA-73, 1000 Independence Avenue, SW., Washington, DC 20585. “Comments” should be written on the outside of the envelope and on the documents submitted to DOE with the designation “Department of Energy Privacy Act Systems of Records Proposals.” These comments and all other relevant information will be considered by DOE before the various proposals are adopted in their final form.

If no comments to the contrary are received with respect to a particular proposed system, it is the intent of the DOE to operate any such system as proposed at the expiration of the 45-day advance notice period for informing Congress and OMB of proposed new systems as defined in OMB Circular A-130.

The DOE is submitting the Reports on New Systems and Amended Systems required by OMB Circular A-130 concurrently with publication of the Federal Register Notice.

In consideration of the foregoing, the measures described above are proposed. Set forth below is the compilation of the DOE Privacy Act Systems of Records that includes a Table of Contents and the text of the individual systems of records.

Issued in Washington, DC on May 2, 2001.
Richard H. Hopf,
Acting Director, Office of Management and Administration.

VI. Table of Contents of All DOE Systems of Records as Adopted or Proposed

DOE-1 Grievance Records

DOE-2 Supervisory Maintained Personnel Records

DOE-3 Employee Concern Program Records (Proposed New System—DOE Assigned Number Is Being Re-issued)

DOE-4 Consumption Survey (RECS) (Proposed New System—DOE Assigned Number is Being Re-issued)

DOE-5 Personnel Records of Former Contractor Employees

DOE-6 EIA Consumer Data Base (Proposed New System—DOE Assigned Number is Being Re-issued)

DOE-7 Whistleblower Investigation, Hearings and Appeals Records (Proposed New System—DOE Assigned Number is Being Re-issued)

DOE-8 Intergovernmental Personnel Act (IPA) Contracts

DOE-9 Members of DOE Advisory Committees

DOE-10 Worker Advocacy Records (Proposed New System—DOE Assigned Number is Being Re-issued)

DOE-11 Emergency Locator Records

DOE-12 Automated Materials Property System (AMPS) (Proposed New System—DOE Assigned Number is Being Re-issued)

DOE-13 Payroll and Leave Records

DOE-14 Report of Compensation

DOE-15 Intelligence Related Access Authorization (Proposed New System—DOE Assigned Number is Being Re-issued)

DOE-16 Deleted—Reserved

DOE-17 Deleted—Reserved

DOE-18 Accounts Payable Financial System

DOE-19 Accounts Receivable Financial System

DOE-20 Deleted—Reserved

DOE-21 Emergency Defense Mobilization Files

DOE-22 Deleted—Reserved

DOE-23 Property Accountability System

DOE-24 Land Records

DOE-25 U.S. DOE Commuter Locator and Parking Space Information System

DOE-26 Official Travel Records

DOE-27 Deleted with this notice—Reserved

DOE-28 General Training Records

DOE-29 Deleted—Reserved

DOE-30 Deleted—Reserved

DOE-31 Firearms Qualifications Records

DOE-32 Deleted—Reserved

DOE-33 Personnel Medical Records

DOE-34 Employee Assistance Program

DOE-35 Personnel Radiation Exposure Records

DOE-36 Deleted—Reserved

DOE-37 Deleted—Reserved

DOE-38 Occupational and Industrial Accident Reports

DOE-39 Deleted—Reserved

DOE-40 Deleted—Reserved

DOE-41 Legal Files (Claims, Litigation, Criminal Violations, Patents, and Others)

DOE-42 Deleted—Reserved

DOE-43 Personnel Security Clearance

DOE-44 Special Access Authorization for Categories of Classified Information

DOE-45 Weapons Data Access Control System

DOE-46 Clearance Board Cases

DOE-47 Deleted with this notice—Reserved

DOE-48 Security Education and/or Infraction Reports

DOE-49 Security Communications File

DOE-50 Personnel Assurance Program Records

DOE-51 Employee and Visitor Access Control Records

DOE-52 Access Control Records of International Visits, Assignments, and Employment at Facilities and Contractor Sites.

DOE-53 Access Authorization for Information Technology Group (ITG) Equipment

DOE-54 Investigative Files of the Inspector General

DOE-55 Freedom of Information and Privacy Act (FOIA/PA) Requests for Records

DOE-56 Congressional Constituent Inquiries

DOE-57 Congressional Profiles

DOE-58 General Correspondence Files of the Secretary of Energy

DOE-59 Mailing List for Requesters of Energy Related Information

DOE-60 Deleted—Reserved

DOE-61 Census of High Energy Physicists

DOE-62 Historical Files—Published Information Concerning Selected Persons in the Energy Field

DOE-63 Deleted—Reserved

DOE-64 Deleted—Reserved

DOE-65 Deleted—Reserved

DOE-66 Power Sales to Individuals

DOE-67 Deleted—Reserved

DOE-68 Deleted—Reserved

DOE-69 Deleted—Reserved

DOE-70 Deleted—Reserved

DOE-71 The Radiation Accident Registry

DOE-72 The DOE Radiation Study Registry

DOE-73 The US-DPTA Registry

DOE-74 Deleted—Reserved

DOE-75 Call Detail Records

DOE-76 Deleted with this notice—Reserved

DOE-77 Physical Fitness Test Records

DOE-78 Deleted with this notice—Reserved

DOE-79 Deleted—Reserved

DOE-80 Deleted—Reserved

DOE-81 Counterintelligence Administrative and Analytical Records and Reports

DOE-82 Grant and Contract Records for Research Projects, Science Education, and Related Activities

DOE-83 Allegations Based Inspections Files of the Office of the Inspector General

DOE-84 Counterintelligence Investigative Records

DOE-85 Reserved

DOE-86 Human Radiation Experiments Records

DOE-87 Deleted with this notice—Reserved

DOE-88 Epidemiologic and Other Health Studies, Surveys, and Surveillances

Text of Notices

DOE-1

System name:

Grievance Records.

Security classification:

Unclassified.

System location(s):

U.S. Department of Energy, Headquarters, 1000 Independence Avenue, SW., Washington, DC 20585

U.S. Department of Energy, Alaska Power Administration, Federal Records Center, San Point Way, NE., Seattle, WA 98115

U.S. Department of Energy, Albuquerque Operations Office, P.O. Box 4500, Albuquerque, NM 87115

U.S. Department of Energy, Bonneville Power Administration, P.O. Box 3621, Portland, OR 97208

U.S. Department of Energy, Brookhaven National Laboratory, Industrial Medicine Division, Upton, NY 11973

U.S. Department of Energy, Chicago Operations Office, 9800 South Cass Avenue, Argonne, IL 60439

U.S. Department of Energy, Grand Forks Energy Technology Center, P.O. Box 8213, University Station, Grand Forks, ND 58201

U.S. Department of Energy, Idaho Operations Office, 850 Energy Drive, Idaho Falls, ID 83401

U.S. Department of Energy, Laramie Energy Technology Center, P.O. Box 3395, University Station, Laramie, WY 82070

U.S. Department of Energy, National Energy Technology Laboratory (Morgantown), P.O. Box 880, Morgantown, WV 26505

U.S. Department of Energy, National Energy Technology Laboratory (Pittsburgh), P.O. Box 10940, Pittsburgh, PA 15122

U.S. Department of Energy, National Petroleum Technology Office, William Center Tower One, 1 West Third Street, Suite 1400, Tulsa, OK 74103

U.S. Department of Energy, Nevada Operations Office, P.O. Box 14100, Las Vegas, NV 89114

U.S. Department of Energy, Oak Ridge Operations Office, P.O. Box E, Oak Ridge, TN 37830

U.S. Department of Energy, Oakland Operations Office, 1301 Clay Street, Oakland, CA 94612

U.S. Department of Energy, Ohio Field Office, P.O. Box 3020, Miamisburg, OH 45342

U.S. Department of Energy, Pittsburgh Naval Reactors, P.O. Box 109, Pittsburgh, PA 15122

U.S. Department of Energy, Richland Operations Office, P.O. Box 550, Richland, WA 99352

U.S. Department of Energy, Rocky Flats Field Office, 10808 Highway 93, Unit A, Golden, CO 90403-8200

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Elberton, GA 30635

U.S. Department of Energy, Southwestern Power Administration, P.O. Box 1619, Tulsa, OK 74101

U.S. Department of Energy, Western Area Power Administration, P.O. Box 3402, Golden, CO 80401

U.S. Department of Energy, Yucca Mountain Site Characterization Office, 1551 Hillshire Drive, Suite A, Las Vegas, NV 89134

Categories of individuals covered by the system:

Current and former Department of Energy (DOE) employees, consultants, board members, and applicants.

Categories of records in the system:

Grievances; names; social security numbers; work and home address; work and home telephone numbers; job titles, series, and grade levels; organization; supervisors' names and telephone numbers; copies of employee records, such as personnel actions, performance appraisals, pay and leave records, and security clearance documents; management reports; witness statements; affidavits; checklists; notes; and relevant correspondence.

Authority for maintenance of the system:

42 U.S.C. 7101 et seq.; 50 U.S.C. 2401 et seq.; 5 U.S.C. 7121, and 5 CFR part 771.

Purpose(s):

The records are maintained and used by the Department to resolve employee concerns about working conditions, the administration of collective bargaining agreements, employee-supervisor relations, and work processes.

Routine uses of records maintained in the system, including categories of users and the purposes of such uses:

1. A record from this system may be disclosed as a routine use to union officials acting in their official capacity as a representative of the grievant or affected employees under 5 U.S.C. Chapter 71.

2. A record from this system may be disclosed as a routine use to a member of Congress submitting a request involving a constituent when the constituent has requested assistance from the member concerning the subject matter of the record. The member of Congress must provide a copy of the constituent's request for assistance.

3. A record from this system may be disclosed as a routine use to an appropriate Federal, State, or local agency that is authorized to review and resolve the issue(s) raised in the grievance.

4. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

5. A record from this system may be disclosed as a routine use to a contractor of the Department who is authorized to review and resolve the issue(s) raised in the grievance, including a mediator or arbitrator in the performance of their duties. Those provided information under this routine use are subject to the same limitations applicable to Department officers and employees under the Privacy Act.

Policies and practices for storing, retrieving, accessing, retaining, and disposing of records in the system:

Storage:

Records may be stored as paper records and electronic media.

Retrievability:

Records may be retrieved by the name of the grievant or complainant or other personal identifier, such as social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Director of Human Resources Management, U.S. Department of Energy, 1000 Independence Avenue, SW., Washington, DC 20585.

Field Offices: The Human Resources Directors of the “System locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records generally are kept at locations where the work is performed. In accordance with the DOE Privacy Act regulation, proper identification is required before a request is processed.

Contesting records procedures:

Same as Notification procedures above.

Record source categories:

The grievant or complainant, applicable management officials, program office records, congressional offices, and fact finders' notes and reports.

System exempted from certain provisions of the Act:

None.

DOE-2

System name:

DOE-Personnel Supervisor Maintained Personnel Records.

Security classification:

Unclassified.

System location:

U.S. Department of Energy, Headquarters, 1000 Independence Avenue, SW., Washington, DC 20585

U.S. Department of Energy, Alaska Power Administration, Federal Records Center, San Point Way, NE., Seattle, WA 98115

U.S. Department of Energy, Albuquerque Operations Office, P.O. Box 4500, Albuquerque, NM 87115

U.S. Department of Energy, Bonneville Power Administration, P.O. Box 3621, Portland, OR 97208

U.S. Department of Energy, Brookhaven National Laboratory, Industrial Medicine Division, Upton, NY 11973

U.S. Department of Energy, Chicago Operations Office, 9800 South Cass Avenue, Argonne, IL 60439

U.S. Department of Energy, Grand Forks Energy Technology Center, P.O. Box 8213, University Station, Grand Forks, ND 58201

U.S. Department of Energy, Idaho Operations Office, 850 Energy Drive, Idaho Falls, ID 83401

U.S. Department of Energy, Laramie Energy Technology Center, P.O. Box 3395, University Station, Laramie, WY 82070

U.S. Department of Energy, National Energy Technology Laboratory (Morgantown), P.O. Box 880, Morgantown, WV 26505

U.S. Department of Energy, National Energy Technology Laboratory (Pittsburgh), P.O. Box 10940, Pittsburgh, PA 15236-0940

U.S. Department of Energy, National Petroleum Technology Office, William Center Tower One, 1West Third Street, Suite 1400, Tulsa, OK 74103

U.S. Department of Energy, Nevada Operations Office, P.O. Box 14100, Las Vegas, NV 89114

U.S. Department of Energy, Oak Ridge Operations Office, P.O. Box E, Oak Ridge, TN 37830

U.S. Department of Energy, Oakland Operations Office, 1301 Clay Street, Oakland, CA 94612

U.S. Department of Energy, Ohio Field Office, P.O. Box 3020, Miamisburg, OH 45342

U.S. Department of Energy, Pittsburgh Naval Reactors, P.O. Box 109, Pittsburgh, PA 15122

U.S. Department of Energy, Richland Operations Office, P.O. Box 550, Richland, WA 99352

U.S. Department of Energy, Rocky Flats Field Office, 10808 Highway 93, Unit A, Golden, CO 90403-8200

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Elberton, GA 30635

U.S. Department of Energy, Southwestern Power Administration, P.O. Box 1619, Tulsa, OK 74101

U.S. Department of Energy, Western Area Power Administration, P.O. Box 3402, Golden, CO 80401

U.S. Department of Energy, Yucca Mountain Site Characterization Office, 1551 Hillshire Drive, Suite A, Las Vegas, NV 89134

Categories of individuals covered by the system:

Current Department of Energy (DOE) employees, former employees who have departed within the last year, assigned military or detailed personnel, and applicants for employment.

Categories of records in the system:

Copies and summaries of employment history; SF-171; job description; education; address; next of kin; home and work telephone numbers; date of birth; awards and commendations received; participation in professional or community activities; training; earnings and leave data; travel actions; certification or qualification examinations; injury reports; appraisals; copy of ADP-produced Form 702; Form 50; assignment records; security infraction notices; records of supervisor-employee discussions; supervisor observations; reprimands; admonitions; adverse actions; commendations; contingency planning data; security clearance status; and Government property in employee possession.

Authority for maintenance of the system:

42 U.S.C. 7101 et seq. and 50 U.S.C. 2401 et seq.

Purpose(s):

The records are maintained and used by DOE to maintain a file of personnel information that would allow DOE managers to make informed personnel and management decisions concerning employees.

Routine uses of records maintained in the system, including categories of users and the purposes of such uses:

1. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

2. A record from the system may be disclosed as a routine use to DOE contractors in performance of their contracts, and their officers and employees who have a need for the record in the performance of their duties. Those provided information under this routine use are subject to the same limitations applicable to Department officers and employees under the Privacy Act.

3. A record from this system may be disclosed as a routine use to a member of Congress submitting a request involving the constituent when the constituent has requested assistance from the member concerning the subject matter of the record. The member of Congress must provide a copy of the constituent's request for assistance.

Policies and practices for storing, retrieving, accessing, retaining, and disposing of records in the system:

Storage:

Records may be stored as paper records and electronic media.

Retrievability:

Records may be retrieved by name and social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters and Field Offices: The immediate supervisor of the subject of the record(s).

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with DOE Privacy Act regulation, proper identification is required before a request is processed.

Contesting record procedures:

Same as Notification procedures above.

Record source categories:

The subject employee, employee's supervisor(s), personnel action documents, payroll documents, and personnel security documents.

System exempted from certain provisions of the Act:

None.

DOE-3

System name:

Employee Concerns Program Records.

Security classification:

Unclassified.

System location:

U.S. Department of Energy, Headquarters, 1000 Independence Avenue, SW., Washington, DC 20585.

U.S. Department of Energy, Albuquerque Operations Office, P.O. Box 4500, Albuquerque, NM 87185-5400.

U.S. Department of Energy, Chicago Operations Office, 9800 South Cass Avenue, Argonne, IL 60439

U.S. Department of Energy, Idaho Operations Office, 850 Energy Drive, Idaho Falls, ID 83401

U.S. Department of Energy, Nevada Operations Office, 232 Energy Way, North Las Vegas, NV 89030

U.S. Department of Energy, Oak Ridge Operations Office, P.O. Box 200 Administration Road, Oak Ridge, TN 37831

U.S. Department of Energy, Oakland Operations Office, 1301 Clay Street, Oakland, CA 94612-5208

U.S. Department of Energy, Ohio Field Office, 1 Mound Road, Miamisburg, OH 45342

U.S. Department of Energy, Office of River Protection, P.O. Box 550, MS A1-61, Richland, WA 99352

U.S. Department of Energy, Rocky Flats Field Office, 10808 Highway 93 Unite A, Golden, CO 80402

U.S. Department of Energy, Richland Operations Office, P.O. Box 550, Richland, WA 99352

U.S. Department of Energy, Savannah River Operations Office, Road 1A, Aiken, SC 29802

U.S. Department of Energy, Southeastern Power Administration, Samuel Elbert Building, Elberton, GA 30635

U.S. Department of Energy, Southwestern Power Administration, P.O. Box 1619, Tulsa, OK 74101

U.S. Department of Energy, Western Area Power Administration, P.O. Box 3402, Golden, CO 80401

U.S. Department of Energy, Yucca Mountain Site Characterization Office, 1551 Hillshire Drive, Suite A, Las Vegas, NV 89134

Categories of individuals covered by the system:

Current and former Department of Energy (DOE) employees and DOE contractor and subcontractor employees who file concerns or complaints with the DOE Employee Concerns Program offices.

Categories of records in the system:

Employee concerns, informal whistleblower reprisal complaints, names, social security numbers, work and home addresses and telephone numbers, job titles, series, grade or pay levels; organization; supervisors names and telephone numbers; copies of employee records such as personnel actions, performance appraisals, pay and leave records and security clearance documents; management reports; witness statements; affidavits; checklists; notes; and relevant correspondence.

Authority for maintenance of the system:

42 U.S.C. 7101 et seq.; 50 U.S.C. 2401 et seq.; 42 U.S.C. 2201 (p); 42 U.S.C. 7254; 42 U.S.C. 5801(a).

Retrievability:

Records may be retrieved by name and social security number.

Purpose:

The records are maintained and used by the Department to document and resolve employee concerns about environmental, safety and health issues, employee-supervisor relations, work processes and practices, and other work-related issues.

Routine uses of records maintained in the system, including categories of users and the purposes of such uses:

1. A record from this system may be disclosed as a routine use to union officials acting in their official capacity as a representative of the grievant or affected employees under 5 U.S.C. Chapter 71.

2. A record from this system may be disclosed as a routine use to a member of Congress submitting a request involving a constituent when the constituent has requested assistance from the member of Congress with respect to the subject matter of the record. The member of Congress must provide a copy of the constituent's request for assistance.

3. A record from this system may be disclosed as a routine use to the appropriate local, State or Federal agency in the event that a record within this system of records, alone or in conjunction with other information, indicates a violation or potential violation of law whether civil, criminal or regulatory in nature, and whether arising by general statue of particular program pursuant thereto.

4. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

5. A record from this system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records and electronic media.

Retrievability:

Records may be retrieved by the name of the concerned employee or complainant or other personal identifier, such as social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE records schedules that have been approved by NARA.

System manager(s) and address:

Headquarters: Director, Office of Employee Concerns, U.S. Department of Energy, 1000 Independence Avenue, SW., Washington, DC 20585.

Field Offices: The Director of the Office of Employee Concerns at the “System locations” listed above are the system managers for their respective portions of this system.

Notification procedures:

In accordance with the DOE regulation implementing the Privacy Act, Title 10, Code of Federal Regulations, part 1008, a request by an individual to determine if a system of records contains information about him/her should be directed to the Director, Headquarters Freedom of Information and Privacy Act Division, U. S. Department of Energy or the Privacy Act Officer at the appropriate address identified above under “System locations.” The request should include the requester's complete name, time period, and the geographic location(s) where the requester believes the records are located.

Record access procedures:

Same as Notification procedures above. Records generally are kept at locations where the work is performed. In accordance with the DOE Privacy Act regulation, proper identification is required before a request is processed.

Contesting records procedures:

Same as Notification procedures above.

Record source categories:

The concerned employee or complainant; applicable management officials; program office records; and congressional offices.

System exempted from certain provisions of the Act:

The system is exempt under subsections 552a(k)(1), (2) and (5) of the Privacy Act to the extent that information within the system meets the criteria of those subsections of the Act. Such information has been exempted from the provisions of subsections (c)(3); 5 U.S.C. 552a (d); 5 U.S.C. 552a (e)(1) of the Act; see the Department's Privacy Act regulation at 10 CFR part 1008.

DOE-4

System name:

FORM EIA-457 Survey Reports (Residential Energy Consumption Survey (RECS)).

System location:

U.S. Department of Energy, Energy Information Administration (EIA), 1000 Independence Avenue, SW., Washington, DC 20585.

Roper Starch Worldwide, Inc., Response Analysis Division, 1060 State Road, Princeton, NJ 08540.

Security classification:

Unclassified.

Categories of individuals covered by the system:

Persons responding to the FORM EIA-457 (Residential Energy Consumption Survey (RECS)) or a sample thereof.

Categories of records in the system:

Name, age, gender, race, ethnicity, home address, home telephone number, income, family size and composition, characteristics of housing unit, household vehicles, name and address of landlord, name and address of fuel suppliers, and records of energy purchases.

Authority for maintenance of the system:

42 U.S.C. 7101 et seq. and 50 U.S.C. 2401 et seq.

Purpose:

The information is collected and maintained by the DOE to measure the levels of energy consumption used by homeowners and the cost of heating fuel. The information also is used for monitoring, modeling and making policy decisions regarding energy use in U.S. households.

Routine uses of records maintained in the system, including categories of users and the purposes of such uses:

A record from the system may be disclosed as a routine use to DOE contractors in performance of their contracts, and their officers and employees who have a need for the record in the performance of their duties. Those provided information under this routine use are subject to the same limitations applicable to DOE officers and employees under the Privacy Act.

Policies and practices for storing, retrieving, accessing, retaining, and disposing of records in the system:

Storage:

Records may be stored as paper records and electronic media.

Retrievability:

Records may be retrieved by name and identification number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Administrator, Energy Information Administration, U.S. Department of Energy, 1000 Independence Avenue, SW., Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Records access procedures:

Same as Notification procedures above. Records are generally kept at locations where the work is performed. In accordance with the DOE Privacy Act regulation, proper identification is required before a request is processed.

Contesting record procedures:

Same as Notification procedures above.

Record source categories:

The subject individual and energy supply companies.

System exempted from certain provisions of the Act:

None.

DOE-5

System name:

Personnel Records of Former Contractor Employees.

Security classification:

Unclassified.

System location:

U.S. Department of Energy, Headquarters, 1000 Independence Avenue, SW., Washington, DC 20585

U.S. Department of Energy, Albuquerque Operations Office, P.O. Box 5400, Albuquerque, NM 87115

U.S. Department of Energy, Chicago Operations Office, 9800 South Cass Avenue, Argonne, IL 60439

U.S. Department of Energy, Idaho Operations Office, 850 Energy Drive, Idaho Falls, ID 83401

U.S. Department of Energy, Naval Petroleum Reserves in California, P.O. Box 11, Tupman, CA 93276

U.S. Department of Energy, Naval Petroleum and Oil Shale Reserves, 907 North Poplar, Suite 150, Casper, WY 82601

U.S. Department of Energy, Nevada Operations Office, P.O. Box 98518, Las Vegas, NV 89193-8518

U.S. Department of Energy, Oakland Operations Office, 1301 Clay Street, Oakland, CA 94612-5208

U.S. Department of Energy, Ohio Field Office, PO BOX 3020, Miamisburg, OH 45343-3020

U.S. Department of Energy, Pittsburgh Naval Reactors, P.O. Box 109, West Mifflin, PA 15122-0109

U.S. Department of Energy, Richland Operations Office, 825 Jadwin Avenue, P.O. Box 550 Richland, WA 99352

U.S. Department of Energy, Rocky Flats Field Office, 10808 Highway 93, Unit A, Golden, CO 80403-8200

U.S. Department of Energy, Savannah River Operations Office, P.O. Box A, Aiken, SC 29801

U.S. Department of Energy, Schenectady Naval Reactors Office, P.O. Box 1069, Schenectady, NY 12301

U.S. Department of Energy, Strategic Petroleum Reserve Project Office, 900 Commerce Road East, New Orleans, LA 70123

Categories of individuals covered by the system:

Former employees of companies that currently have or have had a contract with the Department of Energy (DOE).

Categories of records in the system:

Name, employment history, earnings, medical history, and other related information.

Authority for maintenance of the system:

42 U.S.C. 7101 et seq., 50 U.S.C. 2401 et seq. and the Memorandum of Understanding between the Department of Energy and the Department of Health and Human Services, 56 FR 9701, March 7, 1991.

Purpose(s):

The records are maintained and used by the DOE to verify employment of contractor employees who have worked at a DOE facility or for a prime management and operating contractor for the DOE to settle or pay claims associated their employment.

Routine uses of records maintained in the system, including categories of users and the purposes of such uses:

1. A record from the system may be disclosed as a routine use to the appropriate local, State or Federal agency when records alone or in conjunction with other information, indicates a violation or potential violation of law whether civil, criminal, or regulatory in nature, and whether arising by general statue of particular program pursuant thereto.

2. A record from the system may be disclosed as a routine use to a Federal, State, or local agency to obtain information relevant to a Departmental decision concerning the hiring or retention of an employee, the issuance of a security clearance, the reporting of an investigation of an employee, the letting of a contract, or the issuance of a license, grant, or other benefit. The Department must deem such disclosure to be compatible with the purpose for which the Department collected the information.

3. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; and (3) witness, potential witness, or their representatives and assistants, and any person possesses information pertaining to the matter when it is necessary to obtain information or testimony relevant to the matter.

4. A record from this system may be disclosed as a routine use in court or administrative proceedings to the tribunals, counsel, other parties, witnesses, and the public (in publically available pleadings, filings or discussion in open court) when such disclosure: (1) Is relevant to, and necessary for, the proceeding; and (2) compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

5. A record from this system may be disclosed as a routine use to foreign governments in accordance with treaties, international conventions, or executive agreements.

6. A record from the system may be disclosed as a routine use to DOE contractors in performance of their contracts, and their officers and employees who have a need for the record in the performance of their duties. Those provided information under this routine use are subject to the same limitations applicable to DOE officers and employees under the Privacy Act.

7. A record from the system of records may be disclosed to a member of Congress submitting a request involving the constituent when the constituent has requested assistance from the member concerning the subject matter of the record. The member of Congress must provide a copy of the constituent's request for assistance.

8. A record from the system of records may be disclosed to contractor personnel, grantees, and cooperative agreement holders of components of the Department of Health and Human Services, including the National Institute for Occupational Safety and Health and the National Center for Environmental Health of the Centers for Disease Control and Prevention, and the Agency for Toxic Substances and Disease Registry pursuant to Memoranda of Understanding between the Department and the Department of Health and Human Services or its components.

9. A record from the system may be disclosed to contractors, grantees, participants in cooperative agreements, collaborating researchers, or their employees, in performance of health studies or related health or environmental duties pursuant to their contracts, grants, and cooperating or collaborating research agreements. In order to perform such studies, the Department, its contractors, grantees, participants in cooperative agreements, and collaborating researchers may disclose a record to: Federal, state and local health and medical agencies or authorities; to subcontractors in order to determine a subject's vital status or cause of death; to health care providers to verify a diagnosis or cause of death; or to third parties to obtain current addresses for participants in health-related studies, surveys, and surveillance. All recipients of such records are required to comply with the Privacy Act, to follow prescribed measures to protect personal privacy, and to disclose or use personally identifiable information only for the above described research purposes.

10. A record from this system may be disclosed to members of DOE advisory committees, the Department of Health and Human Services Advisory Committee on Projects Related to Department of Energy Facilities, and to designated employees of Federal, State, or local government or government-sponsored entities authorized to provide advice to the DOE concerning health, safety, or environmental issues. All recipients of such records are required to comply with the Privacy Act, to follow prescribed measures to protect personal privacy, and to disclose or use personally identifiable information only for the purpose of providing advice to the DOE or to the Department of Health and Human Services.

11. A record from this system be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available information to researchers and the general public on the assumptions, methodology, and data used in establishing radiation doses consistent with the protection of private medical records. Those provided information under this routine use are subject to the same limitations applicable to Department officers and employees under the Privacy Act.

Policies and practices for storing, retrieving, accessing, retaining, and disposing of records in the system:

Storage:

Records are stored as paper records.

Retrievability:

Records may be retrieved by name.

Safeguards:

Paper records are maintained in locked cabinets and desks. Access is limited to those whose official duties require access to the records.

Retention and disposal:

Records retention and disposal authorities are contained in the National Archives and Records Administration (NARA) General Records Schedule and DOE record schedules that have been approved by NARA.

System manager(s) and address:

Headquarters: Director, Office of Contractor Human Resource Management, U.S. Department of Energy, 1000 Independence Avenue, SW., Washington, DC 20585.

Field Offices: The Managers of the “System locations” listed above are the system managers for their respective portions of the system.

Notification procedures:

In accordance with the DOE regulation implementing the Privacy Act, Title 10, Code of Federal Regulations, part 1008, a request by an individual to determine if a system of records contains information about him/her should be directed to the Director, Headquarters Freedom of Information Act and Privacy Act Division, U. S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

The employer of the subject individual.

System exempted from certain provisions of the Act:

None.

DOE-6

System name:

EIA Customer Data Base.

Security classification:

Unclassified.

System location:

U.S. Department of Energy (DOE), Energy Information Administration (EIA), 1000 Independence Avenue, SW., Washington, DC 20585.

Categories of individuals covered by the system:

Persons requesting energy related information.

Categories of records covered by the system:

The following information may be maintained in the system: EIA contact name, date of contact, contact method, address, e-mail address, telephone number, fax number, description of information or services requested, description of services, and energy interests.

Authority for maintenance of the system:

42 U.S.C. 7101 et seq. and 50 U.S.C. 2401 et seq.

Purpose:

The records are used and maintained by the DOE to analyze, evaluate and better serve EIA customers, their needs, and their interests.

Routine uses of records maintained in the system, including categories of users and the purposes of such uses:

A record from the system may be disclosed as a routine use to DOE contractors in performance of their contracts, and their officers and employees who have a need for the record in the performance of their duties. Those provided information under this routine use are subject to the same limitations applicable to DOE officers and employees under the Privacy Act.

Policies and practices for storing, retrieving, accessing, retaining, and disposing of records in the system:

Storage:

Records may be stored as paper records and electronic media.

Retrievability:

Records may be retrieved by name, e-mail address, or telephone number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Administrator, Energy Information Administration, U.S. Department of Energy, 1000 Independence Avenue, SW., Washington, DC 20585.

Notification procedures:

In accordance with DOE regulation implementing the Privacy Act, Title 10, Code of Federal Regulations, Part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Records access procedures:

Same as Notification procedures above. Records are generally kept at locations where the work is performed. In accordance with the DOE Privacy Act regulation, proper identification is required before a request is processed.

Contesting record procedures:

Same as Notification procedures above.

Record source categories:

The subject individual.

System exempted from certain provisions of the Act:

None.

DOE-7

System name:

Whistleblower Investigation, Hearings, and Appeals Records.

Security classification:

Classified and unclassified.

System location:

These records are maintained at the Office of Hearings and Appeals, U.S. Department of Energy, 1000 Independence Avenue, SW., Washington, DC 20585-0107.

Categories of individuals covered by the system:

Current and former employees of the Department of Energy (DOE), contractor and subcontractor employees whose complaints are received at the Office of Hearings and Appeals pursuant to Title 10, Code of Federal Regulations, part 708, and pursuant to section 3164 of the National Defense Authorization Act for FY 2000, Pub. L. 106-65, codified at 42 U.S.C. 7239.

Categories of records in the system:

Whistleblower reprisal complaints; names, social security numbers, work and home addresses and telephone numbers, job titles, series, grade or pay levels; organization information; supervisors' names and telephone numbers; copies of employee records such as personnel actions, performance appraisals, pay and leave records, and security clearance documents; management reports; witness statements; affidavits; checklists; notes; reports of investigation; and relevant correspondence.

Authority for maintenance of the system:

42 U.S.C. 7101 et seq.; 50 U.S.C. 2401 et seq.; 42 U.S.C. 2201(b), (c), (I), (p), 5814, 5815, 7251, 7254, 7255, 7257; 42 U.S.C. 7239.

Purpose(s):

The records are maintained and used by the DOE to document and resolve complaints made by employees of DOE and its contractors and subcontractors who allege retaliation by their employer for disclosure of information concerning danger to public or worker health or safety, substantial violations of law, or gross mismanagement; for participation in Congressional proceedings; or for refusal to participate in dangerous activities.

Routine uses of records maintained in the system, including categories of users and purposes of such uses:

1. A record from this system may be disclosed to any source from which additional information is requested when necessary to obtain information relevant to the processing of a whistleblower complaint by the Office of Hearings and Appeals. The source will be provided such information from the system of records only to the extent necessary to identify the individual, inform the source of the purpose(s) of the request, and to identify the type of information requested.

2. A record from this system may be disclosed as a routine use to the appropriate local, State or Federal agency in the event that a record within this system of records, alone or in conjunction with other information, indicates a violation or potential violation of law whether civil, criminal, or regulatory in nature, and whether arising by general statute of particular program pursuant thereto.

3. A record from this system may be disclosed as a routine use for the purpose of an investigation, settlement of claims, or the preparation and conduct of litigation to (1) persons representing the Department or assisting in such representation; (2) others involved in the matter, their representatives and assistants, and any other person possessing information pertaining to the matter, when it is necessary to obtain information or testimony relevant to the matter.

4. A record from this system may be disclosed as a routine use in court or administrative proceedings to the tribunals, counsel, other parties, witnesses, and the public (in publicly available pleadings, filings, or discussion in open court) when such disclosure (1) is relevant to, and necessary for, the proceeding, and (2) is compatible with the purpose for which the Department collected the record; and (3) the proceeding involves:

(a) The Department, its predecessor agencies, current or former contractor of the Department, or other United States Government agencies and their components, or

(b) A current or former employee of the Department and its predecessor agencies, current or former contractors of the Department, or United States Government agencies and their components, who is acting in an official capacity, or in any individual capacity, or in any individual capacity where the Department or other United States Government agency has agreed to present the employee.

5. A record from this system may be disclosed as a routine use to contractors in performance of their contracts, and their officers and employees who have a need for the record in the performance of their duties. Those provided information under this routine use are subject to the same limitations applicable to DOE officers and employees under the Privacy Act.

6. A record from this system may be disclosed as a routine use to a member of Congress submitting a request involving a constituent when the constituent has requested assistance from the member with respect to the subject matter of the record. The member of Congress must provide a copy of the constituent's request for assistance.

7. Decisions, opinions, reports of investigation, orders and other determinations signed by investigators, hearing officers or the Director of the Office of Hearings and Appeals that are records contained in this system of records may be published for the general public, for precedential or educational purposes, in paper format and electronically on the Office of Hearings and Appeals' website, the current address of which is http://www.oha.doe.gov.

Policies and practices for storing, retrieving, accessing, retaining, and disposing of records in the system:

Storage:

Records may be stored as paper records and electronic media.

Retrievability:

Records may be retrieved by complainant's name or other personal identifier or case number.

Safeguards:

Paper records are maintained in locked cabinets and desks. Electronic records are controlled through established DOE computer center procedures (personnel screening and physical security), and they are password protected. Passwords are known only to the system manager. Access is limited to those whose official duties require access to the records.

Retention and disposal:

Records retention and disposal authorities are contained in the National Archives and Records Administration (NARA) General Records Schedule and DOE records schedules that have been approved by NARA.

System manager(s) and address:

Chief, Docket and Publications Branch, Office of Hearings and Appeals, U.S. Department of Energy, 1000 Independence Avenue, SW., Washington, DC 20585-0107.

Notification procedures:

In accordance with the DOE regulation implementing the Privacy Act, at Title 10, Code of Federal Regulations, part 1008, a request by an individual to determine if a system of records contains information about him/her should be directed to the Director, Headquarters Freedom of Information and Privacy Act Division, U. S. Department of Energy, or the Privacy Act Officer at the appropriate address identified above under “system locations.” The request should include the requester's complete name, time period, and the geographic location(s) where the requester believes the records are located.

Record access procedures:

Same as Notification procedures above. Records are generally kept at locations where the work is performed. In accordance with the DOE Privacy Act regulation, proper identification is required before a request is processed.

Contesting record procedures:

Same as Notification Procedures above.

Record source categories:

The complainant; individuals and organizations that have pertinent knowledge about the subject of the complaint; those authorized by the complainant to furnish information; confidential informants; and Congressional offices.

System exempted from certain provisions of the Act:

The system is exempt under subsections 552a(k)(1), (2) and (5) of the Privacy Act to the extent that information within the system meets the criteria of those subsections of the Act. Such information has been exempted from the provisions of subsections (c)(3); 5 U.S.C. 552a (d); 5 U.S.C. 552a (e)(1) of the Act; see the DOE Privacy Act regulation at Title10, Code Federal Regulations, Part 1008.

DOE-8

System name:

Intergovernmental Personnel Act (IPA) Agreements.

System classification:

Unclassified.

System location:

U.S. Department of Energy, Headquarters, Forrestal Building, 1000 Independence Avenue, SW., Washington, DC 20585

U.S. Department of Energy, Headquarters, Germantown, 19901 Germantown Road, Germantown, MD 20585

U.S. Department of Energy, Alaska Power Administration, Federal Records Center, San Point Way, NE., Seattle, WA 98115

U.S. Department of Energy, Albuquerque Operations Office, P.O. Box 5400, Albuquerque, NM 87185-5400

U.S. Department of Energy, Bonneville Power Administration, P.O. Box 3621, Portland, OR 97208

U.S. Department of Energy, Chicago Operations Office, 9800 South Cass Avenue, Argonne, IL 60439

U.S. Department of Energy, Golden Field Office, 1617 Cole Boulevard, Golden, CO 80401

U.S. Department of Energy, Idaho Operations Office, 850 Energy Drive, Idaho Falls, ID 83401

U.S. Department of Energy, National Energy Technology Laboratory (Morgantown), P.O. Box 880, Morgantown, WV 26507

U.S. Department of Energy, National Energy Technology Laboratory (Pittsburgh), P.O. Box 10940, Pittsburgh, PA 15236-0940

U. S. Department of Energy, National Petroleum Technology Office, William Center Tower One, 1 West Third Street, Suite 1400, Tulsa, OK 74103

U.S. Department of Energy, Office of Naval Reactors, Crystal City, VA 22202

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Ohio Field Office, P.O. Box 3020, Miamisburg, OH 45343-3020

U.S. Department of Energy, Richland Operations Office, 825 Jadwin Avenue, P.O. Box 550, Richland, WA 99352

U.S. Department of Energy, Rocky Flats Field Office, 10808 Highway 93, Unit A, Golden, CO 80403-8200

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Bldg., Public Square, Elberton, GA 30635

U.S. Department of Energy, Southwestern Power Administration, P.O. Box 1619, Tulsa, OK 74101

U.S. Department of Energy, Strategic Petroleum Reserve Project Office, 900 Commerce Road East, New Orleans, LA 70123

U.S. Department of Energy, Western Area Power Administration, P.O. Box 3402, Golden, CO 80401

U.S. Department of Energy, Yucca Mountain Site Characterization Office, 1551 Hillshire Drive, Suite A, Las Vegas, NV 89134

Categories of individuals covered by the system:

Individuals who are now, or have been, under an IPA agreement to or from the Department of Energy (DOE).

Categories of records in the system:

Name, home and work addresses, social security number, home and work telephone numbers, salary, and related correspondence.

Authority for maintenance of the system:

42 U.S.C. 7101 et seq.; 50 U.S.C. 2401 et seq.; 5 U.S.C. Chapter 33, Subchapter VI, and 5 CFR part 334.

Purpose:

The records are maintained and used by DOE to provide a basis for payments under the terms of the IPA agreements, provide employment histories, and provide information for reports and program evaluations.

Routine uses of records maintained in the system, including categories of users and the purposes of such uses:

1. A record from this system may be disclosed to State and local governments, institutions of higher education, Federally Funded Research and Development Centers, or other “eligible” organizations for the purpose of assigning prospective individuals for temporary periods.

2. A record from the system may be disclosed as a routine use to DOE contractors in performance of their contracts, and their officers and employees who have a need for the record in the performance of their duties. Those provided information under this routine use are subject to the same limitations applicable to Department officers and employees under the Privacy Act.

Policies and practices for storing, retrieving, accessing, retaining and disposing of records in the system:

Storage:

Records may be stored as electronic media and paper records.

Retrievability:

Records may be retrieved by name or social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Deputy Assistant Secretary for Human Resources, U.S. Department of Energy, 1000 Independence Avenue, SW., Washington DC 20585.

Field Offices: The Personnel Officers at the field locations listed above under “Systems Locations” are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

The subject individual and current or prospective employer.

Systems exempted from certain provisions of the Act:

None.

DOE-9

System name:

Members of DOE Advisory Committees.

Security classification:

Unclassified.

System location:

U.S. Department of Energy, Office of the Executive Secretariat, 1000 Independence Avenue, SW., Washington, DC 20585.

Categories of individuals covered by the system:

All individuals who are members of a Department of Energy (DOE) Advisory Committee.

Categories of records in the system:

Name, biographical information, home address and telephone number, work address and telephone number, type of business or organizational affiliation, present position with business or other organization, number of years in present position, other related experience, congressional district, and photographs.

Authority for maintenance of the system:

42 U.S.C. 7101 et seq.; 50 U.S.C. 2401 et seq.; and the Federal Advisory Committee Act, 5 U.S.C. App. 2.

Purpose:

The records are maintained and used by the DOE to keep a current listing of advisory committee members.

Routine uses of records maintained in the system, including categories of users and the purposes of such uses:

1. A record from this system may be disclosed as a routine use to a member of Congress submitting a request involving the constituent when the constituent has requested assistance from the member concerning the subject matter of the record. The member of Congress must provide a copy of the constituent's request for assistance.

2. A record from the system may be disclosed as a routine use to DOE contractors in performance of their contracts, and their officers and employees who have a need for the record in the performance of their duties. Those provided information under this routine use are subject to the same limitations applicable to DOE officers and employees under the Privacy Act.

Policies and practices for storing, retrieving, accessing, retaining, and disposing of records in the system:

Storage:

Records may be stored as paper records and electronic media.

Retrievability:

Records may be retrieved by name.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Director, Office of the Executive Secretariat, U.S. Department of Energy, 1000 Independence Avenue, SW., Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

The subject individual, members of Congress, and public interest groups.

System exempted from certain provisions of the Act:

None.

DOE-10

System Name:

Worker Advocacy Records.

Security classification:

None.

System Location:

U.S. Department of Energy, 1000 Independence Avenue, SW., Washington, DC 20585

U.S. Department of Energy, 19901 Germantown Road, Germantown, MD 20874-1290

U.S. Department of Energy, Albany Research Center, 1450 Queen Avenue, SW., Albany, OR 97321

U.S. Department of Energy, Albuquerque Operations Office, Pennsylvania & H Street, Kirtland Air Force Base, Albuquerque, NM 87116

U.S. Department of Energy, Amarillo Area Office, Highway 60 FM2373, Amarillo, TX 79177

U.S. Department of Energy, Ames Laboratory, #311 TASF, Iowa State University, Ames, IA 50011

U.S. Department of Energy, Argonne Group, 9800 South Cass Avenue, Argonne, IL 60439

U.S. Department of Energy, Argonne National Laboratory-East, 9700 South Cass Avenue, Argonne, IL 60439

U.S. Department of Energy, Argonne National Laboratory-West, INEEL, EBRII Site, Scoville, ID 83415

U.S. Department of Energy, Atlanta Regional Office, 75 Spring Street, Suite 200, Atlanta, GA 30308

U.S. Department of Energy, Bettis Atomic Power Laboratory, Bechtel Bettis, Inc., 814 Pittsburgh McKeesport Blvd., West Mifflin, PA 15122-0079

U.S. Department of Energy, Bonneville Power Administration, 905 NE 11th Avenue, Portland, OR 97232

U.S. Department of Energy, Bonneville Power Administration, 1520 Kelley Place, Walla Walla, WA 99362

U.S. Department of Energy, Bonneville Power Administration, Seattle Customer Service Center, 1601 Fifth Avenue, #1000, Seattle, WA 98101-1625

U.S. Department of Energy, Bonneville Power Administration, Spokane Sales Office, 707 West Main Street, Suite 500, Spokane, WA 99201

U.S. Department of Energy, Boston Regional Office, John F. Kennedy Federal Bldg., Room 675, Boston MA 02203-0002

U.S. Department of Energy, Brookhaven Group, 53 Bell Avenue, Bldg. 464, Upton, NY 11973

U.S. Department of Energy, Brookhaven National Laboratory, P.O. Box 5000, Upton, NY 11973-5000

U.S. Department of Energy, Carlsbad Area Office, 4021 National Parks Highway, Carlsbad, NM 88220

U.S. Department of Energy, Chicago Regional Office, One South Wacker Drive, Chicago, IL 60606-4616

U.S. Department of Energy, Chicago Operations Office, 9800 South Cass Avenue, Argonne, IL 60439

U.S. Department of Energy, Denver Regional Office, 1617 Cole Blvd., MS-1721, Golden, CO 80401

U.S. Department of Energy, Environmental Measurements Laboratory, 201 Varick Street, 5th Floor, New York, NY 10014-4811

U.S. Department of Energy, Fermi Group, Kirk Road & Pine Street, Batavia, IL 60510

Fermi National Accelerator Laboratory, Kirk Road & Pine Street, Batavia, IL 60510

U.S. Department of Energy, Fernald Environmental Management Project, 7400 Willey Road, Cincinnati, OH 45030

U.S. Department of Energy, General Atomics Site Office, 3550 General Atomic Court, B-7, Room 119, San Diego, CA 92121.

U.S. Department of Energy, Golden Field Office, 1617 Cole Blvd., Golden, CO 80401

U.S. Department of Energy, Grand Junction Office, 2597 3/4 Road, Grand Junction, CO 81503

U.S. Department of Energy, Hanford Environmental Health Foundation, 3080 George Washington Way, Richland, WA 99352

U.S. Department of Energy, Idaho Operations Office, 850 Energy Drive, Idaho Falls, ID 83403

U.S. Department of Energy, Idaho National Engineering and Environmental Laboratory, 2525 North Fremont Avenue, Idaho Falls, ID 83401-1563

U.S. Department of Energy, Idaho National Engineering and Environmental Laboratory, CF 690 MS 4149, Scoville, ID 83415

U.S. Department of Energy, Kansas City Area Office, 2000 E 95th Street, Kansas City, MO 64131-3095

U.S. Department of Energy, Kirtland Area Office, Pennsylvania & H Street, Albuquerque, NM 87185-5400

U.S. Department of Energy, Knolls Atomic Power Laboratory, 2401 River Road, Niskayuna, NY 12309

U.S. Department of Energy, Lawrence Berkeley National Laboratory, 1 Cyclotron Road, Berkeley, CA 94720

U.S. Department of Energy, University of California, Lawrence Livermore National Laboratory, 7000 East Avenue, P.O. Box 808, L-1, Livermore, CA 94550

U.S. Department of Energy, Lawrence Livermore National Laboratory, Nevada Test Site, University of California, P.O. Box 45, Mercury, NV 89023

U.S. Department of Energy, Lockheed Idaho Technical Center, 765 Lindsay Blvd., Idaho Falls, ID 83403

U.S. Department of Energy, Los Alamos Area Office, 528 35th Street, Los Alamos, NM 87544

University of California, Los Alamos National Laboratory, SM #30 Bikini Road, Los Alamos, NM 87545

U.S. Department of Energy, Miamisburg Environmental Management Project, 1 Mound Road, Miamisburg, OH 45342-0066

U.S. Department of Energy, National Energy Technology Laboratory (NETL-MGN), 3610 Collins Ferry Road, Morgantown, WV 26507-0880

U.S. Department of Energy, National Energy Technology Laboratory (NETL-PGH), 626 Cochrans Mill Road, Pittsburgh, PA 15236-0940

U.S. Department of Energy, National Petroleum Technology Office, William Center Tower One, One West Third Street, Suite 1400, Tulsa, OK 74103

U.S. Department of Energy, National Renewable Energy Laboratory Area Office, 1617 Cole Blvd., Golden, CO 80401-3393

U.S. Department of Energy, National Renewable Energy Laboratory, 1617 Cole Blvd., Golden, CO 80401-3393

U.S. Department of Energy, Naval Petroleum and Oil Shale Reserves, 907 N. Poplar, Suite 150, Casper, WY 82601

U.S. Department of Energy, Naval Petroleum Reserves in California, 1601 New Stine Road, Suite 240, Bakersfield, CA 93309

U.S. Department of Energy, Nevada Operations Office, 232 Energy Way, North Las Vegas, NV 89030-4199

U.S. Department of Energy, Nevada Test Site Mercury, Nevada, Building 111, P.O. Box 677, Mercury, NV 89023-0677

U.S. Department of Energy, New Brunswick Laboratory, 9800 South Cass Avenue, Bldg. 350, Argonne, IL 60439

U.S. Department of Energy, Oak Ridge Institute for Science and Education, 230 Warehouse Road, Bldg. 1916T2, Oak Ridge, TN 37830

U.S. Department of Energy, Oak Ridge National Laboratory, Bethel Valley Road, Oak Ridge, TN 37831

U.S. Department of Energy, Oak Ridge Operations Office, 200 Administration Road, Oak Ridge, TN 37831

U.S. Department of Energy, Oakland Operations Office, 1301 Clay Street, Oakland, CA 94612-5208

U.S. Department of Energy, Office of Scientific and Technical Information, 175 Oak Ridge Turnpike, Oak Ridge, TN 37830

U.S. Department of Energy, Ohio Field Office, 1 Mound Road, Miamisburg, OH 45342

U.S. Department of Energy, Pacific Northwest National Laboratory, 902 Battelle Blvd., P.O. Box 999, Richland, WA 99352

U.S. Department of Energy, Paducah Site Office, 5600 Hobbs Road, West Paducah, KY 42086

U.S. Department of Energy, Philadelphia Regional Office, 1880 John F. Kennedy Blvd., Suite 501, Philadelphia, PA 19103-7483

U.S. Department of Energy, Portsmouth Enrichment Office, 3930 U.S. 23, Perimeter Road, Piketon, OH 45661

U.S. Department of Energy, Princeton Group Office, US Rt. 1, Forrestal Campus C Site, Room B290 LSB, Princeton, NJ 08542

U.S. Department of Energy, Princeton Plasma Physics Laboratory, James Forrestal Campus, Princeton, NJ 08542

U.S. Department of Energy, Radiobiology & Environmental Health Laboratory, University of California, San Francisco, Box 0750, 3rd Avenue & Parnassos Avenue, San Francisco, CA 94143-0750

U.S. Department of Energy, Richland Operations Office, 825 Jadwin Avenue, P.O. Box 550, Richland, WA 99352

U.S. Department of Energy, Rocky Flats Field Office, 10808 Highway 93, Unit A, Golden, CO 90403-8200

U.S. Department of Energy, Sandia National Laboratories, 1515 Eubank Blvd., SE, Albuquerque, NM 87123

U.S. Department of Energy, Sandia National Laboratories, 7011 E Avenue, Livermore, CA 94551-0969

U.S. Department of Energy, Savannah River Ecology Laboratory, Drawer E, Aiken, SC 29802

U.S. Department of Energy, Savannah River Operations Office, Road 1A, Aiken, SC 29801

U.S. Department of Energy, Seattle Regional Office, 800 Fifth Avenue, Suite 3950, Seattle, WA 98104

U.S. Department of Energy, Southeastern Power Administration, 2 South Public Square, Samuel Elbert Bldg., Elberton, GA 30635

U.S. Department of Energy, Southwestern Power Administration, P.O. Box 728, Gore, OK 74435

U.S. Department of Energy, Southwestern Power Administration, P.O. Box 1223, Jonesboro, AR 72403

U.S. Department of Energy, Southwestern Power Administration, P.O. Box 3337, Springfield, MO 65808

U.S. Department of Energy, Southwestern Power Administration, P.O. Box 1619, Tulsa, OK 74101

U.S. Department of Energy, Stanford Linear Accelerator Center, 2575 Sand Hill Road, Menlo Park, CA 94025

U.S. Department of Energy, Stanford Site Office, 2575 Sand Hill Road, B-41, MS: 8-A, Menlo Park, CA 94025

U.S. Department of Energy, Stanford Synchrotron Radiology Laboratory, Stanford University, P.O. Box 4349, MS 69, Stanford, CA 94025

U.S. Department of Energy, Strategic Petroleum Reserve Project Office, 900 Commerce Road East, New Orleans, LA 70123

U.S. Department of Energy, Laboratory of Structural Biology and Molecular Medicine, University of California, 900 Veteran Avenue, Los Angeles, CA 90024-1786

U.S. Department of Energy, Thomas Jefferson National Accelerator Facility, 12000 Jefferson Avenue, Newport News, VA 23606

U.S. Department of Energy, Waste Isolation Pilot Project Office, P.O. Box 3090, Carlsbad, NM 88221

U.S. Department of Energy, West Valley Demonstration Project, 10282 Rock Springs Road, West Valley, NY 14171-9799

U.S. Department of Energy, Western Area Power Administration, 12155 W. Alameda Parkway, Lakewood, CO 80228-1213

U.S. Department of Energy, Western Area Power Administration, 1800 South Rio Grande, Montrose, CO 81401

U.S. Department of Energy, Western Area Power Administration, Colorado River Storage Region, 257 E 200 S, Suite 475, Salt Lake City, UT 84111-2048

U.S. Department of Energy, Western Area Power Administration, Desert Southwest Region, 615 S. 43rd Avenue, Phoenix, AZ 85009

U.S. Department of Energy, Western Area Power Administration, Rocky Mountain Region, 5555 E. Crossroads Blvd., Loveland, CO 80538-8986

U.S. Department of Energy, Western Area Power Administration, Sierra Nevada Region, 114 Parkshore Drive, Folsom, CA 95630-4710

U.S. Department of Energy, Western Area Power Administration, Upper Great Plains Region, 2900 4th Avenue North, Billings, MT 59101-1266

U.S. Department of Energy, Yucca Mountain Site Characterization Office, 1551 Hillshire Drive, Suite A, Las Vegas, NV 89134

Categories of individuals covered by the system:

This system of records contains materials submitted to DOE for the purpose of seeking assistance in obtaining compensation for an illness believed to have been contracted due to employment by or for DOE. These records may pertain to individuals in the following categories who contacted DOE through the Workers' Compensation Helpline, through a member of Congress, or through correspondence in any format. These individuals may be: (1) Members of the public; (2) employees or surrogates of employees of DOE, its predecessor agencies, and their contractors and subcontractors; (3) former members of the armed forces.

Categories of records in the system:

Telephone conversations; correspondence to DOE from individuals, members of Congress, attorneys who represent workers, other surrogates of workers, doctors, and other Federal agencies; medical records; employment records; exposure records; safety records or other incident reports, including but not limited to area sampling data, accidental releases, explosions, spills, etc.; workers' or family members' contemporaneous diaries, journals, or other notes; internal DOE forms for reviewing worker cases; physical and vocational rehabilitation records; records pertaining to previously filed claims; and any other records related to or pertinent to the condition or case.

Authority for maintenance of the system:

42 U.S.C. 7101 et seq.; 50 U.S.C. 2401 et seq.; The Energy Employees Occupational Illness Compensation Program Act of 2000, Pub. L.106-398.

Purpose(s):

The purpose of this system of records is to collect and maintain records needed by the Office of Worker Advocacy to assist current and former DOE contractor employees or their families in connection with the filing of state workers' compensation claims for conditions that may be due to exposures during employment by or for DOE. The assistance provided by this Office may include, but is not limited to the following: (1) Maintaining a helpline, (2) conducting outreach and educational programs, (3) providing referral assistance, and (4) case review. Although the primary focus is on DOE contractor employees, assistance may be provided to DOE federal employees and employees of other agencies by directing them to the appropriate compensation programs, such as the Federal Employees Compensation Act program administered by the Department of Labor.

Individually identifiable information will not appear in published or unpublished reports, studies or surveys. However, the system will contain records compiled in completing published or unpublished reports, studies or surveys from which information may be retrieved by name or other personal identifier. Non-identifiable information regarding the assumptions, methodology, and data used in establishing radiation doses under section 3623(d) of the Energy Employees Occupational Illness Compensation Program Act of 2000 will be made available to researchers and the general public, consistent with the protection of private medical records.

Routine uses of the records maintained in the system, including categories of users and purposes of such uses:

1. A record from this system may be disclosed as a routine use to DOE contractors in performance of their contracts, and their officers and employees who have a need for the record in the performance of their duties. Those provided information under this routine use are subject to the same limitations applicable to Department officers and employees under the Privacy Act.

2. A record from this system may be disclosed as a routine use to DOE financial assistance recipients in performance of their financial assistance agreements, and their officers and employees who have a need for the record in the performance of their duties. Those provided information under this routine use are subject to the same limitations applicable to Department officers and employees under the Privacy Act.

3. A record from this system may be disclosed as a routine use to other state and Federal agencies or entities whose mission entails reviewing or managing workers' compensation claims or administering other benefits programs. Those provided information under this routine use are subject to the same limitations applicable to Department officers and employees under the Privacy Act.

4. A record from this system may be disclosed as a routine use to members of a physicians panel(s) established to review and provide a determination regarding whether the illness or death that is the subject of an application for compensation arose out of and in the course of employment by or for DOE. Those provided information under this routine use are subject to the same limitations applicable to Department officers and employees under the Privacy Act.

5. A record from this system may be disclosed as a routine use to medical specialists in fields that include occupational medicine, pulmonology, immunology, toxicology, dermatology, hematology/oncology, rheumatology, neurology, neurotoxicology, psychiatry, psychology, endocrinology, pathology, and any other specialty that the physicians panel member(s) deem necessary to reach a conclusion in a case. Those provided information under this routine use are subject to the same limitations applicable to Department officers and employees under the Privacy Act.

6. A record from this system may be disclosed as a routine use to the personnel, contractors, grantees, and cooperative agreement holders of the Federal agency or agencies and its components, designated by the President to implement the Federal compensation program established by the Energy Employees Occupational Illness Compensation Program Act. Those provided information under this routine use are subject to the same limitations applicable to Department officers and employees under the Privacy Act.

7. A record from this system may be disclosed as a routine use to the members and the staff of the DOE advisory committee established to provide advice on workers' compensation issues, and the members and the staff of an advisory board on Radiation and Worker Health required to be established under the Energy Employees Occupational Illness Compensation Program Act. All recipients of such records are required to comply with the Privacy Act, to follow prescribed measures to protect personal privacy, and to disclose or use personally identifiable information only for the purpose of providing advice relating to workers' compensation.

8. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

9. A record from this system may be disclosed as a routine use to the Department of Justice when DOE determines that an individual may be eligible for compensation under the Radiation Exposure and Compensation Act of 1990 (42 U.S.C. 2210, note, and as further clarified in 28 CFR part 79), a compensation program administered by the Department of Justice.

10. A record from this system may be disclosed as a routine use to the appropriate local, state or Federal agency when the record alone or in conjunction with other information, indicates a violation or potential violation of law whether civil, criminal, or regulatory in nature.

11. A record from this system be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available information to researchers and the general public on the assumptions, methodology, and data used in establishing radiation doses consistent with the protection of private medical records. Those provided information under this routine use are subject to the same limitations applicable to Department officers and employees under the Privacy Act.

Policies and practices for storing, retrieving, accessing, retaining and disposing of records in the system:

Storage:

Records may be stored as paper records, microfilm, and electronic media.

Retrievability:

Records may be retrieved by the name of the individual, case number and document number.

Safeguards:

Paper records are maintained in locked cabinets and desks. Electronic records are controlled through established DOE computer center procedures (personnel screening and physical security), and they are password protected. Passwords are known only by the system manager. Access is limited to those whose official duties require access to records.

Retention and disposal:

Records retention and disposal authorities are contained in the National Archives and Records Administration (NARA) General Records Schedule and DOE record schedules that have been approved by NARA.

System manager(s) and address:

U.S. Department of Energy, Director, Office of Worker Advocacy, 1000 Independence Ave, SW., Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at location where the work is performed. In accordance with the DOE Privacy Act regulation, proper identification is required before a request is processed.

Contesting Record Procedures:

Same as notification procedures.

Record Source Categories:

Records in this systems will be obtained from sources, including, but not limited to the individual who is the subject of the records; physicians and other medical professionals; medical institutions; state and Federal workers' compensation offices; family members of the subject; attorneys representing the individual; individuals' employer, including DOE and its contractors and subcontractors; medical laboratories; other state and Federal agencies.

Systems Exempted From Certain Provisions of the Privacy Act:

None.

DOE-11

System name:

Emergency Operations Notification Call List.

Security classification:

Unclassified.

System location:

U.S. Department of Energy, Albuquerque Operations Office, P.O. Box 5400, Albuquerque, NM 87185-5400

U.S. Department of Energy, Bonneville Power Administration, P.O. Box 3621, Portland, OR 97208

U.S. Department of Energy, Chicago Operations Office, 9800 South Cass Avenue, Argonne, IL 60439

U.S. Department of Energy, Golden Field Office, 1617 Cole Boulevard, Golden, CO 80401

U.S. Department of Energy, Headquarters, 1000 Independence Avenue, SW., Washington, DC 20585

U.S. Department of Energy, Idaho Operations Office, 850 Energy Drive, Idaho Falls, ID 83401

U.S. Department of Energy, National Energy Technology Laboratory (Morgantown), P.O. Box 880, Morgantown, WV 26507

U.S. Department of Energy, National Energy Technology Laboratory (Pittsburgh), P.O. Box 10940, Pittsburgh, PA 15236-0940

U.S. Department of Energy, National Petroleum Technology Office, William Center Tower One, 1 West Third Street, Suite 1400, Tulsa, OK 74103

U.S. Department of Energy, Office of Naval Reactors, Crystal City, VA 22202

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Ohio Field Office, P.O. Box 3020, Miamisburg, OH 45343-3020

U.S. Department of Energy, Richland Operations Office, 825 Jadwin Avenue, P.O. Box 550, Richland, WA 99352

U.S. Department of Energy, Rocky Flats Field Office, 10808 Highway 93, Unit A, Golden, CO 80403-8200

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Bldg., Public Square, Elberton, GA 30635

U.S. Department of Energy, Southwestern Power Administration, P.O. Box 1619, Tulsa, OK 74101

U.S. Department of Energy, Strategic Petroleum Reserve Project Office, 900 Commerce Road East, New Orleans, LA 70123

U.S. Department of Energy, Western Area Power Administration, P.O. Box 3402, Golden, CO 80401

U.S. Department of Energy, Yucca Mountain Site Characterization Office, 1551 Hillshire Drive, Suite A, Las Vegas, NV 89134

Categories of individuals covered by the system:

Department of Energy (DOE) senior officials, office directors and key support staff, and DOE contractors involved in DOE Headquarters emergency management and operations activities.

Categories of records in the system:

Name, office telephone number, home telephone number, home address and pager and cellular phone numbers (if appropriate).

Authority for maintenance of the system:

42 U.S.C. 7101 et seq. and 50 U.S.C. 2401 et seq.

Purpose(s):

The records are maintained and used by the DOE to create a list that will enable 24 hour contact with select DOE Headquarters personnel and contractors to inform them of situations, occurrences, and emergencies that may impact DOE facilities or activities.

Routine uses of records maintained in the system, including categories of users and the purposes of such uses:

A record from the system may be disclosed as a routine use to DOE contractors in performance of their contracts, and their officers and employees who have a need for the record in the performance of their duties. Those provided information under this routine use are subject to the same limitations applicable to DOE officers and employees under the Privacy Act.

Policies and practices for storing, retrieving, accessing, retaining, and disposing of records in the system:

Storage:

Records may be stored as paper records and electronic media.

Retrievability:

Records may be retrieved by name of subject individual.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters, Director, Office of Nonproliferation and National Security, U.S. Department of Energy, 1000 Independence Avenue, SW., Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

The subject individual.

System exempted from certain provisions of the Act:

None.

DOE-12

System Name:

Automated Materials and Property Systems (AMPS).

Security Classification:

Unclassified.

System Location:

U. S. Department of Energy, Headquarters, 1000 Independence Avenue, SW., Washington, DC 20585

U.S. Department of Energy, Germantown, 19901 Germantown Road, Germantown, MD 20784-1290

Categories of Individuals Covered by the System:

Current Department of Energy (DOE) Headquarters employees who purchase supply products at the three Self Service Stores in the Washington, DC area and vicinity.

Categories of Records in the System:

Name of DOE employee, organization, date of purchase, quantity, and price.

Authority for Maintenance of the System:

42 U.S.C. 7101 et seq.; 50 U.S.C. 2401 et seq.; 42 U.S.C. 7263, and 42 U.S.C. 5815G.

Purpose(s):

The records are maintained and used by the Department for billing purposes under the Working Capitol Fund (WFC). The WCF issues bills to Headquarters program offices for both stock and non stock supplies that were purchased for use by employees to perform their work.

Routine Uses of Records Maintained in the System including Categories of Users and Purposes of Such Uses:

1. A record from this system of records may be disclosed as a routine use to DOE contractors in performance of their contracts, and their officers and employees who have a need for the record in the performance of their duties. Those provided information under this routine use are subject to the same limitations applicable to DOE officers and employees under the Privacy Act.

2. A record in this system of records may be disclosed as a routine use to a member of Congress submitting a request involving the constituent when the constituent has requested assistance from the member concerning the subject matter of the record. The member of Congress must provide a copy of the constituent's request for assistance.

Policies and Practices for Storing, Retrieving, Accessing, Retaining and Disposing of Records in the System:

Storage:

Records may be stored as paper records and electronic media.

Retrievability:

Records may be retrieved by name and badge number of the DOE employee.

Retention and Disposal:

Records retention and disposal authorities are contained in the National Archives and Records Administration (NARA) General Records Schedule and DOE record schedules that have been approved by NARA.

System Manager(s) and Address:

Director, Assets Management and Support Services Group 1000 Independence Avenue, SW., Washington, DC 20585

Notification Procedures:

In accordance with the DOE regulation implementing the Privacy Act, Title 10, Code of Federal Regulations, Part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic locations(s) where the requester believes the records are located.

Records Access Procedures:

Same as Notifications procedures above. Records are generally kept at locations where the work is performed. In accordance with the DOE Privacy Act regulation, proper identification is required before a request is processed.

Contesting Record Procedures:

Same as Notification procedures above.

Record Source Categories:

Sources of information for the system include: supplies and their respective price lists that are purchased and placed into the supply system for sale; purchases made by DOE employees; and the information contained on the employee's badge.

System Exempt from certain provision of the Act:

None.

DOE-13

System name:

Payroll and Leave Records.

System classification:

Unclassified.

System location:

U.S. Department of Energy, Headquarters, 1000 Independence Avenue, SW., Washington, DC 20585

U.S. Department of Energy, Alaska Power Administration, Federal Records Center, San Point Way, NE., Seattle, WA 98115

U.S. Department of Energy, Albuquerque Operations Office, P.O. Box 5400, Albuquerque, NM 87185-5400

U.S. Department of Energy, Atlanta Regional Support Office, 730 Peachtree, NE., Suite 876, Atlanta, GA 30308

U.S. Department of Energy, Bonneville Power Administration, P.O. Box 3621, Portland, OR 97208

U.S. Department of Energy, Boston Regional Support Office, One Congress Street, Room 1101, Boston, MA 021144-2021

U.S. Department of Energy, Chicago Operations Office, 9800 South Cass Avenue, Argonne, IL 60439

U.S. Department of Energy, Golden Field Office, 1617 Cole Boulevard, Golden, CO 80401

U.S. Department of Energy, Idaho Operations Office, 850 Energy Drive, Idaho Falls, ID 83401

U.S. Department of Energy, National Energy Technology Laboratory (Morgantown), P.O. Box 880, Morgantown, WV 26507-0880

U.S. Department of Energy, National Energy Technology Laboratory (Pittsburgh), 626 Cochrans Mill Road, Pittsburgh, PA 15236-0940

U.S. Department of Energy, National Petroleum Technology Office, William Center Tower One, 1 West Third Street, Suite 1400, Tulsa, OK 74103

U.S. Department of Energy, Naval Petroleum and Oil Shale Reserves, 907 N. Poplar, Suite 150, Casper, WY 82601

U.S. Department of Energy, Naval Petroleum Reserves in California, 1601 New Stine Road, Suite 240, Bakersfield, CA 93309

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Office of Scientific & Technical Information, P.O. Box 62, Oak Ridge, TN 37831

U.S. Department of Energy, Ohio Field Office, P.O. Box 3020, Miamisburg, OH 45343

U.S. Department of Energy, Philadelphia Regional Support Office, 1880 John F. Kennedy Boulevard, Suite 501, Philadelphia, PA 19103-7483

U.S. Department of Energy, Pittsburgh Naval Reactors Office, P.O. Box 109, West Mifflin, PA 15122-0109

U.S. Department of Energy, Richland Operations Office, P.O. Box 550, Richland, WA 99352

U.S. Department of Energy, Rocky Flats Field Office, 10808 Highway 93, Unit A, Golden, CO 80403-8200

U.S. Department of Energy, Savannah River Operations Office, PO A, Aiken, SC 29801

U.S. Department of Energy, Seattle Regional Support Office, 800 Fifth Avenue, Suite 3950, Seattle, WA 98104

U.S. Department of Energy, Schenectady Naval Reactors Office, P.O. Box 1069, Schenectady, NY 12301

U.S. Department of Energy, Southeastern Power Administration, Samuel Elbert Building, Elberton, GA 30635

U.S. Department of Energy, Southwestern Power Administration, P.O. Box 1619, Tulsa, OK 74101

U.S. Department of Energy, Strategic Petroleum Reserve Project Office, 900 Commerce Road East, New Orleans, LA 70123

U.S. Department of Energy, Western Area Power Administration, P.O. Box 3402, Golden, CO 80401

U.S. Department of Energy, Yucca Mountain Site Characterization Office, 1551 Hillshire Drive, Suite A, Las Vegas, NV 89134

Categories of individuals covered by the system:

Department of Energy (DOE) personnel and consultants.

Categories of records in the system:

Time and attendance records, earning records, payroll actions, deduction information requests, authorizations for overtime and night differential, and Office of Personnel Management (OPM) retirement records.

Authority for maintenance of the system:

42 U.S.C. 7101 et seq.; 50 U.S.C. 2401 et seq.; Privacy Act of 1974, Pub. L. 93-579 (5 U.S.C. 552a); General Accounting Office Policy and Procedures Manual; Personal Responsibility and Work Opportunity Reconciliation Act, Pub. L. 104-193.

Purpose(s):

The records are maintained and used by the DOE to document historical information on employee wages, deductions, retirement benefits, and leave.

Routine uses of records maintained in the system, including categories of users and the purposes of such uses:

1. A record from this system may be disclosed as a routine use to the Department of Treasury to collect withheld taxes, process payroll payments, and issue savings bonds.

2. A record from this system may be disclosed as a routine use to the Internal Revenue Service to process Federal income tax payments and tax levies.

3. A record from this system may be disclosed as a routine use to state and local governments to process State and local income tax deductions and court ordered child support or alimony payments.

4. A record from this system may be disclosed as a routine use to OPM to establish and maintain retirement records and benefits.

5. A record from this system may be disclosed as a routine use to the Thrift Savings Board to update Section 401K type records and benefits.

6. A record from this system may be disclosed as a routine use to the Social Security Administration to establish Social Security records and benefits.

7. A record from this system may be disclosed as a routine use to the Department of Labor to process workmen's compensation claims.

8. A record from this system may be disclosed as a routine use to the Department of Defense to adjust military retirement.

9. A record from this system may be disclosed as a routine use to financial institutions to credit net check deposits, savings allotments, and discretionary allotments.

10. A record from this system may be disclosed as a routine use to the employee unions to credit accounts for employees with union dues deductions.

11. A record from this system may be disclosed as a routine use to health insurance carriers to process insurance claims.

12. A record from this system may be disclosed as a routine use to the General Accounting Office to verify accuracy and legality of disbursement.

13. A record from this system may be disclosed as a routine use to the Department of Veterans Affairs to evaluate veteran's benefits to which the individual may be entitled.

14. A record from this system may be disclosed as a routine use to States' departments of employment security to determine entitlement to unemployment compensation or other State benefits.

15. A record from the system may be disclosed as a routine use to the appropriate local, State or Federal agency in the event that a record within this system of records, alone or in conjunction with other information, indicates a violation or potential violation of law whether civil, criminal, or regulatory in nature.

16. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

17. A record from the system may be disclosed as a routine use to DOE contractors in performance of their contracts, and their officers and employees who have a need for the record in the performance of their duties. Those provided information under this routine use are subject to the same limitations applicable to DOE officers and employees under the Privacy Act.

18. A record from this system of records may be disclosed as a routine use to a member of Congress submitting a request involving the constituent when the constituent has requested assistance from the member concerning the subject matter of the record. The member of Congress must provide a copy of the constituent's request for assistance.

19. A record from this system may be disclosed as a routine use to the Office of Child Support Enforcement, Administration for Children and Families, Department of Health and Human Services, Federal Parent Locator System (FPLS) and Federal Tax Offset System to locate individuals and identify their income sources to establish paternity, establish and modify orders of support, and for enforcement action.

20. A record from this system may be disclosed as a routine use to the Office of Child Support Enforcement, Administration for Children and Families, Department of Health and Human Services, FPLS and Federal Tax Offset System, for release to the Social Security Administration to verify social security numbers in connection with the operation of the FPLS by the Office of Child Support Enforcement.

21. A record from this system may be disclosed as a routine use to the Office of Child Support Enforcement, Administration for Children and Families, Department of Health and Human Services, FPLS and Federal Tax Offset System, for release to the Department of Treasury to administer the Earned Income Tax Credit Program (Section 32, Internal Revenue Code of 1986) and verify a claim with respect to employment in a tax return.

Policies and practices for storing, retrieving, accessing, retaining, and disposing of records in the system:

Storage:

Records may be stored as paper records and electronic media.

Retrievability:

Records may be retrieved by name, social security number, and payroll number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Director, U.S. Department of Energy, Office of Chief Financial Officer, 1000 Independence Avenue, SW., Washington, DC 20585.

Field Offices: The Managers of the “System locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

The subject individual, supervisors, timekeepers, official personnel records, and the Internal Revenue Service.

System exempt from certain provisions of the Act:

None.

DOE-14

System name:

Report of Compensation.

Security classification:

Unclassified.

System location:

U.S. Department of Energy Headquarters, 1000 Independence Avenue, SW., Washington, DC 20585

U.S. Department of Energy, Albuquerque Operations Office, P.O. Box 5400, Albuquerque, NM 87115

U.S. Department of Energy, Chicago Operations Office, 9800 South Cass Avenue, Argonne, IL 60439

U.S. Department of Energy, Golden Field Office, 1617 Cole Boulevard, Golden, CO 80401

U.S. Department of Energy, Idaho Operations Office, 850 Energy Drive, Idaho Falls, ID 83401

U.S. Department of Energy, National Energy Technology Laboratory (Morgantown), P.O. Box 880, Morgantown, WV 26507-0880

U.S. Department of Energy, National Energy Technology Laboratory (Pittsburgh), P.O. Box 10940, Pittsburgh, PA 15236-0940

U.S. Department of Energy, National Petroleum Technology Office, William Center Tower One, 1 West Third Street, Suite 1400, Tulsa, OK 74103

U.S. Department of Energy, Naval Petroleum Reserves in California, Post Office Box 11, Tupman, CA 93276

U.S. Department of Energy, Naval Petroleum and Oil Shale Reserves, 907 North Poplar, Suite 150, Casper, WY 82601

U.S. Department of Energy, Nevada Operations Office, P.O. Box 14100, Las Vegas, NV 89114

U.S. Department of Energy, Oak Ridge Operations Office, P.O. Box E, Oak Ridge, TN 37830

U.S. Department of Energy, Oakland Operations Office, 1301 Clay Street, 700 N, Oakland, CA 94612-5208

U.S. Department of Energy, Pittsburgh Naval Reactors, P.O. Box 109, Pittsburgh, PA 15122

U.S. Department of Energy, Richland Operations Office, P.O. Box 550, Richland, WA 99352

U.S. Department of Energy, Rocky Flats Field Office, 10808 Highway 93, Unit A, Golden, CO 80403-8200

U.S. Department of Energy, Savannah River Operations Office, P.O. Box A, Aiken, SC 29801

U.S. Department of Energy, Schenectady Naval Reactors Office, P.O. Box 1069, Schenectady, NY 12301

U.S. Department of Energy, Strategic Petroleum Reserve Office, 9000 Commerce Road East, New Orleans, LA 70123

Categories of individuals covered by the system:

Employees of the Department of Energy (DOE) and contractors performing and operating onsite service work in the DOE-owned or controlled facilities, including long-term architect-engineering and cost-reimbursement construction contractors.

Categories of records in the system:

Name, job title, contractor, current salary up to $100,000, amount reimbursed, and other compensation (actual and amount reimbursed).

Authority for maintenance of the system:

42 U.S.C. 7101 et seq. and 50 U.S.C. 2401 et seq.

Purpose(s):

The records are maintained and used by the DOE to aid Managers of Field Offices, Program Secretarial Officers and Headquarters Program Managers in determining the reasonableness of compensation paid to top level contractor employees and to monitor the growth of contractor compensation at all levels.

Routine uses of records maintained in the system, including categories of users and the purposes of such uses:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to DOE contractors in performance of their contracts, and their officers and employees who have a need for the record in the performance of their duties. Those provided information under this routine use are subject to the same limitations applicable to DOE officers and employees under the Privacy Act.

Policies and practices for storing, retrieving, accessing, retaining, and disposing of records in the system:

Storage:

Records may be stored as magnetic tape and paper records.

Retrievability:

Records may be retrieved by name.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Director, Office of Contractor and Resource Management, U.S. Department of Energy, 1000 Independence Avenue, SW., Washington, DC 20585.

Field Offices: The Managers of the “System locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Contractor salary administrative personnel.

Systems exempted from certain provisions of the Act:

None.

DOE-15

System name:

Intelligence Related Access Authorization.

Security classification:

Classified and unclassified.

System location:

U.S. Department of Energy, Office of Intelligence, 1000 Independence Avenue, SW., Washington, DC 20585

U.S. Department of Energy, Lawrence Livermore National Laboratory, 7000 East Avenue, B-261, Livermore, CA 94551

U.S. Department of Energy, Idaho National Engineering & Environmental Laboratory Systems Analysis Facility, 2271 N. Boulevard, Idaho Falls, ID 83403

U.S. Department of Energy, Nevada Operations Office, 232 Energy Way, Las Vegas, NV 89193

U.S. Department of Energy, Pacific Northwest National Laboratory, Energy & Environmental Sciences Building (EESB), 3230 Q Avenue, Richland, WA 99352

U.S. Department of Energy, Sandia National Laboratories, Center for National Security & Arms Control, Building 810W, Albuquerque, NM 87185

U.S. Department of Energy, Remote Sensing Laboratory, EG&G/EM, 4600 N. Hollywood Blvd. Nellis AFB, Bldg 2211, Las Vegas, NV 89191-6403

U.S. Department of Energy, Los Alamos National Laboratory, Nonproliferation & National Security, TA-3, Building SM-43, Los Alamos, NM 87544

U.S. Department of Energy, Savannah River Operations Office, Savannah River Technology Center, Technical Area 700, Bdlg 735-A, New Ellington, SC 29809

U.S. Department of Energy, Special Technologies Laboratory, 5520 Ekwill Street, Santa Barbara, CA 93111

U.S. Department of Energy, Lockheed Martin Energy Systems, P.O. Box 2003, Blair Road Oak Ridge, TN 37831-7312

Categories of individuals covered by the system:

Current and former DOE employees and contractor employees; applicants for employment at DOE; individuals who may be assigned or detailed to Federal positions at DOE; consultants to DOE.

Categories of records in the system:

The following information may be maintained in the system: Results of background investigations, law enforcement records, reports and files; reports on foreign contacts/travel; records, reports and files received from other DOE elements and other Federal agencies related to intelligence activities; polygraph examination records, reports and videotapes of the polygraph session; eligibility evaluation reports; and electronic mail stored on CD.

Authority for maintenance of the system:

42 U.S.C. 7101 et seq.; 50 U.S.C., 2401 et seq.; The Atomic Energy Act of 1954, as amended; 42 U.S.C. 7239; Executive Order 12333, United States Intelligence Activities (December 4, 1981); Department of Energy Procedures for Intelligence Activities, approved by the Attorney General under Executive Order 12333 (October 19, 1992); Executive Order 12958, Classified National Security Information (April 17, 1995); Executive Order 12968, Access to Classified Information (August 2, 1995); Presidential Decision Directive-61, U.S. Department of Energy Counterintelligence Program, and DOE Order 5670.1A, Management and Control of Foreign Intelligence.

Purpose(s):

The records are maintained and used by the DOE to conduct eligibility determinations, adjudications, revocations and appeals from denials and revocations. Under DOE Order 5670.1A the Director of Intelligence is directed to control access to and use of Sensitive Compartmented Information (SCI) and other classified Intelligence information bearing the Director, Central Intelligence (DCI) authorized control markings; and approve access to SCI in compliance with DCI directives.

Routine uses of records maintained in the system, including categories of users and purposes of such uses:

1. A record from this system may be disclosed as a routine use to the appropriate Federal, State, or local agency when records alone or in conjunction with other information, indicates a violation or potential violation of law whether civil, criminal, or regulatory in nature, and whether arising by general statute of particular program pursuant thereto.

2. A record from the system may be disclosed as a routine use to a Federal, state or local agency to obtain information relevant to a Departmental decision concerning the hiring or retention of an employee, the issuance of a security clearance, the letting of a contract, or the issuance of a license, grant, or other benefit. The Department must deem such disclosure to be compatible with the purpose for which the Department collected the information.

3. A record from this system may be disclosed as a routine use for the purpose of an investigation, settlement of claims, or the preparation and conduct of litigation to (1) a person representing the Department in the investigation, settlement or litigation, and to individuals assisting in such representation; (2) others involved in the investigation, settlement, and litigation, and their representatives and individuals assisting those representatives; and (3) a witness, potential witness, or their representatives and assistants, and any person possessing information pertaining to the matter when it is necessary to obtain information or testimony relevant to the matter, the reporting of an investigation of an employee, the letting of a contract, or the issuance of a license, grant, or other benefit, to the extent that the information is relevant and necessary to the requesting agency's decision on the matter.

4. A record from this system may be disclosed as a routine use in court or administrative proceedings to the tribunals, counsel, other parties, witnesses, and the public (in publicly available pleadings, filings or discussion in open court) when such disclosure: (1) Is relevant to and necessary for, the proceeding; and (2) compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

5. A record from this system may be disclosed as a routine use to foreign governments in accordance with treaties, international conventions, or executive agreements.

6. A record from the system may be disclosed as a routine use to DOE contractors in performance of their contracts, and their officers and employees who have a need for the record in the performance of their duties. Those provided information under this routine use are subject to the same limitations applicable to DOE officers and employees under the Privacy Act.

7. A record from the system of records may be disclosed to a member of Congress submitting a request involving the constituent when the constituent has requested assistance from the member concerning the subject matter of the record. The member of Congress must provide a copy of the constituent's request for assistance.

Policies and practices for storing, retrieving, accessing, retaining, and disposing of records in the system.

Storage:

Records may be stored as paper records, electronic media, and videotapes.

Retrievability:

Records may be retrieved by name and/or social security number.

Safeguards:

Paper records and videotapes are maintained in locked cabinets. Electronic records are controlled through established DOE computer center procedures (personnel screening and physical security), secured for classified information and are password protected. Passwords are known only by the system manager. Access is limited to those whose official duties require access to the records.

Retention and disposal:

Records retention and disposal authorities are contained in the National Archives and Records Administration (NARA) General Records Schedule and DOE record schedules that have been approved by NARA.

System manager(s) and address:

Director, Office of Intelligence, U.S. Department of Energy, Forrestal Building, 1000 Independence Avenue, SW., Washington, DC 20585.

Field Offices: The managers of the System Locations listed above are the system managers for their respective portions of this system.

Notification procedures:

In accordance with the Department's Privacy Act regulation at Title 10, Code of Federal Regulations, part 1008, a request by an individual to determine if a system of records contains information about him/her should be directed to the Director, Headquarters, Freedom of Information Act and Privacy Act Division, U.S. Department of Energy, or the Privacy Act Office at the appropriate address identified above under System Locations. Requests for polygraph records should be directed to the FOIA/PA Division, U.S. Department of Energy (Headquarters). The request should include the requester's complete name, time period for which records are sought, and the geographic location(s) where the requester believes the records are located.

Record access procedures:

Same as notification procedures above. Records are generally kept at locations where work is performed. In accordance with DOE's Privacy Act regulation, proper identification is required before a request is processed.

Contesting record procedures:

Same as Notification Procedures above.

Record source categories:

The subject individual, present and former DOE employees and DOE contractor employees; consultants; publicly available material; other agencies within the Intelligence Community; other agencies within the U.S. Government, other offices within the DOE; the FBI, and other federal, state and local law enforcement agencies; and sources contacted during investigations.

System exempted from certain provisions of the Act:

This system is exempt pursuant to (k)(1), (2) and (5) of the Privacy Act, 5 U.S.C. 552a, to the extent that information within the system meets the requirements of those subsections of the Act. To the extent the information in this system of records is exempt pursuant to 5 U.S.C. 552a(k)(1), (2) and (5), the system has been further exempted from subsections (c)(3) and (4), (d), (e)(1), (e)(4)(G) and (H) and (f) of 5 U.S.C. 552a under the Privacy Act of 1974. See DOE's Privacy Act Regulation at 10 CFR 1008.12.

DOE-18

System name:

Accounts Payable Financial System.

Security classification:

Unclassified.

System location:

U.S. Department of Energy, Headquarters, 1000 Independence Avenue, SW., Washington, DC 20585

U.S. Department of Energy, Alaska Power Administration, Federal Records Center, San Point Way, NE., Seattle, WA 98115

U.S. Department of Energy, Albuquerque Operations Office, P.O. Box 5400, Albuquerque, NM 87185-5400

U.S. Department of Energy, Bonneville Power Administration, P.O. Box 3621, Portland, OR, 97208

U.S. Department of Energy, Chicago Operations Office, 9800 South Cass Avenue, Argonne, IL 60439

U.S. Department of Energy, Golden Field Office, 1617 Cole Boulevard, Golden, CO 80401

U.S. Department of Energy, Idaho Operations Office, 850 Energy Drive, Idaho Falls, ID 83404

U.S. Department of Energy, National Energy Technology Laboratory, (Morgantown), P.O. Box 880, Morgantown, WV 26507-0880

U.S. Department of Energy, National Energy Technology Laboratory, (Pittsburgh), P.O. Box 10940, Pittsburgh, PA 15236-0940

U. S. Department of Energy, National Petroleum Technology Office, William Center, Tower One, 1West Third Street, Suite 1400, Tulsa, OK 74103

U.S. Department of Energy, Naval Petroleum and Oil Shale Reserves, 907 North Poplar, Suite 150, Casper, WY 82601

U.S. Department of Energy, Naval Petroleum Reserves in California, P.O. Box 11, Tupman, CA 93276

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Ohio Field Office, P.O. Box 3020, Miamisburg, OH 45343

U.S. Department of Energy, Pittsburgh Naval Reactors Office, P.O. Box 109, West Mifflin, PA 15122-0109

U.S. Department of Energy, Richland Operations Office, P.O. Box 550, Richland, WA 99352

U. S. Department of Energy, Rocky Flats Field Office, 10808 Highway 93, Unit A, Golden, CO 80402-0928

U.S. Department of Energy, Savannah River Operations Office, P.O. Box A, Aiken, SC 29808

U.S. Department of Energy, Schenectady Naval Reactors Office, P.O. Box 1069, Schenectady, NY 12301-1069

U.S. Department of Energy, Southeastern Power Administration, Samuel Elbert Building, Public Square, Elberton, GA 30635

U.S. Department of Energy, Southwestern Power Administration, P.O. Box 1619, Tulsa, OK 74101

U.S. Department of Energy, Strategic Petroleum Reserve Project Office, 900 Commerce Road East, New Orleans, LA 70123

U.S. Department of Energy, Western Area Power Administration, P.O. Box 3402, Golden, CO 80401

U.S. Department of Energy, Yucca Mountain Site Characterization Office, 1551 Hillshire Drive, Suite A, Las Vegas, NV 89134

Categories of individuals covered by the system:

Creditors who are due money from the Department of Energy (DOE), including employees, former employees, contractors, and members of the general public.

Categories of records in the system:

Creditors name and address; amount owed and services or goods received; underpayment or other accounting information; invoice number; servicing bank name and address, and account number.

Authority for maintenance of the system:

42 U.S.C. 7101 et seq.; 50 U.S.C. 2401 et seq.; the GAO Policy and Procedures Manual; Statement of Federal Financial Accounting Standards published by the General Accounting Office and the Office of Management and Budget.

Purpose(s):

The records are maintained and used by the DOE to substantiate obligations and payments to individuals for goods and services received by the agency.

Routine uses of records maintained in the system, including categories of users and the purposes of such uses:

1. A record from the system may be disclosed as a routine use to the appropriate local, State or Federal when that record alone or in conjunction with other information, indicates a violation or potential violation of law whether civil, criminal, or regulatory in nature.

2. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

3. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; and (3) witness, potential witness, or their representatives and assistants, and any other person who possesses information pertaining to the matter, when it is necessary to obtain information or testimony relevant to the matter.

4. A record from the system may be disclosed as a routine use to DOE contractors in performance of their contracts, and their officers and employees who have a need for the record in the performance of their duties. Those provided information under this routine use are subject to the same limitations applicable to DOE officers and employees under the Privacy Act.

5. A record from this system may be disclosed as a routine use to a member of Congress submitting a request involving the constituent when the constituent has requested assistance from the member concerning the subject matter of the record. The member of Congress must provide a copy of the constituent's request for assistance.

Policies and practices for storing, retrieving, accessing, retaining, and disposing of records in the system:

Storage:

Records may be stored as paper, electronic files, and magnetic tapes.

Retrievability:

Records may be retrieved by name and personal identification.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: U.S. Department of Energy, Office of Chief Financial Officer, 1000 Independence Avenue, SW., Washington, DC 20585. Field Offices: The Managers of the “System locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Subject individual, contracting officer, and accounting records.

Systems exempted from certain provisions of the Act:

None.

DOE-19

System name:

Accounts Receivable Financial System.

Security classification:

Unclassified.

System location:

U.S. Department of Energy, Headquarters, 1000 Independence Avenue, SW., Washington, DC 20585

U.S. Department of Energy, Alaska Power Administration, Federal Records Center, San Point Way, NE., Seattle, WA 98115

U.S. Department of Energy, Albuquerque Operations Office, P.O. Box 5400, Albuquerque, NM 87185-5400

U.S. Department of Energy, Bonneville Power Administration, P.O. Box 3621, Portland, OR 97208

U.S. Department of Energy, Chicago Operations Office, 9800 South Cass Avenue, Argonne, IL 60439

U.S. Department of Energy, Golden Field Office, 1617 Cole Boulevard, Golden, CO 80401-3393

U.S. Department of Energy, Idaho Operations Office, 850 Energy Drive, Idaho Falls, ID 83401

U.S. Department of Energy, National Energy Technology Laboratory (Morgantown), P.O. Box 880, Morgantown, WV 26507-0880

U.S. Department of Energy, National Energy Technology Laboratory (Pittsburgh), P.O. Box 10940, Pittsburgh, PA 15122

U.S. Department of Energy, National Petroleum Technology Office, William Center Tower One, 1 West Third Street, Suite 1400, Tulsa, OK 74103

U.S. Department of Energy, Naval Petroleum and Oil Shale Reserve, 907 N. Poplar, Suite 150, Casper, WY 82601

U.S. Department of Energy, Naval Petroleum Reserves in California, P.O. Box 11, Tupman, CA 93276

U.S. Department of Energy, Nevada Operations Office, P.O. Box 98518, Las Vegas, NV89193-8518

U.S. Department of Energy, Oak Ridge Operations Office, P.O. Box 2001, Oak Ridge, TN 37831

U.S. Department of Energy, Oakland Operations Office, 1301 Clay Street, Suite 700N, Oakland, CA94612-5208

U.S. Department of Energy, Ohio Field Office, P.O. Box 3020, Miamisburg, OH 45343-3020

U.S. Department of Energy, Pittsburgh Naval Reactors Office, P.O. Box 10940, West Mifflin, PA 15236-0940

U.S. Department of Energy, Richland Operations Office, 825 Jadwin Avenue, Federal Building Lobby, Richland, WA 99352

U.S. Department of Energy, Rocky Flats Field Office, 10808 Highway 93, Unit A, Golden, CO 80402-0928

U.S. Department of Energy, Savannah River Operations Office, Road 1A, Aiken, SC 29801

U.S. Department of Energy, Schenectady Naval Reactors Office, P.O. Box 1069, Schenectady, NY 12301

U.S. Department of Energy, Southeastern Power Administration, Samuel Elbert Building, Elberton, GA 3063

U.S. Department of Energy, Southwestern Power Administration, P.O. Box 1619, Tulsa, OK 7410

U.S. Department of Energy, Strategic Petroleum Reserve Project Office, 900 Commerce Road East, New Orleans, LA 70123

U.S. Department of Energy, Western Area Power Administration, P.O. Box 3402, Golden, CO 80401

U.S. Department of Energy, Yucca Mountain Site Characterization Office, 1551 Hillshire Drive, Suite A, Las Vegas, NV 89134

Categories of individuals covered by the system:

Persons owing money to the Department of Energy (DOE).

Categories of records in system:

The following information may be maintained in the system:

name, address, telephone number, taxpayer identification number, and other applicable debtor identifying information; invoice number; amount and status of claim; and history of claim, including collection actions taken.

Authority for maintenance of the system:

42 U.S.C. 7101 et seq.; 50 U.S.C. 2401 et seq.; Debt Collection Improvement Act of 1996, 31 U.S.C. 3512; 5 U.S.C. 5701-09; Federal Property Management Regulations 101-107; Treasury Financial Manual; Executive Order 12009; and Executive Order 9397.

Purpose(s):

The records are maintained and used by the DOE to record and manage the Department's accounts receivables.

Routine uses of records maintained in the system, including categories of users and the purpose of such uses:

1. A record from this system may be disclosed as a routine use to other Federal agencies, consumer reporting agencies for acquiring credit information, and collection agencies to aid in the collection of outstanding debts owed to the Federal Government.

2. A record from this system may be disclosed as a routine use to Defense Manpower Data Center, Department of Defense, the United States Postal Service, and the other Federal, State, or local agencies to identify and locate, through computer matching, individuals indebted to DOE who are receiving Federal salaries or benefit payments. Information from the match will be used to collect the debts by voluntary repayment, by administrative offset, or by salary offset procedures.

3. A record from this system may be disclosed as a routine use to the Internal Revenue Service (1) to collect the debt by offset against the debtor's tax refunds under the Federal Tax Refund Offset Program, and (2) to obtain the mailing address of a taxpayer to collect a debt owed to the DOE. Subsequent disclosure by DOE to a consumer reporting agency is limited to the purpose of obtaining a commercial credit report on the particular taxpayer. The mailing address information will not be used for any other DOE purpose or disclosed by DOE to another Federal, State, or local agency which seeks to locate the same individual for its own debt collection purpose.

4. A record from this system may be disclosed as a routine use to the Department of the Treasury for the purpose of administrative offset and debt recovery under section 31001 (m)(1) of the Debt Collection Improvement Act of 1996 (Pub. L. 104-134).

5. A record from this system may be disclosed as a routine use to a “consumer reporting agency” as defined by the Fair Credit Reporting Act, 15 U.S.C. 1681a(f), or the Federal Claims Collections Act of 1966, 31 U.S.C. 3701(a)(3), in accordance with 31 U.S.C. 3711(f).

Policies and practices for storing, retrieving, accessing, retaining, and disposing of records in the system:

Storage:

Records may be stored as paper records and electronic media.

Retrievability:

Records may be retrieved by name, taxpayer identification number, or invoice number.

Retention and disposal:

Records retention and disposal authorities are contained in the National Archives and Records Administration (NARA) General Records Schedule and DOE record schedules that have been approved by NARA.

System manager(s) and address:

Headquarters: Office of Chief Financial Officer, U.S. Department of Energy, 1000 Independence Avenue, SW., Washington, DC 20585.

Field Offices: The Chief Financial Officers of the “System locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

The individual who is the subject of the record; contracting officer, where applicable; and accounting records.

System exempted from certain provisions of the Act:

None.

DOE-21

System name:

Emergency Defense Mobilization Files.

Security classification:

Unclassified.

System location:

U.S. Department of Energy, Headquarters, Office of Emergency Management, 1000 Independence Avenue, SW., Washington, DC 20585.

Categories of individuals covered by system:

Members of the National Defense Executive Reserve and other individuals assigned responsibilities in the event of a national defense emergency.

Categories of records in the system:

The following information may be maintained in the system:

name, home address, home telephone number, and e-mail address.

Authority for maintenance of system:

42 U.S.C. 7101 et seq.; 50 U.S.C. 2401 et seq.; Defense Production Act of 1950.

Purpose(s):

The records are maintained and used by the Department of Energy (DOE) to facilitate security clearance information for prompt re-assignment in the event of a reservist call-up and activation.

Routine uses of records maintained in the system, including categories of users and purposes of such uses:

1. A record from this system may be disclosed as a routine use to officials of other departments and agencies to administer the National Defense Executive Reserve Program.

2. A record from the system may be disclosed as a routine use to DOE contractors in performance of their contracts, and their officers and employees who have a need for the record in the performance of their duties. Those provided information under this routine use are subject to the same limitations applicable to DOE officers and employees under the Privacy Act.

Policies and practices for storing, retrieving, accessing, retaining, and disposing of records in the system:

Storage:

Records are stored as paper records.

Retrievability: Records may be retrieved by name.

Safeguards:

Paper records are maintained in locked cabinets and desks. Access is limited to those whose official duties require access to the records.

Retention and disposal:

Records retention and disposal authorities are contained in the National Archives and Records Administration (NARA) General Records Schedule and DOE record schedules that have been approved by NARA.

System manager(s) and address:

Headquarters: Director, Office of Emergency Management, U.S. Department of Energy, 1000 Independence Avenue, SW., Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Records access procedures:

Same as Notification procedures above. Records are generally kept at locations where the work is performed. In accordance with the DOE Privacy Act regulation, proper identification is required before a request is processed.

Contesting record procedures:

Same as Notification procedures above.

Record source categories:

The subject individual.

System exempted from certain provisions of the Act:

None.

DOE-23

System name:

Property Accountability System.

Security classification:

Unclassified.

System location:

U.S. Department of Energy, Bonneville Power Administration, P.O. Box 3621, Portland, OR 97208

U.S. Department of Energy, National Energy Technology Laboratory, (Pittsburgh) P.O. Box 10940, Pittsburgh, PA 15236-0940

U.S. Department of Energy, Richland Operations Office, P.O. Box 550, Richland, WA 99352

U.S. Department of Energy, Rocky Flats Field Office, 10808 Highway 93, Unit A, Golden, CO 80403-8200

U.S. Department of Energy, Southeastern Area Power Administration, 2 S. Public Square, Elberton, GA 30635-2496

U.S. Department of Energy, Southwestern Power Administration, P.O. Box 1619, Tulsa, OK, 74101

U.S. Department of Energy, Western Area Power Administration, P.O. Box 3402, Golden, CO 80401

Categories of individuals covered by the system:

Department of Energy (DOE) and contractor employees authorized to be custodians of controlled DOE equipment.

Categories of records in the system:

Item description, date of purchase, acquire date, purchase price, purchase order number, vendor and manufacturer, model/serial/license number, property tag identification, status/date, condition of property, operation number, high risk field, disposal code, responsible officer, the employees' assigned equipment, account numbers, organization, organization code, and location.

Authority for maintenance of the system:

42 U.S.C. 7101 et seq.; 50 U.S.C. 2401 et seq.; Federal Property and Administrative Services Act of 1949, section 202(b), 40 U.S.C. 483(b); and 41 CFR part 109, Federal Property Management Regulation (FPMR), Subchapter E, part 109.

Purpose(s):

The records are maintained and used by the DOE to (a) provide inventories to satisfy other Federal Procurement Management Regulation requirements; (b) to maintain a record of location of emergency equipment; (c) to control equipment assignments authorized under union contracts; (d) to provide management information necessary for the budgeting and allocation of equipment; and (e) to provide evidence of assignment, location, and value in the event that government property is stolen.

Routine uses of records maintained in the system, including categories of users and the purposes of such uses:

1. A record from this system may be disclosed as a routine use to any law enforcement agency as needed to provide evidence of assignment, location, and value in the event that Government property is stolen.

2. A record from the system may be disclosed as a routine use to the appropriate local, State or Federal agency when that record alone or in conjunction with other information, indicates a violation or potential violation of law whether civil, criminal, or regulatory in nature.

3. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; and (3) witness, potential witness, or their representatives and assistants, and any other person who possess information pertaining to the matter when it is necessary to obtain information or testimony relevant to the matter.

4. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity or in any individual capacity where the Department or other United States Government agency has agreed to represent the employee.

5. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

6. A record from the system may be disclosed as a routine use to DOE contractors in performance of their contracts, and their officers and employees who have a need for the record in the performance of their duties. Those provided information under this routine use are subject to the same limitations applicable to DOE officers and employees under the Privacy Act.

7. A record from this system of records may be disclosed as a routine use to a member of Congress submitting a request involving the constituent when the constituent has requested assistance from the member concerning the subject matter of the record. The member of Congress must provide a copy of the constituent's request for assistance.

Policies and practices for storing, retrieving, accessing, retaining and disposing of records in the system:

Storage:

Records may be stored as paper records, microfilm, and electronic media.

Retrievability:

Records may be retrieved by tag number, license number, custodian name, employee identification number, position number, accounting information, catalog number, contract number, make, model, security logon identification, serial number, and storage location.

Safeguards:

Paper records and microfilm are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

U.S. Department of Energy, Bonneville Power Administration, P.O. Box 3621, Portland, OR 97208

U.S. Department of Energy, National Energy Technology Laboratory (Pittsburgh), P.O. Box 10940, Pittsburgh, PA 15236-0940

U.S. Department of Energy, Richland Operations Office, P.O. Box 550, Richland, WA 99352

U.S. Department of Energy, Southeastern Area Power Administration, 2 S. Public Square, Elberton, GA 30635-2496

U.S. Department of Energy, Southwestern Power Administration, P.O. Box 1619, Tulsa, OK, 74101

U.S. Department of Energy, Western Area Power Administration, P.O. Box 3402, Golden, CO 80401

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Information in this system comes from the Payroll/Personnel system application, various internal Bonneville Power Administrative forms, accountable property representative and employees, data processing personnel, and supply officers.

System exempted from certain provisions of the Act:

None.

DOE-24

System name:

Land Records System.

Security classification:

Unclassified.

System location:

U.S. Department of Energy, Bonneville Power Administration, Information Resources, P.O. Box 3621, Portland, OR 97208

U.S. Department of Energy, Western Area Power Administration, P.O. Box 3402, Golden, CO 80401

Categories of individuals covered by the system:

Individuals from whom or to whom Western Area Power Administration and Bonneville Power Administration have acquired or given interests in land.

Categories of records in the system:

Individual, agency, and/or company names; description of land tract, type of agreement; rights granted or received; history of the transaction, and IRS Form 1099 information.

Authority for maintenance of the system:

42 U.S.C. 7101 et seq. and 50 U.S.C. 2401 et seq.

Purpose(s):

The records are maintained and used by the DOE to track land rights information resulting from property right acquisitions outgrants, licenses, transfer, exchanges, encroachments and disposals in support of Western Power Administration and Bonneville Power Administration construction and maintenance programs.

Routine uses of records maintained in the system, including categories of users and the purposes of such uses:

1. A record from the system may be disclosed as a routine use to DOE contractors in performance of their contracts, and their officers and employees who have a need for the record in the performance of their duties. Those provided information under this routine use are subject to the same limitations applicable to DOE officers and employees under the Privacy Act.

2. A record from this system may be disclosed as a routine use for the purpose of an investigation, settlement of claims, or the preparation and conduct of litigation to (1) a person representing the Department or assisting in such representation; (2) others involved in the matter, their representatives and persons assisting such persons; and (3) witnesses, potential witnesses, their representatives and assistants, and any other persons possessing information pertaining to the matter when it is necessary to obtain information or testimony relevant to the matter.

3. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

4. A record from the system may be disclosed as a routine use to DOE contractors in performance of their contracts, and their officers and employees who have a need for the record in the performance of their duties. Those provided information under this routine use are subject to the same limitations applicable to DOE officers and employees under the Privacy Act.

5. A record from the system may be disclosed as a routine use to the Internal Revenue Service to provide notification of individuals who have received payment exceeding $600 on any one land right transaction.

6. A record from the system may be disclosed as a routine use to the Department of Justice to provide support of land right condemnation actions.

7. A record from the system may be disclosed as a routine use to courts and attorneys for the purpose of land right settlement disputes or litigation.

Policies and practices for storing, retrieving, accessing, retaining, and disposing of records in the system:

Storage:

Records may be stored as paper records, microfilm, and electronic media.

Retrievability:

Records may be retrieved by line identification, personal identification, cross referenced by name of landowner, grantee, or grantor.

Safeguards:

Paper records and microfilm are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address(s):

Bonneville Power Administration: Manager, Real Estate, Bonneville Power Administration, U.S. Department of Energy, P.O. Box 3621, Portland, OR 97208

Western Area Power Administration: Director, Division of Lands, Western Area Power Administration, U.S. Department of Energy, P.O. Box 3402, Golden, CO 80401.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Information in this system comes from individual landowners, grantees, or grantors; agency officials; and state and local authorities.

System exempted from certain provisions of the Act:

None.

DOE-25

System name:

Commuter Locator and Parking Space Information System.

Security classification:

Unclassified.

System Location:

U.S. Department of Energy, 1000 Independence Avenue, SW., Washington, DC 20585.

Categories of individuals covered by the system:

All Department of Energy (DOE) employees and contractor employees who apply as members of a car pool or van pool for parking spaces managed and controlled by DOE under the general direction of the General Services Administration.

Categories of records in the system:

Name of driver and car or van pool members, federal service computation date, payroll and other assigned number, office address and telephone number, home addresses, home telephone numbers, make and year of automobile, state of registration, tag number of vehicles, number of days per week in the car pool or van pool, and other car pooling or van pooling information.

Authority for maintenance of the system:

42 U.S.C. 7101 et seq.; 50 U.S.C. 2401 et seq.; Executive Order 12778; DOE HQ 0344.1 Parking.

Purpose(s):

Records are maintained and used by DOE to maintain information of existing car pools, van pools, and other categories of parking, in order to keep a current record on employees who commute to work.

Routine uses of records maintained in the system, including categories of users and the purposes of such uses:

1. A record from this system may be disclosed as a routine use to the Council of Governments for commuter connections.

2. A record from this system may be disclosed as a routine use to individuals seeking to car pool or van pool operating from their community or residential area.

3. A record from the system may be disclosed as a routine use to DOE contractors in performance of their contracts, and their officers and employees who have a need for the record in the performance of their duties. Those provided information under this routine use are subject to the same limitations applicable to DOE officers and employees under the Privacy Act.

Policies and practices for storing, retrieving, accessing, retaining, and disposing of records in the system:

Storage:

Records may be stored as paper records and electronic media.

Retrievability:

Records may be retrieved by name, location of parking assignment, home address, assigned number, and license number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Director of Building Operations U.S. Department of Energy, 1000 Independence Avenue, SW., Washington, DC 20585.

Notification procedures:

In accordance with the DOE regulation implementing the Privacy Act, Title 10, Code of Federal Regulations, Part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record and access procedures:

Same as Notification procedures above. Records are generally kept at locations where the work is performed. In accordance with the DOE Privacy Act regulation, proper identification is required before a request is processed.

Contesting record procedures:

Same as Notification procedures above.

System exempted from certain provisions of the Act:

None.

Record source categories:

Individual car poolers and van poolers.

DOE-26

System name:

Official Travel Records.

Security classification:

Unclassified.

System location:

U.S. Department of Energy, Headquarters, 1000 Independence Avenue, SW., Washington, DC 20585

U.S. Department of Energy, Alaska Power Administration, Federal Records Center, San Point Way, NE., Seattle, WA 98115

U.S. Department of Energy, Albuquerque Operations Office, P.O. Box 5400, Albuquerque, NM 87185-5400

U.S. Department of Energy, Bonneville Power Administration, P.O. Box 3621, Portland, OR 97208

U.S. Department of Energy, Chicago Operations Office, 9800 South Cass Avenue, Argonne, IL 60439

U.S. Department of Energy, Idaho Operations Office, 850 Energy Drive, Idaho Falls, ID 83401

U.S. Department of Energy, National Energy Technology Center (Morgantown), P.O. Box 880, Morgantown, WV 26507-0880

U.S. Department of Energy, National Energy Technology Center (Pittsburgh), P.O. Box 10940, Pittsburgh, PA 15236-0940

U.S. Department of Energy, National Petroleum Technology Office, William Tower Center One, 1 West Third Street, Suite 1400, Tulsa, OK 74103

U.S. Department of Energy, Naval Petroleum and Oil Shale Reserves in Colorado, Utah, and Wyoming, 907 North Poplar, Suite 150, Casper, WY 82601

U.S. Department of Energy, Naval Petroleum Reserves in California, 28950 Highway 119, P.O. Box 11, Tupman, CA 93276

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Ohio Field Office, 1 Mound Road, Miamisburg, OH 45342

U.S. Department of Energy, Pittsburgh Naval Reactors, P.O. Box 109, West Mifflin, PA 15122-0109

U.S. Department of Energy, Richland Operations Office, P.O. Box 550, Richland, WA 99352

U. S. Department of Energy, Rocky Flats Field Office, 10808 Highway 93, Unit A, Golden, CO 80403-8200

U.S. Department of Energy, Savannah River Operations Office, P.O. Box A, Aiken, SC 29808

U.S. Department of Energy, Schenectady Naval Reactors Office, P.O. Box 1069, Schenectady, NY 12301-1069

U.S. Department of Energy, Southeastern Power Administration, Samuel Elbert Building, Public Square, Elberton, GA 30635

U.S. Department of Energy, Southwestern Power Administration, P.O. Box 1619, Tulsa, OK 74101

U.S. Department of Energy, Strategic Petroleum Reserve Project Office, 900 Commerce Road East, New Orleans, LA 70123

U.S. Department of Energy, Western Area Power Administration, P.O. Box 3402, Golden, CO 80401

U.S. Department of Energy, Yucca Mountain Site Characterization Office, 1551 Hillshire Drive, Suite A, Las Vegas, NV 89134

Categories of individuals covered by the system:

Individuals who travel or relocate at the expense of DOE.

Categories of records in the system:

Name, address, telephone number, social security number, travel itinerary, mode and purpose of travel, advance amount, expenses claimed, amounts reimbursed, charge card account numbers, residential sales records, and receipts.

Authority for maintenance of the system:

42 U.S.C. 7101 et seq.; 50 U.S.C. 2401 et seq.; 5 U.S.C. 301; 5 U.S.C. Chapter 57; Policy and Procedures Manual for Guidance of Federal Agencies, Titles 3 and 4; Federal Travel Regulation; Federal Property Management Regulations 101-41; Department of Energy Order DOE 1500.2A, Travel Policy and Procedures.

Purpose(s):

The records are maintained and used by DOE to document official domestic and foreign travel and relocation expenditures and to support reimbursement of allowable expenses.

Routine uses of records maintained in the system, including categories of users and the purposes of such uses:

1. A record from this system may be disclosed as a routine use to the U.S. Treasury for payment of claim.

2. A record from this system may be disclosed as a routine use to the U.S. General Accounting Office for audit and verification of accuracy and legality of disbursements.

3. A record from this system may be disclosed as a routine use to the Internal Revenue Service for notification regarding taxable reimbursements.

4. A record from this system may be disclosed as a routine use to the General Services Administration for audit of transportation services.

5. A record from the system may be disclosed as a routine use to DOE contractors in performance of their contracts, and their officers and employees who have a need for the record in the performance of their duties. Those provided information under this routine use are subject to the same limitations applicable to DOE officers and employees under the Privacy Act.

Policies and practices for storing, retrieving, accessing, retaining, and disposing of records in the system:

Storage:

Records may be stored as paper records and electronic media.

Retrievability:

Records may be retrieved by name, social security number, and travel authorization number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: U.S. Department of Energy, Office of Chief Financial Officer, 1000 Independence Avenue, SW., Washington, DC 20585.

Field Offices: The Managers of the “System locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as notification procedures above. Records are generally kept at locations where the work is performed. In accordance with the DOE Privacy Act regulation, identification is required before a request is processed.

Contesting record procedures:

Same as Notification procedures above.

Record source categories:

Individual travelers, supervisors, Government travel offices, and finance office standard references.

System exempted from certain provisions of the Act:

None.

DOE-28

System name:

General Training Records.

Security classification:

Unclassified.

System location:

U.S. Department of Energy, Headquarters, Forrestal Building, 1000 Independence Avenue, SW., Washington, DC 20585

U.S. Department of Energy, Headquarters, Germantown, 19901 Germantown Road, Germantown, MD 20585

U.S. Department of Energy, Alaska Power Administration, Federal Records Center, San Point Way, NE., Seattle, WA, 98115

U.S. Department of Energy, Albuquerque Operations Office, P.O. Box 5400, Albuquerque, NM 87185-5400

U.S. Department of Energy, Amarillo Area Office, P.O. Box 30030, Amarillo, TX 79120-0030

U.S. Department of Energy, Argonne Area Office, 9800 South Cass Avenue, Argonne, IL 60439

U.S. Department of Energy, Atlanta Support Office, 730 Peachtree, NE., Suite 876, Atlanta, GA 30308

U.S. Department of Energy, Batavia Area Office, P.O. Box 2000, Batavia, IL 60510

U.S. Department of Energy, Bonneville Power Administration, P.O. Box 3621, Portland, OR 97208

U.S. Department of Energy, Bonneville Power Administration, Lower Columbia Area, 1500 NE., Irving Street, Portland, OR 97232

U.S. Department of Energy, Bonneville Power Administration, Puget Sound Area, 201 Queen Ann Avenue, N., Suite 400, P.O. Box C—19030, Seattle, WA 98109-1030

U.S. Department of Energy, Bonneville Power Administration, Snake River Area, 101 West Poplar, Walla Walla, WA 99362

U.S. Department of Energy, Bonneville Power Administration, Upper Columbia Area, Room 561, U.S. Court House, W. 920 Riverside Avenue, Spokane, WA 99201

U.S. Department of Energy, Boston Support Office, One Congress Street, Room 1101, Boston, MA 02114-2021

US. Department of Energy, Brookhaven Area Office, 53 Bell Avenue, Bldg. 464, Upton, NY 11973

U.S. Department of Energy, Brookhaven National Laboratory, P.O. Box 5000, Upton, NY 11973-5000

U.S. Department of Energy, Chicago Operations Office, 9800 South Cass Avenue, Argonne, IL 60439

U.S. Department of Energy, Continuous Electron Beam Accelerator Facility, 12000 Jefferson Avenue, Newport News, VA 23606

US. Department of Energy, Dallas Support Office, 1420 W. Mockingbird Lane, Suite 400, Dallas, TX 75247

U.S. Department of Energy, Dayton Area Office, P.O. Box 66, Miamisburg, OH 45342-0066

U.S. Department of Energy, Denver Support Office, 2801 Youngfield Street, Suite 380, Golden, CO 80401-2266

U.S. Department of Energy, Fernald Field Office, 7400 Willey Road, Cincinnati, OH 45030

U.S. Department of Energy, Golden Field Office, 1617 Cole Boulevard, Golden, CO 80401

U.S. Department of Energy, Idaho Operations Office, 850 Energy Drive, Idaho Falls, ID 83401

U.S. Department of Energy, Kansas City Area Office, P.O. Box 410202, Kansas City, MO 64141-0202

U.S. Department of Energy, Kansas City Support Office, 911 Walnut Street, Room 1411, Kansas City, MO 64106

U.S. Department of Energy, Kirtland Area Office. P.O. Box 5400, Albuquerque, NM 87185-5400

U.S. Department of Energy, Los Alamos Area Office, 528 35th Street, Los Alamos, NM 87544

U.S. Department of Energy, University of California, Los Alamos National Laboratory, P.O. Box 1663, Los Alamos, NM 87545

U.S. Department of Energy, Metairie Site Office, 900 Commerce Road, East, New Orleans, LA 70123

U.S. Department of Energy, National Energy Technology Laboratory (Morgantown), P.O. Box 880, Morgantown, WV 26507-0880

U.S. Department of Energy, National Energy Technology Laboratory (Pittsburgh), P.O. Box 10940, Pittsburgh, PA 15236-0940

U.S. Department of Energy, National Petroleum Technology Office, William Center Tower One, 1 West Third Street, Suite 1400, Tulsa, OK 74103

U.S. Department of Energy, Nevada Operations Office, P.O. Box 98518, Las Vegas, NV 89193-8518

U.S. Department of Energy, New York Support Office, 26 Federal Plaza, Room 3437, New York, NY 10278-0068

U.S. Department of Energy, Oak Ridge Operations Office, P.O. Box 2001, Oak Ridge, TN 37831

U.S. Department of Energy, Oakland Operations Office, 1301 Clay Street, Oakland, CA 94612-5208

U.S. Department of Energy, Office of Scientific and Technical Information, P.O. Box 62, Oak Ridge, TN 37831

U.S. Department of Energy, Office of Superconducting Super Collider, 2550 Beckleymeade Avenue, MS 1020, Dallas, TX 75237-3946

U.S. Department of Energy, Ohio Field Office, 1 Mound Road, Miamisburg, OH 45342

U.S. Department of Energy, Philadelphia Support Office, 1880 John F. Kennedy Blvd., Ste 501, Philadelphia, PA 19103-7483

US. Department of Energy, Phoenix Area Office, P.O. Box 6457, Phoenix, AZ 85005

U.S. Department of Energy, Pittsburgh Naval Reactors Office, P.O. Box 109, West Mifflin, PA 15122-0109

U.S. Department of Energy, Pittsburgh Naval Reactors Office, Idaho Branch Office, P.O. Box 2469, Idaho Falls, ID 83403-2469

U.S. Department of Energy, Richland Operations Office, 825 Jadwin Avenue, P.O. Box 550, Richland, WA 99352

U.S. Department of Energy, Rocky Flats Field Office, 10808 Highway 93, Unit A, Golden, CO 80403-8200

U.S. Department of Energy, Savannah River Operations Office, P.O. Box A, Aiken, SC 29801

U.S. Department of Energy, Schenectady Naval Reactors Office, P.O. Box 1069, Schenectady, NY 12301

U.S. Department of Energy, Seattle Support Office, 800 Fifth Avenue, Suite 3950, Seattle, WA 98104

U.S. Department of Energy, Southeastern Power Administration, Samuel Elbert Bldg., Public Square, Elberton, GA 30635

U.S. Department of Energy, Southwestern Power Administration, P.O. Box 1619, Tulsa, OK 74101

U.S. Department of Energy, Strategic Petroleum Reserve Project Office, 900 Commerce Road East, New Orleans, LA 70123

U.S. Department of Energy, Western Area Power Administration, P.O. Box 3402, Golden, CO 80401

U.S. Department of Energy, Western Area Power Administration, Billings Area Office, P.O. Box 35800, Billings, MT 59107-5800

U.S. Department of Energy, Western Area Power Administration, Loveland Area Office, P.O. Box 3700, Loveland, CO 80539-3003

U.S. Department of Energy, Western Area Power Administration, Salt Lake City Area Office, P.O. Box 11606, Salt Lake City, UT 84147-0606

U.S. Department of Energy, Yucca Mountain Site Characterization Office, 1551 Hillshire Drive, Suite A, Las Vegas, NV 89134

Categories of individuals covered by the system:

All Department of Energy (DOE) Federal Employees.

Categories of records in the system:

Name; resume; assigned number; occupational series; training requests and authorizations; grade; organization; date of birth; social security number; home address and telephone number; special interest area; education completed; course name; justification for attending the course; direct and indirect costs of training; coded information dealing with purpose, type, source of training; training evaluations; course evaluation forms; training examinations; training attendance records; lesson plans; training assignment sheets; reading assignment sheets; position qualification statement; self study sheet; position descriptions; accounting records; and quarterly training report.

Authority for maintenance of the system:

42 U.S.C. 7101 et seq.; 50 U.S.C. 2401 et seq.; Nuclear Waste Policy Act of 1982 (Pub. L. 97-425); Nuclear Waste Policy Amendment Act of 1987 (Pub. L. 100-203); Government Employees Training Act of 1958; and 5 CFR parts 410 and 412,

Purpose(s):

Records are maintained and used by the Department to document planning, completion, funding and effectiveness of employee training and development. Appropriate local, State and Federal agencies use certain records maintained in this system to ensure Departmental compliance with other regulatory requirements.

Routine uses of records maintained in the system, including categories of users and the purposes of such uses:

1. A record from this system may be disclosed as a routine use to Federal agencies, including the Office of Personnel Management, for purposes of determining eligibility or suitability for training and as source documents for training reports; to training institutions that personnel have requested to attend; and to other Federal agencies as necessary for payment of training.

2. A record from this system may be disclosed as a routine use to state and local governments, the Nuclear Regulatory Commission (NRC), and other Federal agencies that conduct research, investigations, or audits to determine whether DOE and contractor personnel satisfy quality assurance requirements for activities necessary to obtain a license from the NRC for the construction, operation and closing of a nuclear waste repository and/or a Monitored Retrievable Storage facility. These activities also will include research and development, site characterization, transportation, waste packaging, handling, design, maintenance, performance confirmation, inspection, fabrication, and development and production of repository waste forms.

3. A record from this system may be disclosed as a routine use to federal, state or local government officials where the regulatory program being implemented is applicable to the DOE or contractor program and requires that such access be provided for the conduct of the regulatory agencies' activities. Those provided information under this routine use are subject to the same limitations applicable to DOE officers and employees under the Privacy Act.

Policies and practices for storing, retrieving, accessing, retaining, and disposing of records in the system:

Storage:

Records may be stored as paper records and electronic media.

Retrievability:

Records may be retrieved by name and social security number.

Safeguards:

Paper records are maintained in locked cabinets and desks. Electronic records are controlled through established DOE computer center procedures (personnel screening and physical security), and they are password protected. Passwords are known only by the system manager. Access is limited to those whose official duties require access to the record.

Retention and disposal:

Records retention and disposal authorities are contained in the National Archives and Records Administration (NARA) General Records Schedule and DOE record schedules that have been approved by NARA.

System manager(s) and address:

Headquarters: U.S. Department of Energy, Director, Training and Human Resource Development, 1000 Independence Avenue, SW., Washington, DC 20585-0702.

Field Offices: The Managers and Directors of the “System locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

The subject individuals and their supervisors.

System exempted from certain provisions of the Act:

None.

DOE-33

System name:

Personnel Medical Records.

Security classification:

Unclassified.

System location:

U.S. Department of Energy, Headquarters, 1000 Independence Avenue, SW., Wash, DC 20585

U.S. Department of Energy, Alaska Power Administration, Federal Records Center, San Point Way, NE., Seattle, WA 98115

U.S. Department of Energy, Albuquerque Operations Office, P.O. Box 5400, Albuquerque, NM 87185-5400

U.S. Department of Energy, Allied-Signal, Kansas City Division, P.O. Box 419159, Kansas City, MO 64141

U.S. Department of Energy, Amarillo Area Office, P.O. Box 30030, Amarillo, TX 79120-0030

U.S. Department of Energy, Ames Laboratory, Iowa State University, Ames, IA 50011

U.S. Department of Energy, Argonne Area Office, 9800 South Cass Avenue, Argonne, IL 60439

U.S. Department of Energy, Ashtabula Area Office, P.O. Box 579, Ashtabula, OH 44005-0579

U.S. Department of Energy, Bartlesville Project Office, 220 North Virginia Avenue, P.O. Box 1398, Bartlesville, OK 74003

U.S. Department of Energy, Battelle Columbus Laboratories, 505 King Avenue, Room A-496 Columbus, OH 43201

U.S. Department of Energy, Batavia Area Office, P.O. Box 2000, Batavia, IL 60510

U.S. Department of Energy, Bettis Atomic Power Laboratory, P.O. Box 79, Pittsburgh, PA 15122-0079

U.S. Department of Energy, Bonneville Power Administration, P.O. Box 3621, Portland, OR 97208

U.S. Department of Energy, Brookhaven Area Office, 53 Bell Avenue, Bldg 464, Upton, NY 11973

U.S. Department of Energy, Chicago Operations Office, 9800 South Cass Avenue, Argonne, IL 60439

U.S. Department of Energy, Continuous Electron Beam Accelerator Facility, 12000 Jefferson Avenue, Newport News, VA 23606

U.S. Department of Energy, Dayton Area Office, P.O. Box 66, Miamisburg, OH 45342-0066

U.S. Department of Energy, EG&G Mound Applied Technologies, P.O. Box 3000, Miamisburg, OH 45343-3000

U.S. Department of Energy, Environmental Measurements Laboratory, 376 Hudson Street, New York, NY 10014-3621

U.S. Department of Energy, Fermi National Accelerator Laboratory, P.O. Box 500, Batavia, IL 60510

U.S. Department of Energy, Fernald Environmental Restoration Management Corporation, P.O. Box 398704, Cincinnati, OH 45239-8704

U.S. Department of Energy, Fernald Field Office, 7400 Willey Road, Cincinnati, OH 45030

U.S. Department of Energy, Golden Field Office, 1617 Cole Boulevard, Golden, CO 80401

U.S. Department of Energy, Grand Junction, P.O. Box 2567, Grand Junction, CO 81502-2567

U.S. Department of Energy, Idaho Operations Office, 850 Energy Drive MS 1214, Idaho Falls, ID 83404

U.S. Department of Energy, Inhalation Toxicology Research Institute, P.O. Box 5890, Albuquerque, NM 87185

U.S. Department of Energy, Kansas City Area Office, P.O. Box 410202, Kansas City, MO 64141-0202

U.S. Department of Energy, Kirtland Area Office, P.O. Box 5400, Albuquerque, NM 87185-5400

U.S. Department of Energy, Knolls Atomic Power Laboratory, P.O. Box 1072, Schenectady, NY 12301

U.S. Department of Energy, Lawrence Livermore National Laboratory, P.O. Box 808, Livermore, CA 94551

U.S. Department of Energy, Lawrence Berkeley Laboratory, One Cyclotron Road, Building 26, Room 143, Berkeley, CA 94720

U.S. Department of Energy, Los Alamos Area Office, 528 35th Street, Los Alamos, NM 87544

U.S. Department of Energy, Lockheed Martin Energy Systems, Inc., Y-12 Plant, P.O. Box 2009 Oak Ridge, Tennessee 37831-8103

U.S. Department of Energy, Lockheed Martin Energy Systems, Inc., K-25 Plant, P.O. Box 2003 Oak Ridge, TN 37831-7422

U.S. Department of Energy, MK Ferguson of Oak Ridge Company, P.O. Box 2011, Oak Ridge, TN 37831-2011

U.S. Department of Energy, National Energy Technology Center (Morgantown), P.O. Box 880, Morgantown, WV 26507-0880

U.S. Department of Energy, National Energy Technology Center (Pittsburgh), P.O. Box 10940, Pittsburgh, PA 15236-0940

U.S. Department of Energy, National Petroleum Technology Office, William Center Tower One, 1 West Third Street, Suite 1400, Tulsa, OK 74103

U.S. Department of Energy, National Renewable Energy Laboratory Area Office, 1617 Cole Boulevard, Golden, CO 80401-3393

U.S. Department of Energy, Naval Petroleum and Oil Shale Reserves, 907 N. Poplar, Suite 150 Casper, WY 82601

U.S. Department of Energy, Naval Petroleum Reserves in California, 28590 Highway 119, P.O. Box 11, Tupman, CA 93276

U.S. Department of Energy, Naval Reactors Representative Office, Naval Base Branch Post Office, General Delivery, Charleston Naval Shipyard, Charleston, SC 29408-5615

U.S. Department of Energy, Naval Reactors Representative Office, P.O. Box 7021, Groton, CT 06340

U.S. Department of Energy, Naval Reactors Representative Office, Mare Island Naval Shipyard P.O. Box 2053, Vallejo, CA 94592

U.S. Department of Energy, Naval Reactors Representative Office, Newport News Shipbuilding & Dry Dock Company, P.O. Box 973, Newport News, VA 23607

U.S. Department of Energy, Naval Reactors Representative Office, Norfolk Naval Shipyard P.O. Box 848, Portsmouth, VA 23705-0848

U.S. Department of Energy, Naval Reactors Representative Office, Pearl Harbor Naval Shipyard P.O. Box 128, Pearl Harbor, HI 96860

U.S. Department of Energy, Naval Reactors Representative Office, Portsmouth Naval Shipyard Naval Base Branch, P.O. Box 2008, Portsmouth, NH 03801-2008

U.S. Department of Energy, Naval Reactors Representative Office, Puget Sound Naval Shipyard Substation, P.O. Box 1A, Bremerton, WA 98314

U.S. Department of Energy, Nevada Test Site Mercury, Mercury, NV 89023

U.S. Department of Energy, Nevada Operations Office, P.O. Box 98518, Las Vegas, NV 89193-8518

U.S. Department of Energy, New Brunswick Laboratory, 9800 South Cass Avenue, Argonne, IL 60439

U.S. Department of Energy, Oak Ridge Operations Office, P.O. Box 2001, Oak Ridge, TN 37831

U.S. Department of Energy, Oakland Operations Office, 1301 Clay Street, Oakland, CA 94612-52019

U.S. Department of Energy, Ohio Field Office, 1 Mound Road, Miamisburg, OH 45342

U.S. Department of Energy, Phoenix Area Office, P.O. Box 6457, Phoenix, AZ 85005

U.S. Department of Energy, Pittsburgh Naval Reactors Office, P.O. Box 109, West Mifflin, PA 15122-0109

U.S. Department of Energy, Plasma Physics Laboratory, James Forrestal Campus, Princeton University, P.O. Box 451, Princeton, NJ 08543

U.S. Department of Energy, Portsmouth Enrichment Office, P.O. Box 700, Piketon, OH 45661

U.S. Department of Energy, Princeton Area Office, P.O. Box 102, Princeton, NJ 08542

U.S. Department of Energy, Radiological and Environmental Sciences Laboratory, 785 DOE Place, Idaho Falls, ID 83402

U.S. Department of Energy, Richland Operations Office, 825 Jadwin Avenue, P.O. Box 550, Richland, WA 99352

U.S. Department of Energy, Rocketdyne—Rockwell Aerospace, 6633 Canoga Avenue, P.O. Box 7922, Department 056 EA08, Canoga Park, California 91309-7922

U.S. Department of Energy, Rocky Flats Field Office, 10808 Highway 93, Unit A, Golden, CO 8040-8200

U.S. Department of Energy, Sandia National Laboratories, P.O. Box 5800, Albuquerque, NM 87115

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Public Square, Elberton, GA 30635

U.S. Department of Energy, Southwestern Power Administration, P.O. Box 1619, Tulsa, OK 74101

U.S. Department of Energy, Stanford Linear Accelerator Center, P.O. Box 4349, Stanford, California 94309

U.S. Department of Energy, Strategic Petroleum Reserve Project Office, 900 Commerce Road East, New Orleans, LA 70123

U.S. Department of Energy, Waste Isolation Pilot Plant, Westinghouse Electric Company, Waste Isolation Division, P.O. Box 2078, Carlsbad, NM 88220

U.S. Department of Energy, Weldon Spring Site Remedial Action Project, 7295 Highway 94 South, St. Charles, MO 63304

U.S. Department of Energy, West Valley Nuclear Service Company, Inc., P.O. Box 191, MS: F, West Valley, NY 14171

U.S. Department of Energy, Waste Isolation Pilot Project Office, P.O. Box 3090, Carlsbad, NM 88221

U.S. Department of Energy, Western Area Power Administration, P.O. Box 3402, Golden, CO 80401

U.S. Department of Energy, Westinghouse Electric Corporation, Bettis Atomic Power Laboratory, Naval Reactors Facility, P.O. Box 2068, Idaho Falls, ID 83403-2068

U.S. Department of Energy, Yucca Mountain Site Characterization Office, 1551 Hillshire Drive, Suite A, Las Vegas, NV 89134

Categories of individuals covered by the system:

Present and former Department of Energy (DOE) employees and DOE contractor employees. This system includes in-patients at Kadlec Hospital, Richland, WA, prior to September 9, 1956.

Categories of records in the system:

Medical histories on contractor employees resulting from medical examination; in cases of injury, description of injury occurrence and treatment; medical records of periodic physical examinations and psychological testing, blood donor program records, audiometric testing, routine first aid, and other visits; hospital in-patients at Kadlec Hospital; Records on the results of work place and medical monitoring of individuals for exposure to chemical and physical agents (not covered in DOE-35) and related work history data, including drug testing information and results; contractor employee-completed health questionnaires not resulting from a medical examination; information from the contractor employee's private medical doctor or other health care providers, such as hospitals or laboratories not generated from workplace medical examinations.

Authority for maintenance of the system:

Atomic Energy Act of 1954, (42 U.S.C. 2051a), section 31a; Economy Act of 1932, as amended, (31 U.S.C. 1535); 42 U.S.C. 7101 et seq.; 50 U.S.C. 2401 et seq.; and DOE Order 440.1.

Purpose(s):

The records are maintained and used by the Department to: (a) Provide data necessary for proper medical evaluations, diagnosis, treatment and care; (b) provide an accurate medical history, included job and/or hazard exposure documentation and health monitoring in relation to health status and claims of the individual; (c) provide a method for evaluating quality of health care rendered and job-health protection including engineering protection provided, protective equipment, workplace monitoring, and medical examinations monitoring required by the Occupational Safety Health Administration (OSHA) or by good practice; (d) provide data for health hazard evaluations, epidemiologic studies and public health activities; (e) ensure that all relevant, necessary, accurate, and timely data are available to support any medically-related employment decisions affecting the subject of the records, including decisions pertaining to the fitness-for-duty and disability retirement; (f) document possible re-employment rights under statutes governing that program; (g) document employee's reporting of on-the-job injuries or unhealthy or unsafe working conditions, including the reporting of such conditions to the OSHA and actions taken by the agency or by the employing agency; and (h) ensure proper and accurate operation of the agency's employee drug testing program under Executive Order 12564.

Routine uses of records maintained in the system, including categories of users and the purposes of such uses:

1. A record from this system may be disclosed as a routine use to physicians, the U.S. Department of Labor, various state departments of labor and industry groups, and contractors to: (a) Ascertain suitability of an employee for job assignments with regard to health; (b) provide benefits under Federal programs or contracts; and (c) maintain a record of occupational injuries or illnesses and the performance of regular diagnostic and treatment services to patients.

2. A record from the system may be disclosed as a routine use to the appropriate local, State or Federal agency in the event that a record within this system of records, alone or in conjunction with other information, indicates a violation or potential violation of law whether civil, criminal, or regulatory in nature.

3. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractor of the Department, or other United States Government agencies and their components, or

(b) A current or former employee of the Department and its predecessor agencies, current or former contractors of the Department, or other United States Government agencies and their components, who is acting in an official capacity or in any individual capacity where the Department or other United States Government agency has agreed to represent the employee.

4. A record from this system of records may be disclosed to a Federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to DOE contractors in performance of their contracts, and their officers and employees who have a need for the record in the performance of their duties. Those provided information under this routine use are subject to the same limitations applicable to DOE officers and employees under the Privacy Act.

6. A record from this system of records may be disclosed as a routine use to a member of Congress submitting a request involving the constituent when the constituent has requested the subject matter of the record. The member of Congress must provide a copy of the constituent's request for assistance.

7. A record from this system may be disclosed as a routine use to contractor personnel, grantees, and cooperative agreement holders of components of the Department of Health and Human Services, including the National Institute for Occupational Safety and Health and the National Center for Environmental Health of the Centers for Disease Control and Prevention, and the Agency for Toxic Substances and Disease Registry pursuant to Memoranda of Understanding between the Department and the Department of Health and Human Services or its components.

8. A record from this system may be disclosed as a routine use to contractors, grantees, participants in cooperative agreements, collaborating researchers, or their employees, when conducting health studies or related health or environmental duties pursuant to their contracts, grants, and cooperating or collaborating research agreements. In order to conduct such studies, the Department, its contractors, grantees, participants in cooperative agreements, and collaborating researchers may disclose a record to federal, state and local health and medical agencies or authorities; to subcontractors in order to determine a subject's vital status or cause of death; to health care providers to verify a diagnosis or cause of death; or to third parties to obtain current addresses for participants in health-related studies, surveys and surveillance. All recipients of such records are required to comply with the Privacy Act, to follow prescribed measures to protect personal privacy, and to disclose or use personally identifiable information only for the above described research purposes.

9. A record from this system may be disclosed as a routine use to members of DOE advisory committees, the Department of Health and Human Services Advisory Committee on Projects Related to Department of Energy Facilities and to designated employees of Federal, State, or local government or government-sponsored entities authorized to provide advice to the Department concerning health, safety or environmental issues. All recipients of such records are required to comply with the Privacy Act, to follow prescribed measures to protect personal privacy, and to disclose or use personally identifiable information only for the purpose of providing advice to the Department or to the Department of Health and Human Services.

10. A record from this system be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available to researchers and the general public information on the assumptions, methodology, and data used in establishing radiation doses consistent with the protection of private medical records.

Those provided information under this routine use are subject to the same limitations applicable to Department officers and employees under the Privacy Act.

Policies and practices for storing, retrieving, accessing, retaining, and disposing of records in the system:

Storage:

Records may be stored as paper records, microfilm, and electronic media.

Retrievability:

Records may be retrieved by name and social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

U.S. Department of Energy, Assistant Secretary for Environment, Safety, and Health, 1000 Independence Avenue, SW., Washington, DC 20585.

Field Offices: The Managers and Directors of “System locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at location where the work is performed. In accordance with the DOE Privacy Act regulation, proper identification is required before a request is processed.

Contesting record procedures:

Same as Notification procedures above.

Record source categories:

The individual who is the subject of the record, physicians, medical institutions, Office of Workers Compensation Programs, military retired pay systems records, Federal civilian retirement systems, Office of Personnel Management retirement life insurance and health benefits records system, and the personnel management records systems of the Office of Personnel Management.

System exempted from certain provisions of the Act:

None.

DOE-34

System name:

Employee Assistance Program (EAP) Records.

Security classification:

Unclassified.

System location:

U.S. Department of Energy, Headquarters, Forrestal Building., 1000 Independence Avenue, SW., Washington, DC 20585

U.S. Department of Energy, Headquarters, Germantown, 19901 Germantown Road, Germantown, MD 20585

U.S. Department of Energy, Alaska Power Administration, Federal Records Center, San Point Way, NE., Seattle WA, 98115

U.S. Department of Energy, Albuquerque Operations Office, P.O. Box 5400, Albuquerque, NM 87185-5400

U.S. Department of Energy, Amarillo Area Office, Highway 60 FM2372, Amarillo, TX 79120

U.S. Department of Energy, Argonne Area Office, 9800 South Cass Avenue, Argonne, IL 60439

U.S. Department of Energy, Atlanta Regional Support Office, 730 Peachtree, NE., Suite 876, Atlanta, GA 30308

U.S. Department of Energy, Batavia Area Office, P.O. Box 2000, Batavia, IL 60510

U.S. Department of Energy, Bonneville Power Administration, P.O. Box 3621, Portland, OR 97208

U.S. Department of Energy, Boston Regional Office, JFK Federal Building, Room 675 Boston, MA 02203-0002

U.S. Department of Energy, Chicago Operations Office, 9800 South Cass Avenue, Argonne, IL 60439

U.S. Department of Energy, Fernald Field Office, 7400 Willey Road, Cincinnati, OH 45030

U.S. Department of Energy, Golden Field Office, 1617 Cole Boulevard, Golden, CO 80401

U.S. Department of Energy, Idaho Operations Office, 850 Energy Drive, Idaho Falls, ID 83401

U.S. Department of Energy, Kansas City Area Office, P.O. Box 410202, Kansas City, MO 64141-0202

U.S. Department of Energy, National Energy Technology Laboratory (Morgantown), P.O. Box 880, Morgantown, WV 26507-0880

U.S. Department of Energy, National Energy Technology Laboratory (Pittsburgh), P.O. Box 10940, Pittsburgh, PA 15236-0940

U.S. Department of Energy, National Petroleum Technology Office, William Center Tower One, 1 West Third Street, Suite 1400, Tulsa, OK 74103

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Office of Scientific and Technical Information, P.O. Box 62, Oak Ridge, TN 37831

U.S. Department of Energy, Office of Superconducting Super Collider, 2550 Beckleymeade Avenue, MS 1020, Dallas, TX 75237-3946

U.S. Department of Energy, Ohio Field Office, 1 Mound Road, Miamisburg, OH 45342

U.S. Department of Energy, Pittsburgh Naval Reactors Office, P.O. Box 109, West Mifflin, PA 15122-0109

U.S. Department of Energy, Pittsburgh Naval Reactors Office, Idaho Branch Office, P.O. Box 2469, Idaho Falls, ID 83403-2469

U.S. Department of Energy, Richland Operations Office, 825 Jadwin Avenue, P.O. Box 550, Richland, WA 99352

U.S. Department of Energy, Rocky Flats Field Office, 10808 Highway 93, Unit A, Golden, CO 80403-8200

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Bldg., Public Square, Elberton, GA 30635

U.S. Department of Energy, Southwestern Power Administration, P.O. Box 1619, Tulsa, OK 74101

U.S. Department of Energy, Strategic Petroleum Reserve Project Office, 900 Commerce Road East, New Orleans, LA 70123

U.S. Department of Energy, Western Area Power Administration, P.O. Box 3402, Golden, CO 80401

U.S. Department of Energy, Yucca Mountain Site Characterization Office, 1551 Hillshire Drive, Suite A, Las Vegas, NV 89134

Categories of individuals covered by the system:

Current and former Department of Energy (DOE) employees who have contacted a service provider and have received counseling and/or have been referred for assistance.

Categories of records in the system:

(a) Employee profile—name; social security number; work and home addresses, and work and home telephone numbers; job title and grade level; organization; supervisor's name and telephone number; sex; race; marital status; spouse and family members' names; name, address, and telephone number of any previously seen counselor or treatment facility; security clearance; (b) interest inventory and/or psychological test results; (c) issue(s) inventory; (d) case notes; (e) consent/release forms; (f) correspondence, including referrals to community resources and/or treatment facilities; and (g) medical and/or psychological reports.

Authority for maintenance of the system:

42 U.S.C. 7101 et seq.; 50 U.S.C. 2401 et seq.; Public Law 91-616, Comprehensive Alcohol Abuse and Alcoholism Prevention, Treatment and Rehabilitation Act of 1970; Pub. L. 102-142, The Omnibus Transportation Employee Testing Act of 1991; 5 U.S.C. 301, 7901, and 7904; 5 CFR part 792; and 15 U.S.C. 764.

Purpose(s):

The records are maintained and used by the Department to document employees seeking assistance on behavioral problems or issues.

Routine uses of records maintained in the system, including categories of users and the purposes of such uses:

1. A record from the system may be disclosed as a routine use to DOE contractors in performance of their contracts, and their officers and employees who have a need for the record in the performance of their duties. Those provided information under this routine use are subject to the same limitations applicable to DOE officers and employees under the Privacy Act.

2. A record from the system may be disclosed as a routine use to the appropriate local, State or Federal agency in the event that a record within this system of records, alone or in conjunction with other information, if the employee is suspected of child, spousal, or elder abuse.

3. A record from this system may be disclosed as a routine use to any person or entity to the extent necessary to prevent an imminent or potential crime which directly threatens loss of life or serious bodily injury.

4. A record from this system may be disclosed as a routine use to qualified personnel for the purpose of conducting scientific research, management audits, financial audits, or program evaluation, but such personnel may not identify, directly or indirectly, any individual patient in any report, or otherwise disclose patient identities in any manner.

5. A record from this system may be disclosed as a routine use to the Department of Justice or other appropriate Federal agencies in defending claims against the United States, when the claim results from action against an individual based upon the individual's behavior, or mental or physical condition, or is alleged to have arisen because of activities of any Federal agency in connection with the individual.

Policies and practices for storing, retrieving, accessing, retaining, and disposing of records in the system:

Storage:

Records may be stored as paper records and electronic media.

Retrievability:

Records may be retrieved by name and social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: U.S. Department of Energy, Director of Human Resources Management, 1000 Independence Avenue, SW., Washington, DC 20585.

Field Offices: The Human Resource Directors of the “System locations” listed above are the system managers for their respective portions of this system.

Notification procedures:

In accordance with DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as notification procedures above. Records are generally kept at locations where the work is performed. In accordance with DOE Privacy Act regulation, identification is required before a request is processed.

Contesting record procedures:

Same as Notification procedures above.

Record source categories:

The subject employee, employee's supervisor(s), employee assistance program coordinator, staff of the applicable servicing personnel office, staff of the applicable personnel security office, and therapists or institutions providing treatment.

System exempted from certain provisions of the Act:

None.

DOE-35

System name:

Personnel Radiation Exposure Records.

Security classification:

Unclassified.

System location:

U.S. Department of Energy, Alaska Power Administration, Federal Records Center, San Point Way, NE., Seattle, WA 98115

U.S. Department of Energy, Albuquerque Operations Office, P.O. Box 5400, Albuquerque, NM 87185-5400

U.S. Department of Energy, Allied-Signal, Kansas City Division, P.O. Box 419159, Kansas City, MO 64141

U.S. Department of Energy, Amarillo Area Office, P.O. Box 30030, Amarillo, TX 79120-0030

U.S. Department of Energy, Ames Laboratory, No. 311TASF, Iowa State University, Ames, IA 50011

U.S. Department of Energy, Argonne Area Office, 9800 South Cass Avenue, Argonne, IL 60439

U.S. Department of Energy, Batavia Area Office, P.O. Box 2000, Batavia, IL 60510

U.S. Department of Energy, Bettis Atomic Power Laboratory, P.O. Box 79, Pittsburgh, PA 15122-0079

U.S. Department of Energy, Bonneville Power Administration, P.O. Box 3621, Portland, OR 97208

U.S. Department of Energy, Brookhaven Area Office, 53 Bell Avenue, Bldg 464, Upton, NY 11973

U.S. Department of Energy, Chicago Operations Office, 9800 South Cass Avenue, Argonne, IL 60439

U.S. Department of Energy, Continuous Electron Beam Accelerator Facility, 12000 Jefferson Avenue, Newport News, VA 23606

U.S. Department of Energy, Dayton Area Office, P.O. Box 66, Miamisburg, OH 45342-0066

U.S. Department of Energy, EG&G Mound Applied Technologies, P.O. Box 3000, Miamisburg, OH 45343-3000

U.S. Department of Energy, Environmental Measurements Laboratory, 376 Hudson Street, New York, NY 10014-3621

U.S. Department of Energy, Fermi National Accelerator Laboratory, P.O. Box 500, Batavia, IL 60510

U.S. Department of Energy, Fernald Environmental Restoration Management Corporation, P.O. Box 398704, Cincinnati, OH 45239-8704

U.S. Department of Energy, Fernald Field Office, 7400 Willey Road, Cincinnati, OH 45030

U.S. Department of Energy, Golden Field Office, 1617 Cole Boulevard, Golden, CO 80401

U.S. Department of Energy, Grand Junction, P.O. Box 2567, Grand Junction, CO 81502-2567

U.S. Department of Energy, Headquarters, 1000 Independence Avenue, SW., Washington, DC 20585

U.S. Department of Energy, Idaho Operations Office, 850 Energy Drive, Idaho Falls, ID 83404

U.S. Department of Energy, Inhalation Toxicology Research Institute, P.O. Box 5890, Albuquerque, NM 87185

U.S. Department of Energy, Kansas City Area Office, P.O. Box 410202, Kansas City, MO 64141-0202

U.S. Department of Energy, Kirtland Area Office, P.O. Box 5400, Albuquerque, NM 87185-5400

U.S. Department of Energy, Knolls Atomic Power Laboratory, P.O. Box 1072, Schenectady, NY 12301

U.S. Department of Energy, Lawrence Livermore National Laboratory, P.O. Box 808, Livermore, CA 94551

U.S. Department of Energy, Lawrence Berkeley Laboratory, One Cyclotron Road, Building 26, Room 143, Berkeley, CA 94720

U.S. Department of Energy, Los Alamos Area Office, 528 35th Street, Los Alamos, NM 87544

U.S. Department of Energy, Lockheed Martin Energy Systems, Inc., Y-12 Plant, P.O. Box 2009 Oak Ridge, TN 37831-8103

U.S. Department of Energy, Lockheed Martin Energy Systems, Inc., K-25 Plant, P.O. Box 2003 Oak Ridge, TN 37831-7422

U.S. Department of Energy, MK Ferguson of Oak Ridge Company, P.O. Box 2011, Oak Ridge, TN 37831-2011

U.S. Department of Energy, National Energy Technology Laboratory (Morgantown), P.O. Box 880, Morgantown, WV 26505

U.S. Department of Energy, National Energy Technology Laboratory (Pittsburgh), P.O. Box 10940, Pittsburgh, PA 15236-0940

U.S. Department of Energy, National Petroleum Technology Office, William Center Tower One, 1 West Third Street, Suite 1400, Tulsa, OK 74103

U.S. Department of Energy, National Institute for Petroleum and Energy Research, BDM-Oklahoma, Inc., P.O. Box 2565, Bartlesville, OK 74005

U.S. Department of Energy, National Renewable Energy Laboratory Area Office, 1617 Cole Boulevard, Golden, CO 80401-3393

U.S. Department of Energy, Naval Petroleum and Oil Shale Reserves, 907 N. Poplar, Suite 150 Casper, WY 82601

U.S. Department of Energy, Naval Petroleum Reserves in California, P.O. Box 11, Tupman, CA 93276

U.S. Department of Energy, Naval Reactors Representative Office, Naval Base Branch Post Office, General Delivery, Charleston Naval Shipyard, Charleston, SC 29408-5615

U.S. Department of Energy, Naval Reactors Representative Office, P.O. Box 7021, Groton, CT 06340

U.S. Department of Energy, Naval Reactors Representative Office, Mare Island Naval Shipyard P.O. Box 2053, Vallejo, CA 94592

U.S. Department of Energy, Naval Reactors Representative Office, Newport News Shipbuilding & Dry Dock Company, P.O. Box 973, Newport News, VA 23607

U.S. Department of Energy, Naval Reactors Representative Office, Norfolk Naval Shipyard P.O. Box 848, Portsmouth, VA 23705-0848

U.S. Department of Energy, Naval Reactors Representative Office, Pearl Harbor Naval Shipyard P.O. Box 128, Pearl Harbor, HI 96860

U.S. Department of Energy, Naval Reactors Representative Office, Portsmouth Naval Shipyard Naval Base Branch, P.O. Box 2008, Portsmouth, NH 03801-2008

U.S. Department of Energy, Naval Reactors Representative Office, Puget Sound Naval Shipyard Substation, P.O. Box 1A, Bremerton, WA 98314

U.S. Department of Energy, Nevada Test Site Mercury, Mercury, NV 89023

U.S. Department of Energy, Nevada Operations Office, P.O. Box 98518, Las Vegas, NV 89193-8518

U.S. Department of Energy, New Brunswick Laboratory, 9800 South Cass Avenue, Argonne, IL 60439

U.S. Department of Energy, Oak Ridge Operations Office, P.O. Box 2001, Oak Ridge, TN 37831

U.S. Department of Energy, Oakland Operations Office, 1301 Clay Street, Oakland, CA 94612-52019

U.S. Department of Energy, Ohio Field Office, 1 Mound Road, Miamisburg, OH 45342

U.S. Department of Energy, Phoenix Area Office, P.O. Box 6457, Phoenix, AZ 85005

U.S. Department of Energy, Pinellas Area Office, P.O. Box 2900, Largo, FL 34649

U.S. Department of Energy, Pittsburgh Naval Reactors Office, P.O. Box 109, West Mifflin, PA 15122-0109

U.S. Department of Energy, Plasma Physics Laboratory, James Forrestal Campus, Princeton University, P.O. Box 451, Princeton, NJ 08543

U.S. Department of Energy, Portsmouth Enrichment Office, P.O. Box 700, Piketon, OH 45661

U.S. Department of Energy, Princeton Area Office, P.O. Box 102, Princeton, NJ 08542

U.S. Department of Energy, Radiological and Environmental Sciences Laboratory, 850 Energy Drive, Idaho Falls, ID 83402

U.S. Department of Energy, Richland Operations Office, 825 Jadwin Avenue, P.O. Box 550, Richland, WA 99352

U.S. Department of Energy, Rocketdyne—Rockwell Aerospace, 6633 Canoga Avenue, P.O. Box 7922, Department 056 EA08, Canoga Park, CA 91309-7922

U.S. Department of Energy, Rocky Flats Field Office, 10808 Highway 93, Unit A Golden, CO 80403-8200

U.S. Department of Energy, Sandia National Laboratories, P.O. Box 5800, Albuquerque, NM 87115

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Public Square, Elberton, GA 30635

U.S. Department of Energy, Southwestern Power Administration, P.O. Box 1619, Tulsa, OK 74101

U.S. Department of Energy, Stanford Linear Accelerator Center, P.O. Box 4349, Stanford, CA 94309

U.S. Department of Energy, Strategic Petroleum Reserve Project Office, 900 Commerce Road East, New Orleans, LA 70123

U.S. Department of Energy, Waste Isolation Pilot Plant, Westinghouse Electric Company, Waste Isolation Division, P.O. Box 2078, Carlsbad, NM 88220

U.S. Department of Energy, Weldon Spring Site Remedial Action Project, 7295 Highway 94 South, St. Charles, MO 63304

U.S. Department of Energy, West Valley Nuclear Service Company, Inc., 10282 Rock Springs Road, P.O. Box 191, MS: F, West Valley, NY 14171

U.S. Department of Energy, Waste Isolation Pilot Project Office, P.O. Box 3090, Carlsbad, NM 88221

U.S. Department of Energy, Western Area Power Administration, P.O. Box 3402, Golden, CO 80401

U.S. Department of Energy, Westinghouse Electric Corporation, Bettis Atomic Power Laboratory, Naval Reactors Facility, P.O. Box 2068, Idaho Falls, ID 83403-2068

U.S. Department of Energy, Yucca Mountain Site Characterization Office, 1551 Hillshire Drive, Suite A, Las Vegas, NV 89134

Categories of individuals covered by the system:

U.S. Department of Energy (DOE) employees and contractor employees, and any other persons having access to certain DOE facilities.

Categories of records in the system:

DOE contractor personnel and other individuals' radiation exposure records, and other records, in connection with registries of uranium, transuranic, or other elements encountered in the nuclear industry.

Authority for maintenance of the system:

42 U.S.C. 7101 et seq. and 50 U.S.C. 2401 et seq.

Purpose(s):

The records are maintained and used by the Department for the purpose of monitoring and recording levels of radiation exposure to individuals working or visiting DOE facilities.

Routine uses of records maintained in the system, including categories of users and the purposes of such uses:

1. A record from this system may be disclosed as a routine use to the Department of the Navy to monitor radiation exposure of Naval and other personnel.

2. A record from this system may be disclosed as a routine use to the Nuclear Regulatory Commission to monitor radiation exposure of DOE and its contractors and consultants, contractors from other agencies who have been exposed to ionizing radiation during nuclear testing, and to conduct epidemiological studies of radiation effects on individuals so identified.

3. A record from this system may be disclosed to the Department of Defense for the purpose of identifying DOD and DOD-contractor personnel exposed to ionizing radiation during nuclear testing and for conducting epidemiological studies of radiation effects on individuals so identified.

4. A record from this system may be disclosed as a routine use to contractor personnel, grantees, and cooperative agreement holders of components of the Department of Health and Human Services, including the National Institute for Occupational Safety and Health and the National Center for Environmental Health of the Centers for Disease Control and Prevention, and the Agency for Toxic Substances and Disease Registry pursuant to a Memoranda of Understanding between the Department and the Department of Health and Human Services or its components.

5. A record from this system may be disclosed as a routine use to contractors, grantees, participants in cooperative agreements, and collaborating researchers, or the employees of these parties, in performance of health studies or related health or environmental duties pursuant to their contracts, grants, and cooperating or collaborating research agreements. In order to perform such studies, the Department, its contractors, grantees, participants in cooperative agreements, and collaborating researchers may disclose a record to federal, state and local health and medical agencies or authorities; to subcontractors in order to determine a subject's vital status or cause of death; to health care providers to verify a diagnosis or cause of death; or to third parties to obtain current addresses for participants in health-related studies, surveys and surveillance. All recipients of such records are required to comply with the Privacy Act, to follow prescribed measures to protect personal privacy, and to disclose or use personally identifiable information only for the above described research purposes.

6. A record from this system may be disclosed as a routine use to members of DOE advisory committees, the Department of Health and Human Services Advisory Committee on Projects Related to Department of Energy Facilities and to designated employees of Federal, State, or local government or government-sponsored entities authorized to provide advice to the Department concerning health, safety or environmental issues. All recipients of such records are required to comply with the Privacy Act, to follow prescribed measures to protect personal privacy, and to disclose or use personally identifiable information only for the purpose of providing advice to the Department or to the Department of Health and Human Services.

7. A record from this system be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available to researchers and the general public information on the assumptions, methodology, and data used in establishing radiation doses consistent with the protection of private medical records. Those provided information under this routine use are subject to the same limitations applicable to Department officers and employees under the Privacy Act.

Policies and practices for storing, retrieving, accessing, retaining, and disposing of records in the system:

Storage:

Records may be stored as paper records, microfilm and electronic media.

Retrievability:

Records may be retrieved by name, alphanumeric code, and social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: U.S. Department of Energy, Assistant Secretary for Environment, Safety, Health, 1000 Independence Avenue, SW., Washington, DC 20585.

Field Offices: The Managers and Directors of the “System locations” listed above are the records are maintained are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at location where the work is performed. In accordance with the DOE's Privacy Act regulation, proper identification is required before a request is processed.

Contesting record procedures:

Same as Notification procedures above.

Record source categories:

The subject individual, accident-incident investigations, film badges, dosimetry records, and previous employee records.

System exempted from certain provisions of the Act:

None.

DOE-38

System name:

Occupational and Industrial Accident Records.

Security classification:

Unclassified.

System Locations:

U.S. Department of Energy Headquarters, 1000 Independence Avenue, SW., Washington, DC 20585;

U.S. Department of Energy, Alaska Power Administration, San Point Way, NE., Seattle, WA 98115

U.S. Department of Energy, Albuquerque Operations Office, P.O. Box 4500, Albuquerque, NM 87115

U.S. Department of Energy, Amarillo Area Office, Pantex Plant, P.O. Box 1086, Amarillo, TX 79105

U.S. Department of Energy, Bonneville Power Administration, P.O. Box 3621, Portland, OR 97208

U.S. Department of Energy, Brookhaven Area Office, Upton, NY 11973

U.S. Department of Energy, Chicago Operations Office, 9800 South Cass Avenue, Argonne, IL 60439

U.S. Department of Energy, Carbondale Mining Research Center, P.O. Box 2587, Carbondale, IL 62901

U.S. Department of Energy, Clinch River Breeder Reactor Plant Project, P.O. Box U, Oak Ridge, TN 37830

U.S. Department of Energy, Dayton Area Office, P.O. Box 66, Miamisburg, OH 45342

U.S. Department of Energy, Environmental Measurements Laboratory, 376 Hudson Street, New York, NY 10014

U.S. Department of Energy, Idaho Operations Office, 850 Energy Drive, Idaho Falls, ID 83401

U.S. Department of Energy, Idaho Branch Office, P.O. Box 2469, Idaho Falls, ID 83401

U.S. Department of Energy, Kansas City Area Office, P.O. Box 202, Kansas City, MO 64141

U.S. Department of Energy, Knolls Atomic Power Laboratory, P.O. Box 1072, Schenectady, NY 12301

U.S. Department of Energy, Los Alamos Area Office, P.O. Box 5800, Los Alamos, NM 87544

U.S. Department of Energy, National Energy Technology Laboratory (Morgantown), P.O. Box 880, Morgantown, WV 26505

U.S. Department of Energy, National Energy Technology Laboratory (Pittsburgh), P.O. Box 10940, Pittsburgh, PA 15122

U.S. Department of Energy, National Petroleum Technology Office, William Center Tower One, 1 West Third Street, Suite 1400, Tulsa, OK 74103

U.S. Department of Energy, Naval Petroleum Reserve, P.O. Box 11, Tupman, CA 93276

U.S. Department of Energy, Nevada Test Site, Mercury, NV 89023

U.S. Department of Energy, New Brunswick Laboratory, D-350, 9800 S. Cass Avenue, Argonne, IL 60439

U.S. Department of Energy, Nevada Operations Office, P.O. Box 14100, Las Vegas, NV 89114

U.S. Department of Energy, Oak Ridge Operations Office, P.O. Box E, Oak Ridge, TN 37830

U.S. Department of Energy, Pinellas Area Office, P.O. Box 11500, St. Petersburg, FL 33733

U.S. Department of Energy, Pittsburgh Naval Reactors, P.O. Box 109, Pittsburgh, PA 15122

U.S. Department of Energy, Puerto Rico Area Office, P.O. Box BB, San Juan, PR 00935

U.S. Department of Energy, Rocky Flats Field Office, P.O. Box 928, Golden, CO 80401

U.S. Department of Energy, Richland Operations Office, P.O. Box 550, Richland, WA 99352

U.S. Department of Energy, Oakland Operations Office, 1301 Clay Street, 700-N, Oakland, CA 94612

U.S. Department of Energy, Sandia Area Office, P.O. Box 5800, Albuquerque, NM 87115

U.S. Department of Energy, Savannah River Operations Office, P.O. Box A, Aiken, SC 29801

U.S. Department of Energy, Schenectady Naval Reactors Office, P.O. Box 1069, Schenectady, NY 12301

U.S. Department of Energy, Shippingport Branch Office, P.O. Box 11, Shippingport, PA 15077

U.S. Department of Energy, Southeastern Power Administration, Samuel Elbert Building, Elberton, GA 30635

U.S. Department of Energy, Southwestern Power Administration, P.O. Box 1619, Tulsa, OK 74101

U.S. Department of Energy, Strategic Petroleum Reserve, 900 Commerce Road, East, New Orleans, LA 70123

U.S. Department of Energy, Western Area Power Administration, P.O. Box 3402, Golden, CO 80401

U.S. Department of Energy, Yucca Mountain Site Characterization Office, 1551 Hillshire Drive, Suite A, Las Vegas, NV 89134

Categories of individuals covered by the system:

Department of Energy (DOE) employees, contractor employees, and any other persons having access to DOE facilities who have had accidents on DOE facilities. Also individuals involved in accidents with employees or contractor employees or other persons having access to DOE facilities.

Categories of records in the system:

Accident/incident information, occupational injury and illness experience, property damage experience, and motor vehicle accidents.

Authority for maintenance of the system:

5 U.S.C. 301; Department of Energy Organization Act, including authorities incorporated by reference in Title III of the Department of Energy Organization Act; Federal Tort Claims Act, 28 U.S.C. 2671-2680; Military Personnel and Civilian Employees Claims Act, 31 U.S.C. 240-243; Executive Order 12009.

Purpose(s):

The records are maintained and used by the Department to monitor and record information about DOE employees, contract employees, and other persons, who have had accidents on DOE facilities.

Routine uses of records maintained in the system, including categories of users and the purposes of such uses:

1. A record from this system may be disclosed as a routine use to physicians, the Department of Labor, various state departments of labor and industry groups, and contractors who use information to: (a) Ascertain suitability of an employee for job assignments with regard to health (b) provide benefits under Federal programs or contracts, and (c) maintain a record of occupational injuries or illnesses and the performance of regular diagnostic and treatment services to patients.

2. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

6. A record from this system of records may be disclosed to foreign governments or international organizations in accordance with treaties, international conventions, or executive agreements.

7. A record from the system may be disclosed as a routine use to DOE contractors in performance of their contracts, and their officers and employees who have a need for the record in the performance of their duties. Those provided information under this routine use are subject to the same limitations applicable to Department officers and employees under the Privacy Act.

8. A record from this system of records may be disclosed to a member of Congress submitting a request involving the constituent when the constituent has requested assistance from the member with respect to the subject matter of the record. The member of Congress must provide a copy of the constituent's request for assistance.

9. A record from this system may be disclosed as a routine use to DOE contractor personnel, grantees, and cooperative agreement holders of components of the Department of Health and Human Services, including the National Institute for Occupational Safety and Health, the National Center for Environmental Health of the Center for Disease Control and Prevention, and the Agency for Toxic Substances and Disease Registry when conducting epidemiological studies, or public health activities as required by law performed and pursuant to a Memorandum of Understanding between the Department and the Department of Health and Human Services or its components. Those provided information under this routine use are subject to the same limitations applicable to Department officers and employees under the Privacy Act.

10. A record from this system may be disclosed as a routine use to contractors, grantees, participants in cooperative agreements, and collaborating researchers, or the employees of these parties, when conducting health studies or related health or environmental duties pursuant to their contracts, grants, and cooperating or collaborating research agreements. In order to conduct the studies, the Department, its contractors, grantees, participants in cooperative agreements, and collaborating researchers may disclose a record to federal, state and local health and medical agencies or authorities; to subcontractors in order to determine a subjects vital status or cause of death; to health care providers to verify a diagnosis or cause of death; or to third parties to obtain current addresses for participants in health-related studies, surveys and surveillances. All recipients of such records are required to comply with the Privacy Act, to follow prescribed measures to protect personal privacy, and to disclose or use personally identifiable information only for the above descried research purpose. Those provided information under this routine use are subject to the same limitations applicable to Department officers and employees under the Privacy Act.

11. A record from this system of records may be disclosed to members of DOE advisory committees, the Department of Health and Human Services Advisory Committee on Project Related to Department of Energy Facilities and to designated employees of Federal, State, or local government or government-sponsored entities authorized to provide advice to the Department concerning health, safety, or environmental issues. Those provided information under this routine use are subject to the same limitations applicable to Department officers and employees under the Privacy Act.

Policies and practices for storing, retrieving, accessing, retaining, and disposing of records in the system:

Storage:

Records may be stored as paper records, microfilm, and electronic media.

Retrievability:

Records may be retrieved by name and social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: U.S. Department of Energy, Assistant Secretary for Environmental, Safety, Health, EH-1, Washington, DC 20585.

Field Offices: The Managers and Directors of field locations listed above under “System location(s)” are the system managers for their respective portions of this system.

Notification procedures:

In accordance with DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at location where the work is performed. In accordance with the DOE Privacy Act regulation, proper identification is required before a request is processed.

Contesting record procedures:

Same as Notification procedures above.

Record source categories:

The individual who is the subject of the record, physicians, medical institutions, Office of Workers Compensation Programs, military retired pay system records, Federal civilian retirement systems, retirement life insurance and health benefits records system of the Office of Personnel Management, and the personnel management records systems of the Office of Personnel Management.

Systems exempted from certain provisions of the Act:

None.

DOE-41

System name:

Legal Files (Claims, Litigation, Criminal Violations, Patents, and Others).

Security classification:

Unclassified.

System Location:

U.S. Department of Energy Headquarters, 1000 Independence Avenue, SW., Washington, DC 20585

U.S. Department of Energy, Alaska Power Administration, San Point Way, NE., Seattle, WA 98115

U.S. Department of Energy, Albuquerque Operations Office, P.O. Box 4500, Albuquerque, NM 87115

U.S. Department of Energy, Bartlesville Energy Technology Center, P.O. Box 1398, Bartlesville, OK 74003

U.S. Department of Energy, Bonneville Power Administration, P.O. Box 3621, Portland, OR 97208

U.S. Department of Energy, Chicago Operations Office, 9800 South Cass Avenue, Argonne, IL 60439

U.S. Department of Energy, Grand Forks Energy Technology Center, P.O. Box 8213, University Station, Grand Forks, ND 58201

U.S. Department of Energy, Idaho Operations Office, 850 Energy Drive, Idaho Falls, ID 83401

U.S. Department of Energy, Los Alamos Area Office, 528 35th Street, Los Alamos, NM 87544

U.S. Department of Energy, National Energy Technology Laboratory (Morgantown), P.O. Box 880, Morgantown, WV 26505

U.S. Department of Energy, National Energy Technology Laboratory (Pittsburgh), P.O. Box 10940, Pittsburgh, PA 15122

U.S. Department of Energy, National Petroleum Technology Office, William Center Tower One, 1 West Third Street, Suite 1400, Tulsa, OK 74103

U.S. Department of Energy, Nevada Operations Office, P.O. Box 98518, Las Vegas, NV 89193-8518

U.S. Department of Energy, Oak Ridge Operations Office, P.O. Box E, Oak Ridge, TN 37830

U. S. Department of Energy, Oakland Operations Office, 1301 Clay Street, Oakland CA 94162-5208

U.S. Department of Energy, Pittsburgh Naval Reactors, P.O. Box 109, Pittsburgh, PA 15122

U.S. Department of Energy, Richland Operations Office, P.O. Box 550, Richland, WA 99352

U.S. Department of Energy, Rocky Flats Field Office, 10808 Highway 93, Unit A, Golden CO 80403-8200

U.S. Department of Energy, Oakland Operations Office, 1333 Broadway, Oakland, CA 94612

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Elberton, GA 30635

U.S. Department of Energy, Southwestern Power Administration, P.O. Box 1619, Tulsa, OK 74101

U.S. Department of Energy, Western Area Power Administration, P.O. Box 3402, Golden, CO 80401

U.S. Department of Energy, Yucca Mountain Site Characterization Office, 1551 Hillshire Drive, Suite A, Las Vegas, NV 89134

Categories of individuals covered by the system:

All persons identified in files maintained by the Office of General Counsel, which includes attorneys at all DOE offices, from which information is retrieved by name or other personal identifier, including: litigants and other claimants against the Department and its contractors asserting matters including, but not limited to, personal injury, property damage or infringement (including intellectual property), contract violation and harms resulting from employer-employee relationships; persons who are the subjects of claims by the DOE, such as persons who may have violated criminal laws, DOE regulations and contracts with the DOE and persons against whom the DOE considered asserting such claims; DOE's contractors and potential contractors; persons holding copyrights and issued patents pertaining to the DOE's activities; DOE employees subject to garnishment or assignments; and DOE employees and contractor employees who use Alternative Dispute Resolution (ADR).

Categories of records in the system:

Records concerning legal matters include, but are not limited to, documents pertaining to: (1) Litigation and all other claims against, and by, the DOE and its contractors, which have been assigned to the Office of General Counsel; (2) DOE contracts; (3) issued patents and copyright matters; (4) records pertaining ADR. Litigation and claim records may, among others, include correspondence, pleadings such as complaints, answers, and motions; depositions, court orders and briefs. Records in this system also may include accident reports, inspection reports, investigation reports, audit reports, personnel files, contracts, consultants agreements, reports pertaining to criminal matters of interest to the DOE, Personnel Security Review Board documents, medical records, photographs, telephone records, patents and related documents, correspondence, and memoranda.

Note: This system does not include records maintained in DOE-16, Standards of Conduct.

Authority for maintenance of the system:

42 U.S.C. 7101 et seq. and 50 U.S.C. 2401 et seq.

Purpose(s):

The records are maintained and used by the Department to settle claims and prepare for litigation and resolve disputes.

Routine uses of records maintained in the system, including categories of users and the purposes of such uses:

1. A record from this system may be disclosed as a routine use for the purpose of an investigation, settlement of claims, or the preparation and conduct of litigation to: (1) A person representing the Department in the investigation, settlement or litigation, and to individuals assisting in such representation; (2) others involved in the investigation, settlement, and litigation, and their representatives and individuals assisting those representatives; (3) a witness, potential witness, or their representatives and assistants, and any other person who possesses information pertaining to the matter, when it is necessary to obtain information or testimony relevant to the matter.

2. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state, or Federal agency when the record alone or in conjunction with other information, indicates a violation or potential violation of law whether civil, criminal, or regulatory in nature.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records and electronic media.

Retrievability:

Records may be retrieved by name, case name, claim name, or assigned identifying number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Office of General Counsel, GC-2, U.S. Department of Energy, 1000 Independence Avenue, SW., Washington, DC 20585.

Field Offices: The Chief Counsels of the “System location(s)” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U. S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Subject individuals, inspection reports, other agencies, Office of General Counsel attorneys, other agency officers and staff, contractors, investigators, and auditors.

Systems exempted from certain provisions of the Act:

This system is exempt under subsection (k)(1), (k)(2), and (k)(5) of the Privacy Act, to the extent that information within the System meets the criteria of those subsections of the Act. Such information has been exempted from the provisions of subsections (c)(3), (d), and (e)(1) of the Act; see the DOE Privacy Act regulation at Title 10, Code of Federal Regulations, part 1008.

DOE-43

System name:

Personnel Security Files.

Security classification:

Unclassified and classified.

System Location:

U.S. Department of Energy, Headquarters, 19901 Germantown Road, Germantown, MD 20874-1290

U.S. Department of Energy, Albuquerque Operations Office, P.O. Box 5400, Albuquerque, NM 87185-5400

U.S. Department of Energy, Chicago Operations Office, 9800 South Cass Avenue, Argonne, IL 60439

U.S. Department of Energy, Idaho Operations Office, 850 Energy Drive, Idaho Falls, ID 83401

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Pittsburgh Naval Reactors Office, P.O. Box 109, West Mifflin, PA 15122-0109

U.S. Department of Energy, Richland Operations Office, 825 Jadwin Avenue, P.O. Box 550, Richland, WA 99352

U.S. Department of Energy, Savannah River Operations Office, P.O. Box A, Aiken, SC 29801

U.S. Department of Energy, Schenectady Naval Reactors Office, P.O. Box 1069, Schenectady, NY 12301

Categories of individuals covered by the system:

Applicants for Department of Energy (DOE) employment; DOE employees including assignees and detailees, agents and consultants with the DOE, DOE contractors and subcontractors, and DOE access permittees processed for DOE access authorizations for access to classified matter or special nuclear materials; other

Federal agency contractor and subcontractor applicants for employment, and their employees, detailees, agents, and consultants processed for DOE access authorizations; and other individuals processed for DOE access authorizations as determined by the Secretary.

Categories of records in the system:

Name, date and place of birth, Social Security Number, citizenship status, grade, organization, employer(s), initial investigation and reinvestigation history; and access authorization history; the formal request(s) and justification(s) for access authorization processing; security forms, fingerprint cards, and acknowledgments completed by the individual for both the initial investigation and reinvestigations; results of preemployment checks (if required); request(s) and approval(s) for issuance of a security badge(s); report of investigation provided by an agency which has previously conducted an investigation of the individual for employment or security clearance purposes; approvals for classified visits; photographs; security infraction reports; security termination statement(s), foreign travel document; letters of interrogatory, personnel security interview transcripts or summaries, and/or audio tapes of the interviews, and evaluations of the interviews; reports of hospitalization or treatment for a mental condition or substance abuse, including information provided by an Employee Assistance Program provider; reports of DOE-sponsored mental evaluations conducted by competent medical authorities; reports of security violations; public record information to include law enforcement, financial, divorce, bankruptcy, name change and other court information or reports and copies of information appearing in the media; security advisory letters; information concerning citizenship status, foreign contacts, and spouse and/or individual(s) with whom the individual resides; administrative review processing data; justifications for participation in sensitive DOE activities and/or for Sensitive Compartmented Information access approval; results of required testing for participation in sensitive DOE activities; documents concerning Interim Access Authorization processing or processing under section 145b of the Atomic Energy Act of 1954, as amended; written evaluations of reported derogatory information; credit check results; copies of correspondence to and from the individual concerning the items above and copies of inter-and intra-agency correspondence concerning the items above; and any other material relevant to the individual's DOE access authorization or special authorization eligibility or processing and, for DOE employees, suitability for Federal employment.

Authority for maintenance of the system:

42 U.S.C. 7101 et seq.; 50 U.S.C. 2401 et seq.; 10 CFR part 710, subparts A and B; Executive Orders 10450 and 12968; 5 CFR part 732; DOE O 472.1B, Personnel Security Activities, of 3-24-97; Personnel Security Program Manual DOE M 472-1.1, of 5-22-98; and Director of Central Intelligence Directive 1/14 of 1-22-92.

Purpose(s):

The records are maintained and used by the Department as an official record of all information gathered and evaluated to determine an individual's initial and continued DOE access authorization eligibility and, if applicable, an individual's eligibility for participation in DOE sensitive activities or for access to Sensitive Compartmented Information.

Routine uses of records maintained in the system, including categories of users and the purposes of such uses:

1. A record from this system may be disclosed as a routine use to competent medical authority who, under a formal agreement for payment of services with the local DOE personnel security element, conducts evaluations under Title 10, Code of Federal Regulations, part 710, to determine whether an individual has an illness or mental condition of a nature which causes, or may cause, a significant defect in judgment or reliability, or is alcohol dependent or suffering from alcohol abuse.

2. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

3. A record from this system of records may be disclosed to a Federal agency in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to the appropriate local, state, or Federal agency when the record alone or in conjunction with other information, indicates a violation or potential violation of law whether civil, criminal, or regulatory in nature.

5. A record from this system of records may be disclosed to a member of Congress submitting a request involving the constituent when the constituent has requested assistance from the member with respect to the subject matter of the record . The member of Congress must provide a copy of the constituent's request for assistance.

6. A record from this system of records may be disclosed to foreign governments or international organizations in accordance with treaties, international conventions, or executive agreements.

7. A record from the system may be disclosed as a routine use to DOE contractors in performance of their contracts, and their officers and employees who have a need for the record in the performance of their duties. Those provided information under this routine use are subject to the same limitations applicable to Department officers and employees under the Privacy Act.

Policies and practices for storing, retrieving, accessing, retaining and disposing of records in the system:

Storage:

A record may be stored as paper records, microfiche, and electronic media.

Retrievability:

Records may be retrieved by name and assigned DOE file number (alpha-numeric code).

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: U.S. Department of Energy, Director, Office of Safeguards and Security, 19901 Germantown Road, Germantown, MD 20874-1290. Field Offices: The Manager of the “System locations” listed above are the system managers for their respective portions of this system.

Notification procedures:

In accordance with the DOE regulation implementing the Privacy Act at Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with DOE's Privacy Act regulation, proper identification is required before a request is processed.

Contesting record procedures:

Same as notification procedures above.

Record source categories:

Documents completed and/or furnished by subject; Department of Energy; Office of Personnel Management; Federal Bureau of Investigation; Defense Security Service; medical professionals; and confidential sources.

Systems exempted from certain provisions of the Act:

This system is exempt under subsection (k)(1), (k)(2), and (k)(5) of the Privacy Act to the extent that information within the System meets the criteria of those subsections of the Act. Such information has been exempted from the provisions of subsections (c)(3), (d), and (e)(1) of the Act. See the Department's Privacy Act regulation at Title 10, Code of Federal Regulations, part 1008.

DOE-44

System name:

Special Access Authorization for Categories of Classified Information.

Security classification:

Classified.

System Location:

U.S. Department of Energy, Headquarters, 19901 Germantown Road, Germantown, MD 20874-1290

U.S. Department of Energy, Headquarters, 1000 Independence Avenue, SW., Washington, DC 20585

U.S. Department of Energy, Albuquerque Operations Office, P.O. Box 5400, Albuquerque, NM 87185-5400

U.S. Department of Energy, Amarillo Area Office, Highway 60 FM2373, Amarillo, TX 79120

U.S. Department of Energy, Idaho Operations Office, 850 Energy Drive, Idaho Falls, ID 83401

U.S. Department of Energy, Kansas City Area Office, 2000 E 95th Street, Kansas City, MO 64131-3095

U.S. Department of Energy, Los Alamos Area Office, 528 35th Street, Los Alamos, NM 87544

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Richland Operations Office, 825 Jadwin Avenue, P.O. Box 550, Richland, WA 99352

U.S. Department of Energy, Sandia National Laboratories, 7011 E Avenue, Albuquerque, NM 87123

U.S. Department of Energy, Savannah River Operations Office, P.O. Box A, Aiken, SC 29801

Categories of individuals covered by the system:

Current and former Department of Energy (DOE) employees, current and former DOE contractor employees, and employees of other Federal agencies authorized access to special categories of classified information and compartmentalized DOE facilities and/or areas.

Categories of records in the system:

Names of individuals, social security numbers, letters and memoranda, and status reports relating to authorized access to special categories of classified information and compartmentalized DOE facilities and/or areas.

Authority for maintenance of the system:

42 U.S.C. 7101; 50 U.S.C. 2401; 5 U.S.C. 301; Atomic Energy Act of 1954, as amended; Department of Energy Organization Act, including authorities incorporated by reference in Title of the Department of Energy Organization Act; DOE M 471.2-4, Executive Order 12333; Executive Order 12968; Federal Personnel Manual, Chapters 731 and 736.

Purpose(s):

The records are maintained and used by DOE to verify individuals who are authorized access to special categories of classified information and compartmentalized DOE facilities and or areas.

Routine uses of records maintained in the system, including categories of users and the purposes of such uses:

1. A record from this system may be disclosed as a routine use to DOE contractors in performance of their contracts, and their officers and employees who have a need for the record in the performance of their duties. Those provided information under this routine use are subject to the same limitations applicable to Department officers and employees under the Privacy Act.

2. A record from this system may be disclosed as a routine use to other federal agencies or departments for determining individuals who have access to classified information generated by these agencies.

3. A record from this system may disclosed as a routine use to the appropriate local, State or Federal agency in the event that a record within this system of records, alone or in conjunction with other information, indicates a violation or potential violation of law whether civil, criminal or regulatory in nature, and whether arising by general statute of particular program pursuant thereto.

4. A record from this system may be disclosed as a routine use to a member of Congress submitting a request involving a constituent when the constituent has requested assistance from the member of Congress with respect to the subject matter of the record. The member of Congress must provide a copy of the constituent's request for assistance.

Policies and practices for storing, retrieving, accessing, retaining and disposing of records in the system:

Storage:

A record may be stored as paper records, microfiche, and electronic media.

Retrievability:

Records may be retrieved by name.

Safeguards:

Paper records and microfiche are maintained in locked General Services Administration approved security containers. Electronic records are controlled through established DOE computer center procedures (personnel screening and physical security), and they are locked in General Services Administration approved security containers. Access is limited to those whose official duties require access to the records on a strict need-to-know basis.

Retention and disposal:

Records retention and disposal authorities are contained in the National Archives and Records Administration (NARA) General Records Schedule and DOE record schedules that have been approved by NARA.

System manager(s) and address:

U.S. Department of Energy, Office of Security Affairs, Headquarters, 1000 Independence Avenue, SW., Washington, DC 20585

Field Offices: The Managers of the “System locations” listed above are the system managers for their respective portions of this system.

Notification procedures:

In accordance with the DOE regulation implementing the Privacy Act at Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with DOE's Privacy Act regulation, proper identification is required before a request is processed.

Contesting record procedures:

Same as notification procedures above.

Record source categories:

The subject individual, present and former DOE employees and contractor employees; publicly available material; other agencies within the Intelligence Community; other offices and elements within DOE; and other federal agencies and official records.

Systems exempted from certain provisions of the Act:

This system is exempt under subsection (k)(1) of the Privacy Act to the extent that information within the System meets the criteria of those subsections of the Act. Such information has been exempted from the provisions of subsections (c)(3), and (e)(1) of the Act. See the Department's Privacy Act regulation at Title 10, Code of Federal Regulations, part 1008.

DOE-45

System name:

Weapon Data Access Control System (WDACS).

Security classification:

Unclassified.

System Location:

Headquarters: U.S. Department of Energy, Defense Programs, Deputy Associate Deputy Assistant Secretary for Technical and Environmental Support, Germantown Road, Germantown, MD 20874-1290.

U.S. Department of Energy, Albuquerque Operations Office, P.O. Box 4500, Albuquerque, NM 87185-5400

U.S. Department of Energy, Amarillo Area Office, P.O. Box 30030, Amarillo, TX 79120-0030

U.S. Department of Energy, Kansas City Area Office, P.O. Box 410202, Kansas City, MO 64141-0202

U.S. Department of Energy, Miamisburg Area Office, P.O. Box 66, Miamisburg, OH 45342-0066

U.S. Department of Energy, Nevada Operations Office, P.O. Box 98518, Las Vegas, NV 89193-8518

U.S. Department of Energy, Pinellas Area Office, P.O. Box 2900, Largo, FL 34649

U.S. Department of Energy, Oak Ridge Operations Office, P.O. Box 2001, Oak Ridge, TN 37831

U.S. Department of Energy, Oakland Operations Office, 1301 Clay Street, Oakland, CA 94612-5208

U.S. Department of Energy, Office of Scientific and Technical Information, P.O. Box 62, Oak Ridge, TN 37831

U.S. Department of Energy, Rocky Flats Field Office, P.O. Box 928, Golden, CO 80402-0928

U.S. Department of Energy, Sandia National Laboratories, Albuquerque, P.O. Box 5800, Albuquerque, NM 87185-5800

U.S. Department of Energy, Sandia National Laboratories, P.O. Box 969, Livermore, CA 94551-0969

U.S. Department of Energy, Sandia National Laboratories, Tonopah Test Range, P.O. Box 871, Tonopah, NV 89049.

U.S. Department of Energy, Savannah River Operations Office, P.O. Box A, Aiken, SC 29808

U.S. Department of Energy, University of California, Lawrence Livermore National Laboratory, 7000 East Avenue, P.O. Box 808, Livermore, CA 94550

U.S. Department of Energy, University of California, Los Alamos National Laboratory, P.O. Box 1663, Los Alamos, NM 87545

Categories of individuals covered by the system:

Department of Energy (DOE), Department of Defense (DOD), and other Government agency employees, contractors, and consultants requiring access to classified weapons information and/or DOE nuclear weapons program facilities.

Categories of records in the system:

Name, social security number, date of birth, citizenship, employer, type of clearance, number and date of clearance, categories of information requested and authorized, locations to be visited and dates of visit, purpose of visit, point of contact, Government agency certifying need-to-know, and classified mail/shipping addresses.

Authority for maintenance of the system:

42 U.S.C. 7101 et seq. and 50 U.S.C. 2401 et seq.

Purpose(s):

The records are maintained by the Department to document all persons who have been authorized access to nuclear weapon information through a visit to one of the DOE Nuclear Weapons Complex facilities or to receive classified data via a classified mail/shipping channel.

Routine uses of records maintained in the system, including categories of users and the purposes of such uses:

A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as microfiche, paper records, electronic media.

Retrievability:

Records may be retrieved by social security number, and name.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Office of Defense Programs, U.S. Department of Energy, 19901 Germantown Road, Germantown, MD 20874.

Field Offices: The Managers and Directors of the “System locations” listed above are the system managers for their respective portions of this system.

Notification procedures:

In accordance with DOE regulation implementing the Privacy Act, Title 10, Code of Federal Regulations, part 1008, a request by an individual to determine if a system of records contains information about him/her should be directed to the Director, Headquarters Freedom of Information Act and Privacy Act Division, U. S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the Privacy Act regulation, proper identification is required before a request is processed.

Contesting record procedures:

Same as Notification procedures above.

Record source categories:

The individuals, DOE, DOD, and other Government agencies, and their contractors.

Systems exempted from certain provisions of the Act:

None.

DOE-46

System name:

Administrative Review Files.

Security classification:

The contents of Administrative Review Files are unclassified and classified.

System Location:

U.S. Department of Energy, Headquarters, 19901 Germantown Road, Germantown, MD 20874-1290

U.S. Department of Energy, Albuquerque Operations Office, P.O. Box 5400, Albuquerque, NM 87185-5400

U.S. Department of Energy, Chicago Operations Office, 9800 South Cass Avenue, Argonne, IL 60439

U.S. Department of Energy, Idaho Operations Office, 850 Energy Drive, Idaho Falls, ID 83401

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Pittsburgh Naval Reactors Office, P.O. Box 109, West Mifflin, PA 15122-0109

U.S. Department of Energy, Richland Operations Office, 825 Jadwin Avenue, P.O. Box 550, Richland, WA 99352

U.S. Department of Energy, Savannah River Operations Office, P.O. Box A, Aiken, SC 29801

U.S. Department of Energy, Schenectady Naval Reactors Office, P.O. Box 1069, Schenectady, NY 1230-1069

Categories of individuals covered by the system:

Individuals processed for or granted DOE access authorization who are subsequently processed under 10 CFR part 710 for denial or revocation of access authorization; applicants for employment; employees including assignees and detailees; agents, and consultants with the DOE; DOE contractors and subcontractors at any tier; and DOE access permittees processed for DOE access authorizations for access to classified matter or special nuclear materials; other agency Federal, contractor, and subcontractor at any tier; applicants for employment, employees (including assignees and detailees), agents, and consultants processed for DOE access authorization; other individuals as processed for DOE access authorization as determined by the Secretary.

Categories of records in the system:

Transcript of the hearing convened under 10 CFR part 710 procedures (when an individual does not avail himself/herself of the right to a hearing under 10 CFR part 710 procedures, his/her DOE Personnel Security File (see DOE-43, Personnel Security File) becomes the basis of the administrative record); exhibits submitted by the DOE and the respondent to the Hearing Officer for inclusion in the administrative record; the Hearing Officer's opinion; decisions rendered by the Manager, Director of Safeguards and Security, and/or the Appeal Panel; evidence submitted by the DOE or the respondent subsequent to the closing of the administrative record; correspondence to and from the individual (and his/her counsel or representative) related to the conduct of proceedings; intra-agency correspondence related to the conduct of proceedings; and information concerning reconsideration of the case.

Authority for maintenance of the system:

42 U.S.C. 7101 et seq.; 50 U.S.C. 2401 et seq.; 10 CFR part 710, subparts A and B; Executive Order 12968; and DOE O 472.1B, PERSONNEL SECURITY ACTIVITIES, of 3-24-97, and Personnel Security Program Manual DOE M 472-1.1 of 5-22-98.

Purpose(s):

The records are maintained and used by the Department to maintain an official administrative record of 10 CFR part 710 proceedings that are conducted to determine an individual's DOE access authorization eligibility.

Routine uses of records maintained in the system, including categories of users and the purpose of such uses:

1. A record from this system may be disclosed to competent medical authority who, under a formal agreement for payment of services with the local DOE personnel security element, conducts evaluations under Title 10, Code of Federal Regulations, part 710, to determine whether an individual has an illness or mental condition of a nature that causes, or may cause, a significant defect in judgment or reliability, or is alcohol dependent or suffering from alcohol abuse.

2. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

3. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to the appropriate local, state, or Federal agency when the record, alone or in conjunction with other information, indicates a violation or potential violation of law whether civil, criminal, or regulatory in nature.

5. A record from this system of records may be disclosed to a member of Congress submitting a request involving the constituent when the constituent has requested assistance from the member with respect to the subject matter of the record. The member of Congress must provide a copy of the constituent's request for assistance.

6. A record from this system of records may be disclosed to foreign governments or international organizations in accordance with treaties, international conventions, or executive agreements

7. A record from the system may be disclosed as a routine use to DOE contractors in performance of their contracts, and their officers and employees who have a need for the record in the performance of their duties. Those provided information under this routine use are subject to the same limitations applicable to Department officers and employees under the Privacy Act.

Policies and practices or storing, retrieving, accessing, retaining and disposing of records in the system:

Storage:

Records may be stored as paper records, audio tape, video tape, microfiche and electronic media.

Retrievability:

Records may be retrieved by name and assigned DOE file number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: U.S. Department of Energy, Director, Office of Safeguards and Security, 19901 Germantown Road, Germantown, MD 20874-1290.

Field Offices: The Managers of the “System location(s)” listed above are the system managers for their respective portions of the system.

Notification procedure:

In accordance with the DOE regulation implementing the Privacy Act regulation at Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with DOE's Privacy Act regulation, proper identification is required before a request is processed.

Contesting record procedures:

Same as “Notification procedures” above.

Record source categories:

The individual's Personnel Security File, and DOE staff.

System exempted from certain provisions of the Act:

This system is exempt under subsections (k)(1), (k)(2), and (k)(5) of the Privacy Act, to the extent that information within the System meets the criteria of those subsections of the Act. Such information has been exempted from the provisions of subsections (c)(3), (d), and (e)(1) of the Act; see the Department's Privacy Act regulation at Title 10, Code of Federal Regulations, part 1008.

DOE-48

System name:

Security Education and/or Infraction Reports.

Security classification:

Classified.

System Location:

U.S. Department of Energy, Headquarters, 19901 Germantown Road, Germantown, MD 20874-1290

U.S. Department of Energy, Albuquerque Operations Office, P.O. Box 5400, Albuquerque, NM 87185-5400

U.S. Department of Energy, Amarillo Area Office, Highway 60 FM2373, Amarillo, TX 79120

U.S. Department of Energy, Carlsbad Area Office, 4021 National Parks Highway, Carlsbad, NM 88220

U.S. Department of Energy, Chicago Operations Office, 9800 South Cass Avenue, Argonne, IL 60439

U.S. Department of Energy, Idaho Operations Office, 850 Energy Drive, Idaho Falls, ID 83401

U.S. Department of Energy, Kansas City Area Office, 2000 E. 95th Street, Kansas City, MO 64131-3095

U.S. Department of Energy, Kirtland Area Office, Pennsylvania & H Street, Albuquerque, NM 87185-5400

U.S. Department of Energy, Los Alamos Area Office, 528 35th Street, Los Alamos, NM 87544

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Pittsburgh Naval Reactors Office, P.O. Box 109, West Mifflin, PA 15122-0109

U.S. Department of Energy, Richland Operations Office, 825 Jadwin Avenue, P.O. Box 550, Richland, WA 99352

U.S. Department of Energy, Rocky Flats Field Office, 10808 Highway 93, Unit A, Golden, GO 80403-8200

U.S. Department of Energy, Savannah River Operations Office, P.O. Box A, Aiken, SC 29801

U.S. Department of Energy, Schenectady Naval Reactors, P.O. Box 1069, Schenectady, NY 12301

Categories of individuals covered by the system:

Department of Energy (DOE) employees and DOE contractor employees possessing DOE access authorizations.

Categories of records in the system:

Records of security education briefings, and investigative and summary reports of security infraction incidents.

Authority for maintenance of the system:

42 U.S.C. 7101 et seq. and 50 U.S.C. 2401 et seq.

Purpose(s):

The records are maintained and used by the Department to inform individuals of their responsibilities for protecting classified matter, and the procedures established by the Department to ensure authorized disclosure.

Routine uses of records maintained in the system, including categories of users and the purposes of such uses:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state, or Federal agency when the record alone or in conjunction with other information, indicates a violation or potential violation of law whether civil, criminal, or regulatory in nature.

6. A record from this system of records may be disclosed to a member of Congress submitting a request involving the constituent when the constituent has requested assistance from the member with respect to the subject matter of the record. The member of Congress must provide a copy of the constituent's request for assistance.

7. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper files and electronic media.

Retrievability:

Records may be retrieved by name.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Director, Office of Safeguards and Security, U.S. Department of Energy, 1000 Independence Avenue, SW., Washington, DC 20545. Field Offices: The Managers and Directors of the “System locations” above are the system managers for their respective portions of this system.

Notification procedure:

In accordance with the DOE regulation implementing the Privacy Act regulation at Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Training officers, security personnel, individual's supervisor, and local, state, and Federal authorities.

Systems exempted from certain provisions of the Act:

None.

DOE-49

System name:

Security Communications File.

Security classification:

Classified and Unclassified.

System location:

U.S. Department of Energy, 1000 Independence Avenue, SW., Washington, DC 20585.

Categories of individuals covered by the system:

Any individual who transmits correspondence of any kind and by any medium which threatens any DOE official, DOE employee, DOE contractor employee. It also includes the names of any individual who threatens to destroy or damage DOE facilities and/or property.

Categories of records in the system:

Threat communications received from individuals as well as individuals who have been identified from articles in the news media as being potential threats to DOE officials, DOE employees and DOE contractor employees. Also includes profiles and informational reports on any of the individuals who may have made threats against DOE personnel or property.

Authority for maintenance of the system:

42 U.S.C. 7101 et seq., 50 U.S.C. 2401 et seq., and the implementing directive of E.O. 12958.

Purpose(s):

The records are maintained and used by DOE to maintain a database and profiles of all individuals who have made threats of any kind, and through any medium, against DOE officials, DOE employees, DOE contractor employees, DOE facilities and/or DOE buildings.

Routine uses of records maintained in the system, including categories of users and the purposes of such uses:

1. A record from the system may be disclosed as a routine use to the appropriate local, State or Federal agency when that record alone or in conjunction with other information, indicates a violation or potential violation of law whether civil, criminal, or regulatory in nature.

2. A record from the system may be disclosed as a routine use to a Federal, state or local agency to obtain information relevant to a Departmental decision concerning the hiring or retention of an employee, the issuance of a security clearance, the letting of a contract, or the issuance of a license, grant, or other benefit. The Department must deem such disclosure to be compatible with the purpose for which the Department collected the information.

3. A record from this system may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from the system may be disclosed as a routine use to DOE contractors in performance of their contracts, and their officers and employees who have a need for the record in the performance of their duties. Those provided information under this routine use are subject to the same limitations applicable to DOE officers and employees under the Privacy Act.

5. A record from the system of records may be disclosed to a member of Congress submitting a request involving the constituent when the constituent has requested assistance from the member concerning the subject matter of the record. The member of Congress must provide a copy of the constituent's request for assistance.

Policies and practices for storing, retrieving, accessing, retaining, and disposing of records in the system:

Storage:

Records may be stored as paper records, microfiche, and electronic media.

Retrievability:

Records may be retrieved by name, social security number, date of birth, and other miscellaneous personal identifiers.

Safeguards:

Paper records are maintained in locked General Services Administration approved security containers. Electronic records are controlled through established DOE computer center procedures (personnel screening and physical security), and they are password protected. Passwords are known only by the system manager. Access is limited to those whose official duties require access to the records on a strict need-to-know basis and other law enforcement authorities, as applicable.

Retention and disposal:

Records retention and disposal authorities are contained in the National Archives and Records Administration (NARA) General Records Schedule and DOE records schedules that have been approved by NARA.

System manager(s) and address:

U.S. Department of Energy, Director, Office of Security Affairs, 1000 Independence Avenue, SW., Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

The subject individual, complainants, witnesses, agency files and records, official federal, state, or local records, and publicly available material.

System exempted from certain provisions of the Act:

This system is exempt under subsections (k)(1), (k)(2), and (k)(5) of the Privacy Act, to the extent that information within the System meets the criteria of those subsections of the Act. Such information has been exempted from the provisions of subsections (c)(3), (d), and (e)(1) of the Act; see the Department's Privacy Act regulation at Title 10, Code of Federal Regulations, part 1008.

DOE-50

System name:

Personnel Assurance Program (PAP) Records.

Security classification:

Unclassified.

System Location:

U.S. Department of Energy, Albuquerque Operations Office, P.O. Box 5400, Albuquerque, NM 87115-5400

U.S. Department of Energy, Amarillo Area Office, Pantex Plant, P.O. Box 30030, Amarillo, TX 79120

U.S. Department of Energy, Kirtland Area Office, AL, P.O. Box 5400, Albuquerque, NM 87158-5400;

U.S. Department of Energy, Los Alamos Area Office, 528 35th Street, Los Alamos, NM 87544;

U.S. Department of Energy, Nevada Operations Office, P.O. Box 98518, Las Vegas, NV 89193-8518;

U.S. Department of Energy, Oakland Operations Office, 1301 Clay Street, Oakland, CA 94612-5208

Categories of individuals covered by the system:

Department of Energy (DOE) or contractor employees performing work that affords both technical knowledge and access to assembled nuclear explosives or certain nuclear weapon components.

Categories of records in the system:

Results of medical examination; employment review; credit/consumer reports; data pertaining to access authorizations (clearances); training records pertaining to individuals' duties involving assembled nuclear explosives or certain nuclear weapon components; employee name; department division; job title; L-code (mail code); telephone number; pager number employee number; and social security number.

Authority for maintenance of the system:

42 U.S.C. 7101 et seq.; 50 U.S.C. 2401 et seq.; Executive Orders 10450, 10865, and 12356; and 10 CFR part 711, Personnel Assurance Program.

Purpose(s):

The records are maintained and used by the Department to ensure that individuals assigned to nuclear explosive duties do not have emotional, mental, or physical incapacities that could result in a threat to nuclear explosive safety. The PAP establishes the requirements and responsibilities for screening, selecting, and continuously evaluating employees assigned to or being considered for assignment to nuclear explosive duties.

Routine uses of records maintained in the system, including categories of users and the purposes of such uses:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state, or Federal agency when the record alone or in conjunction with other information, indicates a violation or potential violation of law whether civil, criminal, or regulatory in nature.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements

8. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper files and electronic media.

Retrievability:

Records may be retrieved by name.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

U.S. Department of Energy, Office of Weapons Surety, 19901 Germantown Road, Germantown, MD 20874-1290.

Field Offices: The Managers and Directors of the “System locations” listed above are the system managers for their respective portions of this system.

Notification procedure:

In accordance with the DOE regulation implementing the Privacy Act regulation at Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Medical records, occupational training records, and personnel security records.

Systems exempted from certain provisions of the Act:

None.

DOE-51

System name:

Employee and Visitor Access Control Records.

Security classification:

Unclassified.

System Location:

U.S. Department of Energy, Headquarters, 19901 Germantown Road, Germantown, MD 20874-1290

U.S. Department of Energy, Albuquerque Operations Office, P.O. Box 5400, Albuquerque, NM 87185-5400

U.S. Department of Energy, Amarillo Area Office, Highway 60 FM2373, Amarillo, TX 79177

U.S. Department of Energy, Carlsbad Area Office, 4021 National Parks Highway, Carlsbad, NM 88220

U.S. Department of Energy, Chicago Operations Office, 9800 South Cass Avenue, Argonne, IL 60439

U.S. Department of Energy, Idaho Operations Office, 850 Energy Drive, Idaho Falls, ID 83401

U.S. Department of Energy, Kansas City Area Office, 2000 E. 95th Street, Kansas City, MO 64131-3095

U.S. Department of Energy, Kirtland Area Office, Pennsylvania & H Street, Albuquerque, NM 87185-5400

U.S. Department of Energy, Los Alamos Area Office, 528 35th Street, Los Alamos, NM 87544

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Pittsburgh Naval Reactors Office, P.O. Box 109, West Mifflin, PA 15122-0109

U.S. Department of Energy, Richland Operations Office, 825 Jadwin Avenue, P.O. Box 550, Richland, WA 99352

U.S. Department of Energy, Rocky Flats Field Office, 10808 Highway 93, Unit A, Golden, GO 80401

U.S. Department of Energy, Savannah River Operations Office, P.O. Box A, Aiken, SC 29801

U.S. Department of Energy, Schenectady Naval Reactors, P.O. Box 1069, Schenectady, NY 1230-1069

Categories of individuals covered by the system:

Department of Energy (DOE) employees, DOE contractor employees and other individuals seeking access to DOE facilities and classified records.

Categories of records in the system:

Records of individuals visiting DOE facilities, employees identification files, and photographs.

Authority for maintenance of the system:

42 U.S.C. 7101 et seq. and 50 U.S.C. 2401 et seq.

Purpose(s):

The records are maintained and used by the Department to track and control individuals accessing Departmental facilities and classified information areas.

Routine uses of records maintained in the system, including categories of users and the purposes of such uses:

1. A record from the system may be disclosed as a routine use to the appropriate local, state, or Federal agency when the record alone or in conjunction with other information, indicates a violation or potential violation of law whether civil, criminal, or regulatory in nature.

2. A record from this system of records may be disclosed to a member of Congress submitting a request involving the constituent when the constituent has requested assistance from the member with respect to the subject matter of the record. The member of Congress must provide a copy of the constituent's request for assistance.

3. A record from the system may be disclosed as a routine use to DOE contractors in performance of their contracts, and their officers and employees who have a need for the record in the performance of their duties. Those provided information under this routine use are subject to the same limitations applicable to Department officers and employees under the Privacy Act.

4. Records from this system may be disclosed to Department of Defense contractors and National Aeronautics and Space Administration to authorize access to classified information and areas.

Policies and practices for storing, retrieving, accessing, retaining, and disposing of records in the system:

Storage:

Records may be stored as paper files and electronic media.

Retrievability:

Records may be retrieved by name and social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Director, Office of Safeguards and Security, U.S. Department of Energy, 1000 Independence Avenue, SW., Washington, DC 20545.

Field Offices: The Managers and Directors of the “System locations” listed above are the system managers for their respective portions of this system.

Notification procedure:

In accordance with the DOE regulation implementing the Privacy Act regulation at Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Subject individual, Department of Defense, DOE offices and contractors, National Aeronautics and Space Administration, and other Government agencies.

System exempted from certain provisions of the Act:

None.

DOE-52

System Name:

Access Control Records of International Visits, Assignments, and Employment at DOE facilities and Contractor Sites.

Security Classification:

Classified and Unclassified.

System Location:

The centralized data system is located at Los Alamos National Laboratories.

U.S. Department of Energy, Headquarters, Office of Security and Emergency Operations, Office of Foreign Visits and Assignments, 1000 Independence Avenue, Washington DC 20585

U.S. Department of Energy, Albany Research Center 1450 Queen Avenue, SW., Albany, OR 97321

U.S. Department of Energy, Albuquerque Operations Office, P.O. Box 5400, Albuquerque, NM 87185-5400

U.S. Department of Energy, Amarillo Area Office, Highway 60 FM 2373, Amarillo, TX 79120

U.S. Department of Energy, Ames Laboratory, 311 Tasf, Iowa State University, Ames, IO 50011

U.S. Department of Energy, Argonne Area Office, 9800 South Cass Avenue, Argonne, IL 60439

U.S. Department of Energy, Argonne National Laboratory-East, 9700 South Cass Avenue, Argonne, IL 60439

U.S. Department of Energy, Batavia Area Office, Kirk Road & Pine Street, Batavia, IL 60510

U.S. Department of Energy, Bonneville Power Administration, 1520 Kelley Place, Walla Walla, WA, 99362

U.S. Department of Energy, Brookhaven National Laboratory, P.O. Box 5000, Upton, NY 11973-5000

U.S. Department of Energy, Chicago Operations Office, 9800 South Cass Avenue, Argonne, IL 60439

U.S. Department of Energy, Dayton Area Office, Dayton, OH, 45343

U.S. Department of Energy, Environmental Measurements Laboratory, 201 Varick Street, 5th Floor, New York, NY, 10014-4811

U.S. Department of Energy, Fernald Field Office, 7400 Willey Road, Cincinnati, OH 45030

U.S. Department of Energy, FERMI Laboratory, Kirk Road and Pine Street, Batavia, IL 60510

U.S. Department of Energy, Grand Junction Project Office 2597 ¾th Road, Grand Junction, CO 81503

U.S. Department of Energy, General Atomics, P.O. Box 85608, San Diego, CA 92186

U.S. Department of Energy, Hanford Environmental Health Foundation, 3080 George Washington Way, Richland, WA, 99352

U.S. Department of Energy, Idaho National Engineering Laboratory, 850 Energy Drive, Idaho Falls, ID 83401

U.S. Department of Energy, Idaho Operations Office, 850 Energy Drive, Idaho Falls, ID 83401

U.S. Department of Energy Kansas City Area Office, 2000 E. 95th Street, Kansas City, MO 64131-3095

U.S. Department of Energy, Kirtland Area Office, Pennsylvania & H Street, Albuquerque, NM

U.S. Department of Energy, Lawrence Berkeley Laboratory, 1 Cyclotron Road Berkeley, CA 94720

U.S. Department of Energy, Lawrence Livermore National Laboratory, 700 East Avenue, P.O. Box 808, L-1, Livermore, CA 94551

U.S. Department of Energy, Los Alamos Area Office, 528 35th Street, Los Alamos, NM 87544

U.S. Department of Energy, Los Alamos National Laboratory, University of California, SM #30 Bikini Road, Los Alamos, NM 87545

U.S. Department of Energy, Miamisburg Area Office, 1 Mound Road, Miamisburg, OH 45342

U.S. Department of Energy, Nevada Operations Office, P.O. Box 98518, Las Vegas, NV 89193-8518

U.S. Department of Energy, National Energy Technology Center (Pittsburgh), P.O. Box 10940, Pittsburgh. PA 15236

U.S. Department of Energy National Petroleum Technology Office, William Center Tower One 1, West Third Street, Suite 1400, Tulsa, OK 74103

U.S. Department of Energy, National Renewable Energy Laboratory Area Office, 1617 Cole Blvd., Golden, CO 80401

U.S. Department of Energy, Oak Ridge National Laboratory, Bethel Valley Road, Oak Ridge, TN, 37831

U.S. Department of Energy, Oak Ridge Operations Office, P.O. Box 2001, Oak Ridge, TN 37831

U.S. Department of Energy, Oakland Operations Office, 1301 Clay Street, Oakland, CA 94612-5208

U.S. Department of Energy, Ohio Field Office, 1 Mound Road, Miamisburg, OH 45342

U.S. Department of Energy, Pacific Northwest National Laboratory, 902 Battelle Boulevard P.O. Box 999, Richland, WA 99352

U.S. Department of Energy, Princeton Area Office, P.O. Box 102, Princeton, NJ 08542

U.S. Department of Energy, Princeton Plasma Physics Laboratory, Princeton University, P.O. Box 451, Princeton, NJ 08543

U.S. Department of Energy, Richland Operations Office, 825 Jadwin Avenue, P.O. 550, Richland, WA 99352

U.S. Department of Energy, Rocky Flats Field Office, 10808 Highway 93, Unit A, Golden, CO 80403-8200

U.S. Department of Energy, Sandia National Laboratories, Eubank Street SE, Albuquerque, NM 87185-5800

U.S. Department of Energy, Sandia National Laboratories, Livermore, 7011 East Avenue, Livermore, CA 94551-0969

U.S. Department of Energy, Savannah River Ecology Laboratory, Drawer E Aiken, SC 29802

U.S. Department of Energy, Savannah River Technology Center, Drawer E, Aiken, SC 29802

U.S. Department of Energy, Savannah River Operations Office, P.O. Box A, Aiken, SC 29801

U.S. Department of Energy, Scientific and Technical Information, 175 Oak Ridge Turnpike, Oak Ridge, TN 37830

U.S. Department of Energy, Stanford Linear Accelerator Center, 2575 Sand Hill Road, Menlo Park, CA 94205

U.S. Department of Energy, Strategic Petroleum Reserve Project Office, 900 Commerce Road East New Orleans, LA 70123

U.S. Department of Energy, Thomas Jefferson National Accelerator Facility 12000 Jefferson Avenue, Newport News, VA 23606

U.S. Department of Energy, University of Rochester, 250 East River Road, Rochester, NY 14623

U.S. Department of Energy, Waste Isolation Pilot Plant, 370 Wipp Road, Carlsbad, NM

U.S. Department of Energy, West Valley Project Office, P.O. Box 191, West Valley, NY 14171

U.S. Department of Energy, Western Area Power Administration 12155 W. Alamino Parkway, Lakewood, CO 80401

U.S. Department of Energy, Yucca Mountain Site Characterization Office, 1551 Hillshire Drive, Suite A, Las Vegas, NV 89134

Categories of individuals covered by the system:

All non-U.S. citizens seeking access to DOE facilities, laboratories, contractor sites, or Department of Energy (DOE) sponsored events for unclassified purposes to include employees of DOE or DOE contractors; prospective DOE or DOE contractor employees; employees of other U.S. Government agencies or their contractors of universities, of companies (professional or service staff), or of other institutions; foreign students at US. institutions; officials or other persons employed by foreign governments or other foreign institutions who may or may not be involved in cooperation under international agreements; permanent resident aliens; representatives or agents of foreign national governments seeking access to DOE facilities, laboratories, or contractor sites or DOE-sponsored events for purposes of high-level protocol; national security; International Atomic Energy Agency, or international relations.

Categories of records in the system:

Personal data: Full name (including Also Known As (AKA's), visitor request number, gender, place of birth, city and country, date of birth, country(ies) of citizenship, date of last visit to country of citizenship, passport number and passport, expiration date, immigration status, type of visa and expiration date, country of current residence and how long at current residence, language interpretation needs, work phone, e-mail and fax, name of current employer, place of work, street, city, state, zip code, country; position title or description of requesters duties. Visit/Assignment Request Information: Date of request, purpose of request (including subjects to be discussed or researched and specific activities involved); requesters current whereabouts, (i.e., is proposed visitor currently in the US), specific visa status and purpose, (i.e., exchange visitor (J-1) Visa), time duration of proposed visit, assignment or activity (desired start and end dates), identification of specific international agreement(s) or delegations related to the proposed request, name, organization, telephone number of DOE contact, name of financial Sponsor, cost if sponsor is other than DOE. Visit/Assignment Facility Information: Name, location and room number of facility or organization to be accessed during visit/assignment, name of the host responsible for the visit/assignment, Host's telephone number, building and room numbers, number of days on site, visit assignment relationship to program, subject codes, subjects to be discussed or statement of research, determination of computer access, and sensitive subject designation. Visit/Assignment Program Information and Remark: Designation of high level protocol visit, cost to DOE, visit or assignment purpose code, purpose and justification of visit assignment including benefits to DOE program(s) and certification of DOE mission advancement, technology transfer determination, name of requesting official or contractor, title and organization of requesting officer, signature of requesting official or contractor, date signed, name of site manager and local headquarters approving official, title and organization of local headquarters approving official, signature(s) of site field, headquarters approving official, date signed and remarks, the kind of business or organization of assignee's employer (e.g. government, company, Laboratory, university), education background of requestor including college or university training with degrees and dates conferred; field of research, and family members who will accompany or join the applicant later.) Management Reviews and Approvals: Level, type or topic of review, name of reviewer and or approval authority(ies), the date of the review approval, and remarks.

Authority for Maintenance of the System:

42 U.S.C. 7101 et seq. and 50 U.S.C. 2401 et seq.

Purpose(s):

Records are maintained and used by the Department to document, track, manage, analyze, and or report on foreign visit and assignment access to DOE facilities including Headquarters, Field Offices, National Laboratories, and Contractor Sites.

Routine Uses of Records Maintained in the System, including Categories of Users and the Purposes of such uses:

1. A records from this system may be disclosed as a routine use to Department of Defense contractors responsible for security controlling access to sensitive information and sensitive equipment, and sensitive property areas.

2. A record from this system may be disclosed as a routine use to contractors, grantees, participants in cooperative agreements, collaborating researchers, or their employees, in performance of national security, international visit and assignment, or foreign access related responsibilities.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state, or Federal agency when the record alone or in conjunction with other information, indicates a violation or potential violation of law whether civil, criminal, or regulatory in nature.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements.

8. A record from the system may be disclosed as a routine use to DOE contractors in performance of their contracts, and their officers and employees who have a need for the record in the performance of their duties. Those provided information under this routine use are subject to the same limitations applicable to Department officers and employees under the Privacy Act.

9. A record from this system of records may be disclosed as a routine use to members of the DOE Advisory committees and interagency boards charged with responsibilities pertaining to international visits and assignments and/or national security.

Policies and practices for storing, retrieving, accessing, retaining, and disposing of records in the system:

Storage:

Records may be stored as paper records, microfiche, and electronic media.

Retrievability:

Records may be retrieved by name and other personal identifiers.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System Manager(s) and Address:

U.S. Department of Energy, Headquarters, Office of Security and Emergency Operations, Director, Office of Foreign Visits and Assignments, 1000 Independence Avenue, Washington DC 20585.

Field Offices: The Managers and Directors of the “System locations” listed above are system managers for their respective portions of this system.

Notification procedures:

In accordance with DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Foreign national individuals requesting access to DOE facilities including contractor sites, reports from federal investigation agencies, DOE Office of Counterintelligence, Department of State, Department of Defense, and Immigration and Naturalization Service.

System exempted from certain provisions of the Act:

None.

DOE-53

System name:

Access Authorization for ADP Equipment.

Security classification:

Unclassified.

System Location:

U.S. Department of Energy, Headquarters, Energy Information Administration, 1000 Independence Avenue, SW., Washington, DC 20585.

Categories of individuals covered by the system:

Users of the Energy Information Administration computer system, including DOE employees and contractor employees (including employees and contractor employees of the Federal Energy Regulatory Commission), and other authorized users of the system.

Categories of records in the system:

Name, user identification number, office address and telephone number, organizational code, computer usage figures, data accessed, and other management-related information.

Authority for maintenance of the system:

42 U.S.C. 7101 et seq.; 50 U.S.C. 2401 et seq.; OMB Circular A-71; Department of Commerce Federal Information Processing Standards Publications (FIPS PUBS) on computer security; GSA Procurement Regulations Amendment 155, adding Section 1-1.327.

Purpose(s):

The records are maintained and used by the Department to monitor and control the computer usage and to ensure that only authorized users have access to the computer system. The information is frequently reviewed and updated to ensure records are current and accurate.

Routine uses of records maintained in the system, including categories of users and the purposes of such uses:

A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as electronic media.

Retrievability:

Records may be retrieved by name, and user identification number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Administrator, Energy Information Administration, U.S. Department of Energy 1000 Independence Avenue, SW., Washington, DC 20585.

Notification procedures:

In accordance with DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at location where the work is performed. In accordance with the DOE Privacy Act regulation, proper identification is required before a request is processed.

Contesting record procedures:

Same as Notification procedures above.

Record source categories:

Subject individual, with some information assigned by the ITG Staff.

Systems exempted from certain provisions of the Act:

None.

DOE-54

System name:

Investigation Files of the Office of Inspector General (OIG).

System classification:

Unclassified and classified.

System Location:

U.S. Department of Energy, Office of Inspector General, Headquarters, Forrestal Building, 1000 Independence Avenue, SW., Washington, DC 20585.

Categories of individuals covered by the system:

Subjects of an investigation, witnesses in an investigation, sources of investigative information, investigative personnel, and other individuals involved in an Office of Inspector General investigation.

Categories of records in the system:

Criminal, civil, and administrative investigative records and files.

Authority for maintenance of the system:

42 U.S.C. 7101 et seq.; 50 U.S.C. 2401 et seq.; The Inspector General Act of 1978, as amended, 5 U.S.C. App. 3.

Purpose(s):

The records are maintained and used by the Department in furtherance of the responsibilities of the Inspector General. These responsibilities include conducting and supervising investigations relating to Departmental programs and operations; promoting economy, efficiency, and effectiveness in the administration of such programs and operations, and preventing and detecting fraud and abuse in such programs and operations. The records are used in investigations of individuals and entities suspected of having committed illegal or unethical acts. The records also are used in any resulting criminal prosecutions, civil proceedings, or administrative actions.

Routine uses of records maintained in the system, including categories or users and purposes of such uses:

Pursuant to the Inspector General Act of 1978, as amended, 5 U.S.C. App. 3, the information contained in the investigative files is collected and maintained in carrying out the duties and responsibilities of the Inspector General to investigate, prevent and detect fraud and abuse in departmental programs and operations. Material gathered is used for prosecuting civil or administrative actions.

The Inspector General Act of 1978 further states that “the Inspector General shall not, after receipt of a complaint or information from an employee, disclose the identity of the employee without the consent of the employee, unless the Inspector General determines such disclosure is unavoidable during the course of the investigation.” This provision will be applied to any release of investigation information.

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publically available pleadings, filings or discussion in open court) when such disclosure: (1) Is relevant to, and necessary for, the proceeding; (2) is compatible with the purpose for which the Department collected the records; and (3) the proceedings involve:

(a) The Department, its predecessor agencies, current or former contractors of the Department, or other United States Government agencies and their components, or

(b) a current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency, in response to its written request, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state, or Federal agency when the record alone or in conjunction with other information, indicates a violation or potential violation of law whether civil, criminal, or regulatory in nature.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements

8. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper and electronic media.

Retrievability:

Records may be retrieved by name of subject(s), case number, title of investigative report, name of complainant, name of subject(s), and names of witnesses.

Safeguards:

Paper records are maintained in locked cabinets and desks. Electronic records are controlled through established DOE computer center procedures (personnel screening and physical security), and they are password protected known only to the system manager. Classified information is maintained in locked General Services Administration approved class 6 security containers. Access is limited to those whose official duties require access to the records.

Retention and disposal:

Records retention and disposal authorities are contained in the National Archives and Records Administration (NARA) General Records Schedule and DOE record schedules that have been approved by NARA.

System manager(s) and address:

Assistant Inspector General for Investigations U.S. Department of Energy 1000 Independence Avenue, SW., Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification Procedures above.

Record source categories:

Subject individuals; individuals and organizations that have pertinent knowledge about the subject; those authorized by the individual to furnish information; confidential informants; the Department of Justice; Federal Bureau of Investigation (FBI); and other Federal, State, and local agencies.

System exempted from certain provisions of the Act:

This system is exempt under (j)(2) of the Privacy Act to the extent that the information within the system meets the criteria of those subsections of the Act. Such information has been exempted from the provisions of subsections: (c)(3) and (4), (d)(1), (2), (3), and (4), (e)(1), (2), and (3), (e)(4)(G) and (H), (e)(5) and (8), (f), (g) of the Act; see the Department's Privacy Act regulation at Title 10, Code of Federal Regulations part 1008.

This system is exempt under (k)(1), (k)(2), and (k)(5) of the Privacy Act, to the extent that information within the System meets the criteria of those subsections of the Act. Such information has been exempted from the provisions of subsections (c)(3), (d), and (e)(1), (e)(4)(G), (H) and (f) of the Act; See the Department's Privacy Act regulation at Title 10, Code of Federal Regulations, part 1008.

DOE-55

System name:

Freedom of Information and Privacy Act (FOIA/PA) Requests for Records.

Security classification:

Unclassified.

System Location:

U.S. Department of Energy (Headquarters), 1000 Independence Avenue, SW., Washington, DC 20585

U.S. Department of Energy, Albuquerque Operations Office, P.O. Box 4500, Albuquerque, NM 87115

U.S. Department of Energy, Brookhaven National Laboratory, Industrial Medicine Division, Upton, NY 11973

U.S. Department of Energy, Bonneville Power Administration, P.O. Box 3621, Portland, OR 97208

U.S. Department of Energy, Chicago Operations Office, 9800 South Cass Avenue, Argonne, IL 60439

U.S. Department of Energy, Grand Forks Energy Technology Center, P.O. Box 8213, University Station, Grand Forks, ND 58201

U.S. Department of Energy, Idaho Operations Office, 850 Energy Drive, Idaho Falls, ID 83401

U.S. Department of Energy, National Energy Technology Laboratory (Morgantown), 3610 Collins Ferry Road, Morgantown, WV 26507-0940

U.S. Department of Energy, National Energy Technology Laboratory (Pittsburgh), P.O. Box 10940, Pittsburgh, PA 15122

U.S. Department of Energy, National Petroleum Technology Office, William Center Tower One, 1 West Third Street, Suite 1400, Tulsa, OK 74103

U.S. Department of Energy, Nevada Operations Office, P.O. Box 14100, Las Vegas, NV 89114

U.S. Department of Energy, Oak Ridge Operations Office, P.O. Box E, Oak Ridge, TN 37830

U.S. Department of Energy, Ohio Field Office, 1 mound Road, Miamisburg, OH 45342

U.S. Department of Energy, Pittsburgh Naval Reactors, P.O. Box 109, Pittsburgh, PA 15122

U.S. Department of Energy, Richland Operations Office, P.O. Box 550, Richland, WA 99352

U.S. Department of Energy, San Francisco Operations Office, 1333 Broadway, Oakland, CA 94612

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Elberton, GA 30635

U.S. Department of Energy, Southwestern Power Administration, P.O. Box 1619, Tulsa, OK 74101

U.S. Department of Energy, Western Area Power Administration, P.O. Box 3402, Golden, CO 80401

U.S. Department of Energy, Yucca Mountain Site Characterization Office, 1551 Hillshire Drive, Suite A, Las Vegas, NV 89134

Categories of individuals covered by the system:

Individuals requesting copies of records from Department of Energy (DOE) under the provisions of the FOIA and the Privacy Act (PA) of 1974.

Categories of records in the system:

Name, address, and telephone number; description or identification of records requested, furnished and/or denied; FOIA and PA division employee assigned responsibility for processing request; dates of request and actions; interim and final actions taken on request; persons or offices assigned actions on requests; copy of records requested, furnished and/or denied; fee data, including payment delinquencies; final determinations of appeals; name/title of officials responsible for denial of records; and case notes.

Authority for maintenance of the system:

42 U.S.C. 7101 et seq.; 50 U.S.C. 2401 et seq.; Freedom of Information Act 5 U.S.C. 552, and the Privacy Act of 1974, 5 U.S.C. 552a.

Purpose(s):

The records are used and maintained by the Department to record, control, and determine the status of FOIA and PA requests; produce statistical reports; and as a data source for management information.

Routine uses of records maintained in the system, including categories of users and the purpose of such uses:

1. A record from this system of records may be disclosed to another Federal agency when consultation or referral is required to process requests.

2. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from this system of records may be disclosed to a member of Congress submitting a request involving the constituent when the constituent has requested assistance from the member with respect to the subject matter of the record. The member of Congress must provide a copy of the constituent's request for assistance.

4. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper, microfiche, video, audio, and electronic media.

Retrievability:

Records may be retrieved by name of requester and assigned request control number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Director, Freedom of Information Act and Privacy Act Division, U.S. Department of Energy, 1000 Independence Avenue, SW., Washington, DC 20585.

Field Offices: The Freedom of Information and Privacy Act Officers of the “Systems locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Individuals requesting copies of records and individuals responsible for processing and/or making determination on requests.

Systems exempted from certain provisions of the Act:

None.

DOE-56

System name:

Congressional Constituent Inquiries.

Security classification:

Unclassified.

System Location:

U.S. Department of Energy (Headquarters), 1000 Independence Avenue, SW., Washington, DC 20585; U.S. Department of Energy

U.S. Department of Energy, Albuquerque Operations Office, P.O. Box 5400, Albuquerque, NM 87115

U.S. Department of Energy, Bonneville Power Administration, P.O. Box 3621, Portland, OR 97208

U.S. Department of Energy, Brookhaven National Laboratory, Industrial Medicine Division, Upton, NY 11973

U.S. Department of Energy, Chicago Operations Office, 9800 South Cass Avenue, Argonne, IL 60439

U.S. Department of Energy, Idaho Operations Office, 850 Energy Drive, Idaho Falls, ID 83401

U.S. Department of Energy, National Energy Technology Laboratory (Morgantown), P.O. Box 880, Morgantown, WV 26505

U.S. Department of Energy, National Energy Technology Laboratory (Pittsburgh), P.O. Box 10940, Pittsburgh, PA 15122;

U.S. Department of Energy, National Petroleum Technology Office, William Center Tower One, 1 West Third Street, Tulsa, OK 74103

U.S. Department of Energy, Nevada Operations Office, P.O. Box 14100, Las Vegas, NV 89114

U.S. Department of Energy, Oakland Operations Office, 1301 Clay Street, 700 N, Oakland, CA 94612-5208

U.S. Department of Energy, Oak Ridge Operations Office, P.O. Box E, Oak Ridge, TN 37830

U.S. Department of Energy, Pittsburgh Naval Reactors, P.O. Box 109, Pittsburgh, PA 15122

U.S. Department of Energy, Richland Operations Office, P.O. Box 550, Richland, WA 99352

U.S. Department of Energy, Rocky Flats Field Office, 10808 Highway 93, Unit A, Golden, CO 80403-8200

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Elberton, GA 30635

U.S. Department of Energy, Southwestern Power Administration, P.O. Box 1619, Tulsa, OK 74101

U.S. Department of Energy, Western Area Power Administration, P.O. Box 3402, Golden, CO 80401

U.S. Department of Energy, Yucca Mountain Site Characterization Office, 1551 Hillshire Drive, Suite A, Las Vegas, NV 89134

Categories of individuals covered by the system:

Individuals who have requested assistance from their Congressional Representative, and the member of Congress who corresponded with the Department on behalf of the constituent.

Categories of records in the system:

Name and address of constituent and date of letter by a Member of Congress on behalf of the constituent; materials forwarded by a member of Congress; and DOE response.

Authority for maintenance of the system:

42 U.S.C. 7101 et seq. and 50 U.S.C. 2401 et seq.

Purpose(s):

The records are maintained and used by the Department to record Congressional inquiries on behalf of constituents, to ensure proper document control of the response, and to record the Department's responses to such inquiries.

Routine uses of records maintained in the system, including categories of users and the purposes of such uses:

1. A record from this system may be disclosed as a routine use to another Federal agency when consultation or referral is required to process requests.

2. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

3. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

4. A record from this system of records may be disclosed to a member of Congress submitting a request involving the constituent when the constituent has requested assistance from the member with respect to the subject matter of the record. The member of Congress must provide a copy of the constituent's request for assistance.

5. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records and electronic records.

Retrievability:

Records may be retrieved by name of constituent and name of member of Congress.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Executive Secretariat, U.S. Department of Energy, 1000 Independence Avenue, SW., Washington, DC 20585

Field: The Managers or Directors of the “System location(s)” listed above are the system managers for their respective portions of the system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Subject individual, member of Congress, and the author of the DOE response.

Systems exempted from certain provisions of the Act:

None.

DOE-57

System name:

Congressional Profiles.

Security classification:

Unclassified.

System Location:

U.S. Department of Energy Headquarters, 1000 Independence Avenue, SW., Washington, DC 20585

U.S. Department of Energy, Alaska Power Administration, San Point Way, NE., Seattle, WA 98115

U.S. Department of Energy, Albuquerque Operations Office, P.O. Box 4500, Albuquerque, NM 87115

U.S. Department of Energy, Bartlesville Energy Technology Center, P.O. Box 1398, Bartlesville, OK 74003

U.S. Department of Energy, Bonneville Power Administration, P.O. Box 3621, Portland, OR 97208

U.S. Department of Energy, Chicago Operations Office, 9800 South Cass Avenue, Argonne, IL 60439

U.S. Department of Energy, Grand Forks Energy Technology Center, P.O. Box 8213, University Station, Grand Forks, ND 58201

U.S. Department of Energy, Idaho Operations Office, 850 Energy Drive, Idaho Falls, ID 83401

U.S. Department of Energy, Los Alamos Area Office, 528 35th Street, Los Alamos, NM 87544

U.S. Department of Energy, National Energy Technology Laboratory (Morgantown), P.O. Box 880, Morgantown, WV 26505

U.S. Department of Energy, National Energy Technology Laboratory (Pittsburgh), P.O. Box 10940, Pittsburgh, PA 15122

U.S. Department of Energy, National Petroleum Technology Office, William Center Tower One, 1 West Third Street, Suite 1400, Tulsa, OK 74103

U.S. Department of Energy, Nevada Operations Office, P.O. Box 98518, Las Vegas, NV 89193-8518

U.S. Department of Energy, Oak Ridge Operations Office, P.O. Box E, Oak Ridge, TN 37830

U. S. Department of Energy, Oakland Operations Office, 1301 Clay Street, Oakland CA 94162-5208

U.S. Department of Energy, Pittsburgh Naval Reactors, P.O. Box 109, Pittsburgh, PA 15122

U.S. Department of Energy, Richland Operations Office, P.O. Box 550, Richland, WA 99352

U.S. Department of Energy, Rocky Flats Field Office, 10808 Highway 93, Unit A, Golden CO 80403-8200

U.S. Department of Energy, Oakland Operations Office, 1333 Broadway, Oakland, CA 94612

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Elberton, GA 30635

U.S. Department of Energy, Southwestern Power Administration, P.O. Box 1619, Tulsa, OK 74101

U.S. Department of Energy, Western Area Power Administration, P.O. Box 3402, Golden, CO 80401

U.S. Department of Energy, Yucca Mountain Site Characterization Office, 1551 Hillshire Drive, Suite A, Las Vegas, NV 89134

Categories of individuals covered by the system:

Current Members of Congress.

Categories of records in the system:

Name, picture from Congressional Yellow Book, personal background obtained from published sources, demographic information by state or district, committee assignments, and information about energy interests obtained from published sources, information from member's office, abstracts from Congressional Record, committee hearings and other public sources.

Authority for maintenance of the system:

5 U.S.C. 301; Department of Energy Organization Act, including authorities incorporated by reference in Title III of the Department of Energy Organization Act; Executive Order 12009.

Purpose(s):

The information is maintained and used by the Department to maintain biographical data on all members of Congress, including a list of their sensitive energy issues or energy related legislation.

Routine Uses of Records Maintained in the System, including categories of users and the purposes of such uses:

A record from this system of records may be disclosed to a member of Congress submitting a request involving the constituent when the constituent has requested assistance from the member with respect to the subject matter of the record. The member of Congress must provide a copy of the constituent's request for assistance.

Policies and practices for storing, retrieving, accessing, retaining, and disposing of records in the system:

Storage:

Records may be stored as paper records and electronic media.

Retrievability:

Records may be retrieved by name.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System Manager(s) and address:

Director, Office Congressional and Intergovernmental Affairs, U.S. Department of Energy, 1000 Independence Avenue, SW., Washington, DC 20585

Notification procedure:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Published sources, committee hearings, and the members' offices.

Systems exempted from certain provisions of the Act:

None.

DOE-58

System name:

General Correspondence Files of the Office of the Secretary, Deputy Secretary and Under Secretary of Energy.

Security classification:

Unclassified.

System Location:

U.S. Department of Energy (Headquarters), 1000 Independence Avenue, SW., Washington, DC 20585

Categories of individuals covered by the system:

Members of Congress, representatives of organizations, and other federal and state agencies and the general public.

Categories of records in the system:

Name, address of correspondent, and copies of the agency response. This is the portion of the Department of Energy (DOE) correspondence files that relates to correspondence with individuals.

Authority for maintenance of the system:

42 U.S.C. 7101 et seq. and 50 U.S.C. 2401 et seq.

Purpose:

The records are maintained and used by the Department to document and manage information from or to correspondents outside of DOE and to ensure proper document control of the DOE response.

Routine uses of records maintained in the system, including categories of users and the purposes of such uses:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publically available pleadings, filings or discussion in open court) when such disclosure: (1) is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from this system of records may be disclosed to a member of Congress submitting a request involving the constituent when the constituent has requested assistance from the member with respect to the subject matter of the record. The member of Congress must provide a copy of the constituent's request for assistance.

4. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records and electronic media.

Retrievability:

Records may be retrieved by name.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Executive Secretariat, U.S. Department of Energy, 1000 Independence Avenue, SW., Washington, DC 20585.

Field: The Managers and Directors of the “System locations” listed above are the system managers for their respective portions of the system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with DOE's Privacy Act regulation, proper identification is required before a request is processed.

Contesting record procedures:

Same as Notification procedures above.

Record source categories:

Subject individuals and drafter of DOE response.

Systems exempted from certain provisions of the Act:

None.

DOE-59

System name:

Mailing Lists for Requesters of Energy Related Information.

Security classification:

Unclassified.

System Locations:

DOE Headquarters, 1000 Independence Avenue, SW., Washington, DC 20585.

Categories of individuals covered by the system:

Persons requesting energy related information.

Categories of records in the system:

Name and address of the subject individual; some mailing lists may also indicate specific interests of or publications requested by the individual.

Authority for maintenance of the system:

5 U.S.C. 301; Department of Energy Organization Act, including authorities incorporated by reference in Title III of the Department of Energy Organization Act; Executive Order 12009.

Purpose(s):

The system is maintained and used by the Department to distribute DOE related material to DOE employees, DOE contractors, and others requesting information from DOE.

Routine uses of records maintained in the system, including categories of users and the purposes of such uses:

A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records, microfiche and electronic media.

Retrievability:

Records may be retrieved by record identification and code number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: U.S. Department of Energy, Director, Print Media and Mail Services Group, Washington DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with DOE's Privacy Act regulation, proper identification is required before a request is processed.

Contesting record procedures:

Same as Notification procedures above.

Record source categories:

The subject individual, generally as the result of a request for information by that individual.

Systems exempted from certain provisions of the Act:

None.

DOE-61

System name:

Census of High Energy Physicists.

Security classification:

Unclassified.

System Location:

U.S. Department of Energy, Office of Science, 19901 Germantown Road, Germantown, Maryland 20874-1290.

Categories of individuals covered by the system:

Scientists and graduate students in the field of high energy physics.

Categories of records in the system:

Name, date of birth, education, employment history, research activities, and technical specialties.

Authority for maintenance of the system:

42 U.S.C. 7101 et seq. and 50 U.S.C. 2401 et seq.

Purpose(s):

The information is maintained and used by the Department to provide a database for statistical and demographic studies of the high energy physics research community.

Routine uses of records maintained in the system, including categories of users and the purposes of such uses:

1. A record from the system may be disclosed as a routine use to physicists, research organizations, and various Government organizations engaged in supporting physics research to obtain information for statistical and demographic purposes, on individuals and institutions engaged in high energy physics research.

2. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as electronic media.

Retrievability:

Records may be retrieved by name of individual.

Safeguards:

Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Associate Director for High Energy and Nuclear Physics, U.S. Department of Energy, 19901 Germantown Road, Germantown, Maryland 20874-1290.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Systems exempted from certain provisions of the Act:

None.

DOE-62

System name:

Historical Files—Published Information Concerning Selected Persons in the Energy Field.

Security classification:

Unclassified.

System Location:

U.S. Department of Energy, History Division, Office of the Executive Secretariat, 1000 Independence Avenue, SW., Washington, DC 20585.

Categories of individuals covered by the system:

Selected senior staff officials of the Manhattan Project, Atomic Energy Commission, Nuclear Regulatory Commission, Energy Research and Development Administration, DOE, and other selected individuals prominent in the energy field.

Categories of records in the system:

Newspaper and magazine articles, press releases, announcements, and speeches.

Authority for maintenance of the system:

42 U.S.C. 7101 et seq. and 50 U.S.C. 2401 et seq.

Purpose(s):

The information is maintained and used by the Department to record, historical records of the DOE and predecessor agencies, including the Atomic Energy Commission, Federal Energy Administration, and the Energy Research and Development Administration. Records are used to prepare histories in responding to informational inquiries from DOE officials and members of the public.

Routine uses of records maintained in the system, including categories of users and the purposes of such uses:

1. A record from the system may be disclosed as a routine use to members of the public and the media when responding to requests for information.

2. A record from the system may be disclosed as a routine use to another Federal agency when consultation or referral is required to process requests.

3. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records.

Retrievability:

Records may be retrieved by name.

Safeguards:

Paper records are maintained in locked cabinets and desks. Access is limited to those whose official duties require access to the records.

Retention and disposal:

Records retention and disposal authorities are contained in the National Archives and Records Administration (NARA) General Records Schedule and DOE record schedules that have been approved by NARA.

System manager(s) and address:

Chief Historian, History Division, Office of the Executive Secretariat, U.S. Department of Energy, 1000 Independence Avenue, SW., Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

DOE press releases, DOE News Clips (a daily compilation of energy related newspaper and magazine articles), and other published sources.

Systems exempted from certain provisions of the Act:

None.

DOE-66

System name:

Power Sales to Individuals.

Security classification:

Unclassified.

System Location:

U.S. Department of Energy, Western Area Power Administration, P.O. Box 3402, Golden, CO 80401

U.S. Department of Energy, Western Area Power Administration, 1800 South Rio Grand, Montrose, CO 81401

U.S. Department of Energy, Colorado River Storage Region, 257 E200S, Suite 475, Salt Lake City, UT 84111

U.S. Department of Energy, Desert Southwest Region, 615 S. 43rd Avenue, Phoenix, AZ 85009

U.S. Department of Energy, Rocky Mountain Region, 5555 E. Crossroads Boulevard, Loveland, CO 80538-8986

U.S. Department of Energy, Sierra Nevada Region, 114 Parkshore Drive, Folsom, CA 95630-4710

U.S. Department of Energy, Upper Great Plains Region, 2900 4th Avenue North, Billings, MT 59101-1266

Categories of individuals covered by the system:

Individuals purchasing power from the Western Area Power Administration.

Categories of records in the system:

Executed contracts, agreements, amendments, extensions, and related correspondence.

Authority for maintenance of the system:

42 U.S.C. 7101 et seq. and 50 U.S.C. 2401 et seq.

Purpose(s):

The records are maintained and used by the Department to bill individuals for sale of purchase power.

Routine uses of records maintained in the system, including categories of users and the purposes of such uses:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state, or Federal agency when the record, alone or in conjunction with other information, indicates a violation or potential violation of law whether civil, criminal, or regulatory in nature.

6. A record from this system of records may be disclosed to a member of Congress submitting a request involving the constituent when the constituent has requested assistance from the member with respect to the subject matter of the record. The member of Congress must provide a copy of the constituent's request for assistance.

7. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records.

Retrievability:

Records may be retrieved by name.

Safeguards:

Paper records are maintained in locked cabinets and desks. Access is limited to those whose official duties require access to the records.

Retention and disposal:

Records retention and disposal authorities are contained in the National Archives and Records Administration (NARA) General Records Schedule and DOE record schedules that have been approved by NARA.

System manager(s) and address:

Administrator, Western Area Power Administration, U.S. Department of Energy, P.O. Box 3402, Golden, CO 80401.

Regional Offices: The Managers and Directors of the “System locations” listed above are the system managers for their respective locations.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures above.

Record source categories:

Subject individuals.

Systems exempted from certain provisions of the Act:

None.

DOE-71

System name:

The Radiation Accident Registry.

Security classification:

Unclassified.

System Location:

U.S. Department of Energy, Oak Ridge Operations Office, P.O. Box 2001, Oak Ridge, TN 37831

Categories of individuals covered by the system:

Those persons accidentally exposed to acute dose of ionizing radiation as defined by exposure dose criteria agreed to by the Department of Energy (DOE) and the Nuclear Regulatory Commission (NRC) by an interagency agreement. The dose criteria established by this agreement include one or more of the following: Greater than or equal to 25 REM (Roentgen Equivalent in Man) to the whole body, active blood forming organs or gonads; greater than or equal to 600 REM to skin of the whole body or extremities; greater than or equal to 75 REM to other tissues or organs from an external source; and greater than or equal to ½ NCRP maximum permissible organ burden internally; all those medical administrations of radioisotopes that result in a dose or organ burden equal to or greater than those given above.

Categories of records in the system:

Official accident reports including reports of those accidents that have occurred within the jurisdiction of the NRC and have been transferred to the DOE for the Accident Registry according to the DOE/NRC agreement; names, addresses, social security numbers, date of birth, and sex; medical records compiled at the time of the accident (such records include physician and hospital records, diagnostic and laboratory test reports, radiographs, EKGs, and radiation exposure report); medical records of illnesses, examinations, including routine follow-up examinations, and investigations that have occurred since the radiation exposure; photographs or facsimiles of radiation-induced injuries; search and contact information for registrants not identified and/or located; consent to release information forms completed by registrants; death certificates; anecdotal information; and correspondence relating to the accident and/or the individuals involved.

Authority for maintenance of the system:

42 U.S.C. 7101 et seq.; 50 U.S.C. 2401 et seq.; DOE Order 5500.2B, Emergency Categories, Classes, and Notification and Reporting Requirements, April 30, 1991; 42 U.S.C. 7274i. Program to monitor Department of Energy workers exposed to hazardous and radioactive substances.

Purpose(s):

The information is maintained and used by the Department to provide a current record of radiation accidents; to identify specific populations for use in epidemiological and clinical studies; and to conduct medical surveillance during the lifetime of the registrants.

Routine uses of records maintained in the system, including categories of users and the purposes of such uses:

1. A record from this system of records may be disclosed to a member of Congress submitting a request involving the constituent when the constituent has requested assistance from the member with respect to the subject matter of the record. The member of Congress must provide a copy of the constituent's request for assistance.

2. A record from this system of records may be disclosed to contractor personnel, grantees, and cooperative agreement holders of components of the Department of Health and Human Services, including the National Institute for Occupational Safety and Health and the National Center for Environmental Health of the Centers for Disease Control and Prevention, and the Agency for Toxic Substances and Disease Registry to facilitate health hazard evaluations, epidemiological studies, or public health activities required by law pursuant to a Memoranda of Understanding between the Department and the Department of Health and Human Services or its components. Those provided information under this routine use are subject to the same limitations applicable to Department officers and employees under the Privacy Act.

3. A record from this system of records may be disclosed as a routine use to DOE contractors, grantees, participants in cooperative agreements, and collaborating researchers, or the employees of these parties, in performance of health studies or related health or environmental duties pursuant to their contracts, grants, and cooperating or collaborating research agreements; federal, state and local health and medical agencies or authorities; to subcontractors in order to determine a subject' s vital status or cause of death; to health care providers to verify a diagnosis or cause of death; or to third parties to obtain current addresses for participants in health-related studies, surveys and surveillances. Those provided information under this routine use are subject to the same limitations applicable to Department officers and employees under the Privacy Act.

4. A record from this system of records may be disclosed as a routine use to members of DOE advisory committees, the Department of Health and Human Services Advisory Committee on Projects Related to Department of Energy Facilities and to designated employees of federal, state, or local government or government-sponsored entities authorized to provide advice to the Department concerning health, safety, or environmental issues. Those provided information under this routine use are subject to the same limitations applicable to Department officers and employees under the Privacy Act.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from this system of records may be disclosed to foreign governments or international organizations, in accordance with treaties, international conventions, or executive agreements.

8. A record from this system be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available to researchers and the general public information on the assumptions, methodology, and data used in establishing radiation doses consistent with the protection of private medical records. Those provided information under this routine use are subject to the same limitations applicable to Department officers and employees under the Privacy Act.

Policies and practices for storing, retrieving, accessing, retaining, and disposing of records in the system:

Storage:

Records may be stored as paper records, microfilm, and electronic media.

Retrievability:

Records may be retrieved by name and social security number.

Safeguards:

Paper records are maintained in locked cabinets and desks. Electronic records are controlled through established DOE computer center procedures (personnel screening and physical security), and they are password protected known only to the system manager. Access is limited to those whose official duties require access to the records.

Retention and disposal:

Records retention and disposal authorities are contained in the National Archives and Records Administration (NARA) General Records Schedule and DOE record schedules that have been approved by NARA.

System manager(s) and address:

Manager, U.S. Department of Energy, Oak Ridge Operations Office, P.O. Box 2001, Oak Ridge, TN 37831

Notification procedure:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Record source categories:

The individual, medical records, physicians, medical institutions, and reports of incident/accident/accident investigations from private and public sources, radiation dosimetry records, security clearance records, and employment records.

System exempted from certain provisions of the Act:

None.

DOE-72

System Name:

The Department of Energy Radiation Study Registry.

Security Classification:

Unclassified.

System Location:

U.S. Department of Energy, Oak Ridge Operations Office, P.O. Box 2001, Oak Ridge, TN 37831.

Categories of individuals covered by the system:

Present and former employees, Department of Energy (DOE) contractor employees, including employees of predecessor agencies and organizations, including the Manhattan District, U.S. Atomic Energy Commission, and Energy Research and Development Administration; and present and former civilian employees in the DOE Naval Reactor Program who received a whole body exposure of ionizing radiation equal to or in excess of 5 REM in any 1 year.

Categories of records in the system:

Rosters of names of individuals meeting the above criteria for inclusion in the Registry submitted through the DOE field operation officers from DOE owned and operated facilities and sites. In addition to names of such individuals, these rosters include social security number or other identifying information, sex, race, date of birth, date and/or place of death, first date of hire, last date of termination, continuity of hire, year in which they received first dose greater than or equal to 5 REM, actual radiation doses in excess of 5 REM, and total career radiation exposure dose.

Original or copied lifetime medical records from plant and private physicians and hospitals including routine physical examinations, reports of diagnostic and laboratory tests, radiographs, EKGs, etc., or abstracted portions of such records as are required for the purposes of this study.

Contact information for registrants who are no longer employed at qualified sites or who are deceased.

Authority for maintenance of the system:

42 U.S.C. 7101 et seq.; 50 U.S.C. 2401 et seq.; DOE Order 5500.2B, Emergency Categories, Classes, and Notification and Reporting Requirements, April 30, 1991; 42 U.S.C. 7274i.

Purpose(s):

The information is maintained and used by the Department to identify specific populations for use in epidemiological and clinical studies; and to conduct medical surveillance during the lifetime of the registrants.

Routine uses of the records maintained in the system, including categories of users and the purpose of such uses:

1. A record from the system may be disclosed as a routine use to DOE contractors in performance of their contracts, and their officers and employees who have a need for the record in the performance of their duties. Those provided information under this routine use are subject to the same limitations applicable to Department officers and employees under the Privacy Act.

2. A record from this system of records may be disclosed to a member of Congress submitting a request involving the constituent when the constituent has requested assistance from the member with respect to the subject matter of the record. The member of Congress must provide a copy of the constituent's request for assistance.

3. A record from this system of records may be disclosed to contractor personnel, grantees, and cooperative agreement holders of components of the Department of Health and Human Services, including the National Institute for Occupational Safety and Health and the National Center for Environmental Health of the Centers for Disease Control and Prevention, and the Agency for Toxic Substances and Disease Registry to facilitate health hazard evaluations, epidemiological studies, or public health activities required by law pursuant to a Memoranda of Understanding between the Department and the Department of Health and Human Services or its components. Those provided information under this routine use are subject to the same limitations applicable to Department officers and employees under the Privacy Act.

4. A record from this system of records may be disclosed as a routine use to members of DOE advisory committees, the Department of Health and Human Services Advisory Committee on Projects Related to Department of Energy Facilities and to designated employees of federal, state, or local government or government-sponsored entities authorized to provide advice to the Department concerning health, safety, or environmental issues. Those provided information under this routine use are subject to the same limitations applicable to Department officers and employees under the Privacy Act.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from this system of records may be disclosed as a routine use to the United States Enrichment Corporation and its contractors in performance of their contracts, and their officers and employees who have a need for the record in the performance of their duties subject to the same limitations applicable to DOE officers and employees under the Privacy Act at the following sites: (1) Portsmouth Gaseous Diffusion Plant at Piketon, Ohio, and (2) Paducah Gaseous Diffusion Plant at Paducah, Kentucky.

8. A record from this system be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available to researchers and the general public information on the assumptions, methodology, and data used in establishing radiation doses consistent with the protection of private medical records. Those provided information under this routine use are subject to the same limitations applicable to Department officers and employees under the Privacy Act.

Policies and practices for storing, retrieving, accessing, retaining, and disposing of the records in the system:

Storage:

Records may be stored as paper records, microfilm, and electronic media.

Retrievability:

Records may be retrieved by name and social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Manager, U.S. Department of Energy, Oak Ridge Operations Office, P.O. Box 2001, Oak Ridge, TN 37831.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Record source categories:

The individual, medical records, physicians, medical institutions, and reports of incident/accident/accident investigations from private and public sources, radiation dosimetry records, security clearance records, and employment records.

System exempted from certain provisions of the Act:

None.

DOE-73

System name:

The US-DTPA Registry.

Security classification:

Unclassified.

System Location:

U.S. Department of Energy, Oak Ridge Operations Office, P.O. Box 2001, Oak Ridge, TN 37831.

Categories of individuals covered by the system:

Individuals who are or suspected of internal contamination with transuranic elements and have received diethylene triamine pentaacetic acid (DTPA) in the calcium or zinc form during the course of chelation therapy. Administration of the agent DTPA is limited to physicians who are co-investigators with the DOE contractor staff on the Investigative New Drug License of the Food and Drug Administration.

Categories of records in the system:

The records compiled by the physician administering DTPA in the event of an exposure that was known to have or was suspected of having caused transuranic contamination internally requiring chelation therapy with DTPA. These records include a description of the exposure, the results of serial bioassays and investigations conducted to evaluate the level of internal contamination and the efficacy of subsequent chelation by DTPA.

Name, social security numbers or other identifiers and vital status of treated persons. The name and address of the individual's last known private physicians are included in the DTPA Registry to facilitate the search and contact of individuals; medical records of illnesses, examinations, including routine follow-up examinations, and investigations that have occurred since the initial administration of DTPA; and death certificate.

Authority for maintenance of the system:

42 U.S.C. 7101 et seq.; 50 U.S.C. 2401 et seq.; 42 U.S.C. 7274i.

Purpose(s):

The records are maintained and used by the Department to provide a current record of individuals treated with DTPA. To identify by epidemiological methods any long-term effects associated with DTPA therapy; and to provide information to Food and Drug Administration in accordance with the Investigative New Drug licenses and issuances, epidemiological and clinical studies; and to conduct medical surveillance during the lifetime of the registrants.

Routine uses of records maintained in the system, including, categories of users and the purposes of such uses:

1. A record from the system may be disclosed as a routine use to DOE contractors in performance of their contracts, and their officers and employees who have a need for the record in the performance of their duties. Those provided information under this routine use are subject to the same limitations applicable to Department officers and employees under the Privacy Act.

2. A record from this system of records may be disclosed to a member of Congress submitting a request involving the constituent when the constituent has requested assistance from the member with respect to the subject matter of the record. The member of Congress must provide a copy of the constituent's request for assistance.

3. A record from this system of records may be disclosed to contractor personnel, grantees, and cooperative agreement holders of components of the Department of Health and Human Services, including the National Institute for Occupational Safety and Health and the National Center for Environmental Health of the Centers for Disease Control and Prevention, and the Agency for Toxic Substances and Disease Registry to facilitate health hazard evaluations, epidemiological studies, or public health activities required by law pursuant to Memoranda of Understanding between the Department and the Department of Health and Human Services or its components. Those provided information under this routine use are subject to the same limitations applicable to Department officers and employees under the Privacy Act.

4. A record from this system of records may be disclosed as a routine use to members of DOE advisory committees, the Department of Health and Human Services Advisory Committee on Projects Related to Department of Energy Facilities, and to designated employees of federal, state, or local government or government-sponsored entities authorized to provide advice to the Department concerning health, safety, or environmental issues. Those provided information under this routine use are subject to the same limitations applicable to Department officers and employees under the Privacy Act.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from this system be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available to researchers and the general public information on the assumptions, methodology, and data used in establishing radiation doses consistent with the protection of private medical records. Those provided information under this routine use are subject to the same limitations applicable to Department officers and employees under the Privacy Act.

Storage:

Records may be stored as paper records, microfilm, and electronic media.

Retrievability:

Records may be retrieved by name and social security number.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Manager, U.S. Department of Energy, Oak Ridge Operations Office, P.O. Box 2001, Oak Ridge, TN 37831.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Record source categories:

The individual, medical records, physicians, medical institutions, and reports of incident/accident/accident investigations from private and public sources, radiation dosimetry records, security clearance records, and employment records.

System exempted from certain provisions of the Act:

None.

DOE-75

System name:

Call Detail Records.

Security classification:

Unclassified.

System Location:

U.S. Department of Energy (DOE) Headquarters, 1000 Independence Avenue, SW., Washington, DC 20585

U.S. Department of Energy (Headquarters), 1000 Independence Avenue, SW., Washington, DC 20585

U.S. Department of Energy, Albuquerque Operations Office, P.O. Box 5400, Albuquerque, NM 87115

U.S. Department of Energy, Bonneville Power Administration, P.O. Box 3621, Portland, OR 97208

U.S. Department of Energy, Brookhaven National Laboratory, Industrial Medicine Division, Upton, NY 11973

U.S. Department of Energy, Chicago Operations Office, 9800 South Cass Avenue, Argonne, IL 60439

U.S. Department of Energy, Idaho Operations Office, 850 Energy Drive., Idaho Falls, ID 83401

U.S. Department of Energy, National Energy Technology Laboratory (Morgantown), P.O. Box 880, Morgantown, WV 26505

U.S. Department of Energy, National Energy Technology Laboratory (Pittsburgh), P.O. Box 10940, Pittsburgh, PA 15122

U.S. Department of Energy, National Petroleum Technology Office, William Center Tower One, 1 West Third Street, Tulsa, OK 74103

U.S. Department of Energy, Oakland Operations Office, 1301 Clay Street, 700 N, Oakland, CA 94612-5208

U.S. Department of Energy, Oak Ridge Operations Office, P.O. Box E, Oak Ridge, TN 37830

U.S. Department of Energy, Pittsburgh Naval Reactors, P.O. Box 109, Pittsburgh, PA 15122

U.S. Department of Energy, Richland Operations Office, P.O. Box 550, Richland, WA 99352

U.S. Department of Energy, Rocky Flats Field Office, 10808 Highway 93, Unit A, Golden, CO 80403-8200

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Elberton, GA 30635

U.S. Department of Energy, Southwestern Power Administration, P.O. Box 1619, Tulsa, OK 74101

U.S. Department of Energy, Western Area Power Administration, P.O. Box 3402, Golden, CO 80401

U.S. Department of Energy, Yucca Mountain Site Characterization Office, 1551 Hillshire Drive, Suite A, Las Vegas, NV 89134

Categories of individuals covered by the system:

Employees of Department of Energy (DOE) and those employees of other Federal agencies and contractors who are located on the DOE premises and who have assigned station numbers in the on-premise telecommunications system.

Categories of records in the system:

Originating and terminating call data records relating to use of DOE telephones, including calling station number; Date, time call originated, duration of call, and called number; directory records indicating assignment of telephone numbers to employees; and records relating to location of telephones. Reports may be generated from stored call detail records and may include, but are not limited to, station usage summaries, trunk usage summaries, traffic and network busy hour studies, on-net and off-net pricing, exception reports, bill certification, and cost allocation.

Authority for maintenance of the system:

42 U.S.C. 7101 et seq. and 50 U.S.C. 2401 et seq.

Purpose(s):

The information is maintained and used by the Department to help manage and control the costs of operating the Department's telephone systems. To this end, the program will collect information about the use of the agency's telephone system for local, long distance, and other toll calls and may attempt to assign responsibility to individual person for particular calls. The information also assists the Department in choosing more efficient and cost effective ways of communicating; in making decisions about acquiring hardware, software, and services; and in developing management strategies for more efficient use of existing telecommunications capabilities. Other uses are to deter use of the telephone systems for unofficial purposes, and to recover the cost of unofficial calls.

Routine uses of records maintained in the system, including categories of users and the purposes of such uses:

1. A record from this system may be disclosed as a routine use to representatives of the General Services Administration who are conducting records management inspections under the authority of 44 U.S.C. 2904 and 2906.

2. A record from this system may be disclosed as a routine use to “consumer reporting agencies” as defined in the Fair Credit Reporting Act, 15 U.S.C. 2904 and 2906.

3. A record from the system may be disclosed as a routine use to the appropriate local, state, or Federal agency when the record alone or in conjunction with other information, indicates a violation or potential violation of law whether civil, criminal, or regulatory in nature.

4. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

5. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

6. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

7. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

8. A record from this system of records may be disclosed to a member of Congress submitting a request involving the constituent when the constituent has requested assistance from the member with respect to the subject matter of the record. The member of Congress must provide a copy of the constituent's request for assistance.

9. A record from this system of records may be disclosed to foreign governments or international organizations in accordance with treaties, international conventions, or executive agreements

10. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records, microfilm, and electronic media.

Retrievability:

Records may be retrieved by individual telephone extension number.

Safeguards:

Paper and microfilm records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

U.S. Department of Energy, Headquarters Office of Information Management, Germantown, MD 20874

Field Offices: The Managers and Directors of the “System locations” listed above are the system managers for their respective locations.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at location where the work is performed. In accordance with the DOE Privacy Act regulation, proper identification is required before a request is processed.

Contesting record procedures:

Same as Notification procedures above.

Record source categories:

Categories include telephone assignment records; call detail listings; results of administrative inquiries relating to assignment of responsibility for placement of special local and long-distance calls.

Systems exempted from certain provisions of the Act:

None.

DOE-77

System name:

Physical Fitness Test Records.

Security classification:

Unclassified.

System Location:

U.S. Department of Energy, (Headquarters), 19901 Germantown Road, Germantown, MD 20874-1290

U.S. Department of Energy, Albuquerque Operations Office, P.O. Box 4500, Albuquerque, NM 87185-5400

U.S. Department of Energy, Bonneville Power Administration, P.O. Box 3621, Portland, OR 97208

U.S. Department of Energy, Chicago Operations Office, 9800 South Cass Avenue, Argonne, IL 60439

U.S. Department of Energy, Idaho Operations Office, 785 DOE Place, Idaho Falls, ID 83402

U.S. Department of Energy, National Energy Technology Laboratory (Morgantown), P.O. Box 880, Morgantown, WV 26505

U.S. Department of Energy, National Energy Technology Laboratory (Pittsburgh), P.O. Box 10940, Pittsburgh, PA 15122

U.S. Department of Energy, National Petroleum Technology Office, William Center Tower One, 1 West Third Street, Suite 1400, Tulsa, OK 74103

U.S. Department of Energy, Nevada Operations Office, P.O. Box 98518, Las Vegas, NV 89193-8518

U.S. Department of Energy, Oakland Operations Office, 1301 Clay Street, Oakland, CA 94612-5208

U.S. Department of Energy, Oak Ridge Operations Office, P.O. Box 2001, Oak Ridge, TN 37831-8501

U.S. Department of Energy, Pittsburgh Naval Reactors, P.O. Box 109, Pittsburgh, PA 15122

U.S. Department of Energy, Richland Operations Office, P.O. Box 550, Richland, WA 99352

U.S. Department of Energy, Rocky Flats Field Office, 10808 Highway 93, Unit A, Golden, CO 80403-8200

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Elberton, GA 30635

U.S. Department of Energy, Southwestern Power Administration, P.O. Box 1619, Tulsa, OK 74101

U.S. Department of Energy, Western Area Power Administration, P.O. Box 3402, Golden CO 80401

U.S. Department of Energy, Yucca Mountain Site Characterization Office, 1551 Hillshire Drive, Suite A, Las Vegas, NV 89134

Categories of individuals covered by the system:

DOE contractor employees (armed uniformed guards).

Categories of records in the system:

Record of individual's ability to complete the physical fitness test as set forth in applicable DOE directives.

Authority for maintenance of the system:

42 U.S.C. 7101 et seq. and 50 U.S.C. 2401 et seq.

Purpose(s):

The records are maintained and used by the Department to record physical fitness tests of Department of Energy (DOE) federal and contractor employees.

Routine uses of records maintained in the system, including categories of users and the purposes of such uses:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state, or Federal agency when the record alone or in conjunction with other information, indicates a violation or potential violation of law whether civil, criminal, or regulatory in nature.

6. A record from this system of records may be disclosed to a member of Congress submitting a request involving the constituent when the constituent has requested assistance from the member with respect to the subject matter of the record. The member of Congress must provide a copy of the constituent's request for assistance.

7. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records and electronic media.

Retrievability:

Records may be retrieved by name.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Headquarters: Office of Safeguards and Security, U.S. Department of Energy, 1000 Independence Avenue, SW., Washington, DC 20585.

Field Offices: The Managers and Directors of the “System locations” listed above are the system managers for their respective portions.

Notification procedure:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at location where the work is performed. In accordance with the DOE Privacy Act regulation, proper identification is required before a request is processed.

Record source categories:

The subject individual, physicians, and persons administering the tests.

System exempted from certain provisions of the Act:

None.

DOE-81

System name:

Counterintelligence Administrative and Analytical Records and Reports.

Security classification:

Classified and unclassified.

System Location:

U.S. Department of Energy (Headquarters), Office of Counterintelligence, 1000 Independence Avenue, SW., Washington, DC 20585;

U.S. Department of Energy, Albuquerque Operations Office, P.O. Box 4500, Albuquerque, NM 87115;

U.S. Department of Energy, Chicago Operations Office, 9800 Cass Ave., Argonne, IL 60439;

U.S. Department of Energy, Idaho Operations Office, 850 Energy Drive, Idaho Falls, ID 83401;

U.S. Department of Energy, Lawrence Livermore National Laboratory, P.O. Box 808, L-062, Livermore, CA 94551

U.S. Department of Energy, Lockheed Martin Idaho Technology, P.O. Box 1625, M/S 2800, Idaho Falls, ID 83415-2800

U.S. Department of Energy, Los Alamos National Laboratory, Mail Station 5000, P.O. Box 1663, Los Alamos National Laboratory, NM 87545

U.S. Department of Energy, Martin Lockheed Energy Systems, P.O. Box 2009, Oak Ridge, TN 37831-8107

U.S. Department of Energy, Mason & Hangar—Silar Mason, Co., Inc., Pantex Plant, Bldg 11-54, P.O. Box 30020, Amarillo, TX 79177

U.S. Department of Energy, Nevada Operations Office, P.O. Box 14100, Las Vegas, NV 89114;

U.S. Department of Energy, Oak Ridge Operations Office, P.O. Box E, Oak Ridge, TN 37830;

U.S. Department of Energy, Oakland Operations Office, 1301 Clay Street, Oakland, CA 94612

U.S. Department of Energy, Ohio Field Office. Mound Plant, P.O. Box 3000, OSE-4, Miamisburg, OH 45343

U.S. Department of Energy, Pacific Northwest Laboratory, 902 Battelle Blvd., P.O. Box 999, Richland, WA 99352

U.S. Department of Energy, Richland Operations Office, P.O. Box 550, Richland, WA 99352;

U.S. Department of Energy, Rocky Flats Field Office, 10808 Highway 93, Unit A, Golden, CO 880403-8200

U.S. Department of Energy, Savannah River Operations Office, P.O. Box A, Aiken, SC 29801;

U.S. Department of Energy, Sandia National Laboratory, P.O. Box 969, M/S 9020, Livermore, CA 94551-0969

U.S. Department of Energy, Sandia National Laboratory, Org 7400, P.O. Box 5800, M/S 0173, Albuquerque, NM 87185

U.S. Department of Energy, Westinghouse Hanford Co., P.O. Box 1970, Richland, WA 99352

U.S. Department of Energy, Worldwide Security Service Ltd., Rocky Flats Environmental Technology Site, P.O. Box 464, T893B, Golden, CO 80402-0464

Categories of individuals covered by the system:

Current and former Department of Energy (DOE) employees, contractor employees, and consultants; persons suspected of violating DOE regulations or laws; and, where there are indications of contact with a current or former DOE employee, contractor employee or consultant, persons who are reasonably believed to be officers or employees of, or otherwise acting for or on behalf of, a foreign power; members of an organization reasonably believed to be owned or controlled directly or indirectly by a foreign power; reasonably believed to be targets, hostages, or victims of international terrorist organizations; or reasonably believed to be engaged in or about to engage in clandestine intelligence activities, sabotage, assassinations, or international terrorist activities involving DOE programs, personnel, facilities, information or materials.

Categories of records in the system:

Analytical, training and investigative records, reports and files; travel reports; reports on foreign contacts; records, reports and files received from other DOE elements and other Federal agencies.

Authority for maintenance of the system:

42 U.S.C. 7101 et seq.; 50 U.S.C. 2401 et seq.; Federal Personnel Manual, Chapters 731 and 736.

Purpose(s):

The information is maintained and used by the Department in furtherance of the responsibilities of the Office of Counterintelligence (OCI), which include analysis of the foreign intelligence threat; conducting administrative inquiries and investigations to identify and neutralize the foreign intelligence threat to classified and sensitive DOE programs, personnel, information and activities; reporting on foreign contacts and travel, including briefings and debriefings; conducting counterintelligence investigations and producing intelligence on hostile and foreign intelligence entities; counterintelligence related training; and other activities relating to OCI's responsibilities.

Routine uses of records maintained in the system, including categories of users and the purposes of such uses:

1. A record from this system may be disclosed as a routine use to the Federal Bureau of Investigation when such records indicate a violation or probable violation of the law.

2. A record from this system may be disclosed as a routine use to other counterintelligence agency components with whom the Office of Counterintelligence is preparing joint analysis of counterintelligence-related threats which may impact the Department.

3. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

4. A record from this system may be disclosed as a routine use in court or administrative proceedings to the tribunals, counsel, other parties, witnesses, and the public (in publically available pleadings, filings or discussion in open court) when such disclosure: (1) is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

5. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

6. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

7. A record from the system may be disclosed as a routine use to the appropriate local, state, or Federal agency when the record alone or in conjunction with other information, indicates a violation or potential violation of law whether civil, criminal, or regulatory in nature.

8. A record from this system of records may be disclosed to a member of Congress submitting a request involving the constituent when the constituent has requested assistance from the member with respect to the subject matter of the record. The member of Congress must provide a copy of the constituent's request for assistance.

9. A record from this system of records may be disclosed to foreign governments or international organization in accordance with treaties, international conventions, or executive agreements

10. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper records and electronic media.

Retrievability:

Records may be retrieved by name, social security number or other personal identifying data.

Safeguards:

Paper records are maintained in locked cabinets and desks. Electronic records are controlled through established DOE computer center procedures (personnel screening and physical security), and they are password protected. Passwords are known only by the system manager. Access is limited to those whose official duties require access to the records.

Retention and disposal

Records retention and disposal authorities are contained in the National Archives and Records Administration (NARA) General Records Schedule and DOE record schedules that have been approved by NARA.

System manager(s) and address:

Director, Department of Energy, Office of Counterintelligence, Headquarters, Analytical Division, 1000 Independence Avenue, SW., Washington, DC 20585.

Field Offices: The Managers and Directors of the “System locations” listed above are the system managers for their respective portions.

Notification procedure:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures

Same as Notification procedures above. Records are generally kept at location where the work is performed. In accordance with the DOE Privacy Act regulation, proper identification is required before a request is processed.

Record source categories

The subject individual; present and former DOE employees and contractor employees; publicly available material; other agencies within the Intelligence Community; other offices and elements within DOE; the FBI, and other federal, state and local law enforcement agencies; sources contacted during administrative inquiries and investigations; and official records.

System exempted from certain provisions of the Act

This system is exempt under (k)(1), (k)(2), and (k)(5) of the Privacy Act to the extent that information within the system meets the criteria of those subsections of the Act. Such information has been exempted from the provisions of subsections (c)(3), and (4), (d), and (e)(1) (e)(4)(G) and (H) and (f) of the Act; See the DOE Privacy Act regulation at Title10, Code of Federal Regulations, part 1008.

DOE-82

System name:

Grant and Contract Records for Research Projects, Science Education, and Related Activities.

Security classification:

Unclassified.

System Location:

Office of Science, U.S. Department of Energy, 1000 Independence Avenue, SW., Washington, DC 20585.

Categories of individuals covered by the system:

(1) Applicant/Grantee organization; Principal Investigator, i.e., the scientist or other individual designated by the applicant or proposer to direct the project; Senior Personnel, i.e., scientists or other individuals designated by the applicant or proposer to perform work on the project; Certifying Representative, i.e., the business representative having the authority to accept the obligation to comply with Department of Energy (DOE) terms and conditions if DOE makes a grant or contract award. (2) DOE officials DOE Project Officer, i.e., the individual who is responsible for the review and evaluation of the application or proposal and the monitoring of a resulting grant or contract; DOE Program Official, i.e., the individual who is responsible for review and approval of applications or proposals for funding; DOE Budget Official, i.e., the individual who is responsible for certifying funds availability for approved applications or proposals; DOE Contracting Officer or Contract Specialist, i.e., individuals who are responsible for awarding and administering grants or contracts. (3) Merit/Peer Reviewer, i.e., the individual (Federal or non-Federal) who provides a written review or evaluation of the application or proposal to the DOE Project Officer.

Categories of records in the system:

Grant applications, contract proposals, technical reviews by peer reviewer, records of grant and contract awards, financial data, and any other pertinent information needed for the tracking or approval of a grant or contract.

Authority for maintenance of the system:

42 U.S.C. 7101 et seq. and 50 U.S.C. 2401 et seq.

Purpose(s):

The information is maintained and used by the Department to track and monitor the receipt, review, and disposition of grant applications and contract proposals from universities, non-profit organizations, large and small businesses, other Federal agencies, State and local governments, individuals, and DOE national laboratories seeking Federal financial support for research projects, training, and related activities. The system also tracks and monitors funding authorizations and associated financial data.

Routine uses of records maintained in the system, including categories of users and the purposes of such uses:

1. A record from this system may be disclosed as a routine use to expert peer reviewers selected by DOE for their expertise in specific research areas to evaluate the application or proposal in accordance with established evaluation criteria.

2. A record from this system of records may be disclosed to a member of Congress submitting a request involving the constituent when the constituent has requested assistance from the member with respect to the subject matter of the record. The member of Congress must provide a copy of the constituent's request for assistance.

3. A record from the system may be disclosed as a routine use to DOE contractors in performance of their contracts, and their officers and employees who have a need for the record in the performance of their duties. Those provided information under this routine use are subject to the same limitations applicable to Department officers and employees under the Privacy Act.

4. A record from this system may be disclosed as a routine use to an applicant's principal investigator, sponsored programs office, business office, or similar element, via electronic media for the purpose of checking the status of its grant applications or contract proposals which have been submitted to DOE for support. Safeguards will be employed on a case by case basis to allow access only to authorized persons having a need to know.

Policies and practices for storing, retrieving, accessing, retaining and disposing of records in the system:

Storage:

Records may be stored as paper records and electronic media.

Retrievability:

Records may be retrieved by application or proposal number, project number, award number, name of applicant or awardee, name of principal investigator, social security number, name of peer reviewer, DOE project officer, or budget and reporting classification code.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Director, Grants and Contracts Division, Office of Resource Management, Office of Science, U.S. Department of Energy, Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures.

Record source categories:

Grant applications and contract proposals.

System exempted from certain provisions of the Act:

None

DOE-83

System name:

Allegation-Based Inspections Files of the Office of Inspector General.

Security classification:

Unclassified and classified.

System Location:

Official Allegation-Based Inspections Files are located at:

U.S. Department of Energy, Office of Inspector General, Headquarters, 1000 Independence Avenue, SW., Washington, DC 20585

U.S. Department of Energy, Office of Inspector General, P.O. Box 5400, Albuquerque, NM 87115

U.S. Department of Energy, Office of Inspector General, Building 703-41A, Aiken, SC 29802

U.S. Department of Energy, Office of Inspector General, P.O. Box 2254, Livermore, CA 94551

U.S. Department of Energy, Office of Inspector General, P.O. Box 62, Room 502, Oak Ridge, TN 37831

Categories of individuals covered by the system:

Individuals who are the subjects of inspections or inquiries concerning allegations or complaints, individuals who have pertinent knowledge about the inspection or inquiry, individuals authorized to furnish information, confidential informants, complainants, Office of Inspector General inspections personnel, and other individuals involved in these inspections.

Categories of records in the system:

Inspection files predicated on allegations or complaints and which identify subjects or sources of information by name. Inspections performed relate to sensitive allegations of wrongdoing received concerning certain individuals, including agency employees, or other persons or entities with some relationship to the agency. Allegations include, but are not limited to, abuse of authority; misuse of government time, property, or position; conflicts of interest; whistleblower reprisal; or other non-criminal violations of law, rules, or regulations.

Authority for maintenance of the system:

42 U.S.C. 7101 et seq.; 50 U.S.C. 2401 et seq.; The Inspector General Act of 1978, as amended, 5 U.S.C. App. 3.

Purpose(s):

The records are maintained and used by the Department in furtherance of the responsibilities of the Inspector General. These responsibilities include evaluating the effectiveness and efficiency of an operation, determining compliance with laws and regulations, evaluating Departmental program operations and results, preventing and detecting fraud and abuse in such programs and operations, and assuring the investigation of complaints by contractor employees alleging retaliation for making disclosures protected under 10 CFR part 708 and 41 U.S.C. 265.

Routine uses of records maintained in the system, including categories of users and purposes of such uses:

1. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

2. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

3. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

4. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

5. A record from the system may be disclosed as a routine use to the appropriate local, state, or Federal agency when the record alone or in conjunction with other information, indicates a violation or potential violation of law whether civil, criminal, or regulatory in nature.

6. A record from this system of records may be disclosed to a member of Congress submitting a request involving the constituent when the constituent has requested assistance from the member with respect to the subject matter of the record. The member of Congress must provide a copy of the constituent's request for assistance.

7. A record from this system of records may be disclosed to foreign governments or international organizations in accordance with treaties, international conventions, or executive agreements

8. A record from the system may be disclosed as a routine use to DOE contractors in performance of their contracts, and their officers and employees who have a need for the record in the performance of their duties. Those provided information under this routine use are subject to the same limitations applicable to Department officers and employees under the Privacy Act.

Policies and practices for storing, retrieving, accessing, retaining, and disposing of records in the system:

Storage:

Records may be stored as paper, microfilm, and electronic media.

Retrievability:

Records may be retrieved by name of individual involved, case number, report title, or subject matter.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

Deputy Inspector General for Inspections, U.S. Department of Energy, Room 5B-250, 1000 Independence Avenue, SW., Washington, DC 20585.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at location where the work is performed. In accordance with the DOE Privacy Act regulation, proper identification is required before a request is processed.

Contesting record procedures:

Same as Notification Procedures above.

Record source categories:

Subject individuals; individuals and organizations that have pertinent knowledge about a subject individual or corporate entity; those authorized by an individual to furnish information; confidential informants; and Federal Bureau of Investigation (FBI) and other Federal, state, and local entities.

System exempted from certain provision of the Act:

This system is exempt under (k)(1) and (k)(2) of the Privacy Act to the extent that information within the System meets the criteria of those subsections of the Act. Such information has been exempted from the provisions of subsections (c)(3), (d), and (e)(1), (e)(4)(G) and (H) and (f) of the Act; See the DOE Privacy Act regulation at Title10, Code of Federal Regulations, part 1008.

DOE-84

System name:

Counterintelligence Investigative Records.

Security classification:

Classified and unclassified.

System location:

Records maintained in DOE-84, except those pertaining to polygraph examinations and the e-mail analysis project, will be stored at the following locations:

U.S. Department of Energy, 1000 Independence Avenue, SW., Washington, DC 20585

U.S. Department of Energy, Albuquerque Operations Office, P.O. Box 5400, Albuquerque, NM 87115

U.S. Department of Energy, Argonne National Laboratory-East, 9700 South Cass Avenue, Argonne, IL 60439

U.S. Department of Energy Brookhaven National Laboratory, P.O. Box 5000, Upton, NY 11973-5000

U.S. Department of Energy, Chicago Operations Office, 9800 South Cass Avenue, Argonne, IL 60439

U.S. Department of Energy, Idaho Operations Office, 850 Energy Drive, Idaho Falls, ID 83403

U.S. Department of Energy, Lawrence Livermore National Laboratory, 7000 East Avenue, P.O. Box 808, Livermore, CA 94551

U.S. Department of Energy, Lockheed Idaho Technical Center, 765 Lindsay Boulevard, Idaho Falls, ID 83403

U.S. Department of Energy, Los Alamos Area Office, M/S B-236, P.O. Box 1663, Los Alamos, NM 87545

U.S. Department of Energy, Nevada Operations Office, P.O. Box 14100, Las Vegas, NV 89114

U.S. Department of Energy, Oak Ridge Operations Office, P.O. Box 2001, Oak Ridge, TN 37831

U.S. Department of Energy, Oakland Operations Office, P.O. Box 808, Livermore, CA 94550

U.S. Department of Energy, Ohio Field Office, P.O. Box 3020, Miamisburg, OH 45343

Pacific Northwest National Laboratory, 902 Battelle Blvd., P.O. Box 999, Richland, WA 99352

U.S. Department of Energy, Richland Operations Office, P.O. Box 550, Richland, WA 99352;

U.S. Department of Energy, Rocky Flats Field Office, P.O. Box 928, Golden, CO 80402

U.S. Department of Energy, Rocky Flats, World Wide Security Services, Ltd, P.O. Box 40, Broomfield, CO 80038

U.S. Department of Energy, Sandia National Laboratory—Albuquerque, P.O. Box 5400, Albuquerque, NM 87185-5800

U.S. Department of Energy, Sandia National Laboratory—California, P.O. Box 969, Livermore, CA 94551

U.S. Department of Energy, Savannah River Operations Office, P.O. Box A, Aiken, SC 29801; Savannah River, Westinghouse Savannah River Company, Bldg. 703-45A, Aiken, SC 29808

Records maintained in DOE-84 in connection with DOE administered counterintelligence-scope polygraph examinations, will be maintained only at the following locations:

U.S. Department of Energy, Headquarters, 1000 Independence Avenue, SW., Washington, DC 20585

U.S. Department of Energy, DOE Test Center, Albuquerque, NM 87106

Records maintained in DOE-84 in connection with the DOE e-mail analysis project will be maintained only at the following locations:

U.S. Department of Energy, Headquarters, 1000 Independence Avenue, SW., Washington, DC 20585

U.S. Department of Energy, Lawrence Livermore National Laboratory, 7000 East Avenue, P.O. Box 808, Livermore, CA 94551

U.S. Department of Energy, Los Alamos Area Office, P.O. Box 1663, Los Alamos, NM 87545

U.S. Department of Energy, Pacific Northwest National Laboratory, 902 Battelle Blvd., P.O. Box 999, Richland, WA 99352

U.S. Department of Energy, Sandia National Laboratory—Albuquerque, P.O. Box 5800, Albuquerque, NM 87185-5800

U.S. Department of Energy, Sandia National Laboratory—California, P.O. Box 969, Livermore, CA 94551

Categories of individuals covered by the system:

Current and former DOE employees and contractor employees; applicants for employment at DOE; individuals who may be assigned or detailed to Federal positions at DOE; consultants to DOE; users of the e-mail systems at the Sandia National Laboratories, Los Alamos National Laboratory, Lawrence Livermore National Laboratory, and Pacific Northwest National Laboratory; persons suspected of violating DOE regulations or criminal laws; individuals who voluntarily request a polygraph examination in order to respond to questions that have arisen in the context of a counterintelligence investigation; and those individuals who are (a) reasonably believed to be officers or employees of, or otherwise acting for or on behalf of, a foreign power; (b) members of an organization reasonably believed to be owned or controlled directly or indirectly by a foreign power; (c) reasonably believed to be targets, hostages, or victims of international terrorist organizations; or (d) reasonably believed to be engaged or about to engage in clandestine intelligence activities, sabotage, assassinations, or international terrorist activities involving DOE programs, personnel, facilities, information, or materials and have made personal or impersonal contact with a current or former DOE employee, contractor employee or consultant.

Categories of records in the system:

Law enforcement records, reports and files; reports on foreign contacts; records, reports and files received from other DOE elements and other Federal agencies related to intelligence activities; counterintelligence evaluation records; polygraph examination records; reports and videotapes of the polygraph session; and electronic mail stored on CD.

Authority for maintenance of the system:

42 U.S.C. 7101 et seq.; 50 U.S.C. 2401 et seq.; The Atomic Energy Act of 1954, as amended; National Defense Authorization Act of Fiscal Year 2000 Pub. L. 106-65; the Employee Polygraph Protection Act, Pub. L. 100-347; 29 U.S.C. 2006 (b)(1)(B); the Electronic Communications Privacy Act, Pub. L. 99-508, 18 U.S.C. 2510 et seq.; Executive Order 12333, United States Intelligence Activities (December 4, 1981); Department of Energy Procedures for Intelligence Activities, approved by the Attorney General under Executive Order 12333 (October 19, 1992); Executive Order 12958, Classified National Security Information (April 17, 1995); Executive Order 12968, Access to Classified Information (August 2, 1995); and Presidential Decision Directive-61.

Purpose(s):

The information is maintained and used by the Department to conduct counterintelligence investigations. The records in this system also will be used by the Office of Counterintelligence when participating in joint law enforcement counterintelligence-related investigations with the FBI or other Federal law enforcement agencies or components thereof in order to detect and prevent foreign intelligence threats directed at or involving DOE classified and sensitive information, materials, programs, facilities, personnel, and other Department resources. Finally, the records in this system are collected and maintained by the Office of Counterintelligence in order to fulfill its statutory responsibilities under section 3154 of the National Defense Authorization Act for Fiscal Year 2000.

Routine uses of records maintained in the system, including categories of users and purposes of such uses:

1. A record from this system may be disclosed as a routine use to an appropriate Federal, State, local or foreign agency when a record within this system of records, alone or in conjunction with other information, indicates a violation or potential violation of law whether civil, criminal, or regulatory in nature, and whether arising by general statute of particular program pursuant thereto.

2. A record from this system of record may be disclosed, as a routine use, to a Federal, state or local agency that maintains relevant information to obtain information relevant to a Department decision concerning the hiring or retention of an employee, the issuance of a security clearance, the letting of a contract, or the issuance of a license, grant, or other benefit. The Department must deem such disclosure to be compatible with the purpose for which the Department collected the information.

3. A record from this system may be disclosed as a routine use to a Federal agency, to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

4. A record from this system may be disclosed as a routine use to DOE contractors in performance of their contracts, and their officers and employees who have a need for the record in the performance of their duties. The contractor and its officers receiving information under this routine use are subject to the same limitations applicable to DOE officers and employees under the Privacy Act.

Policies and practices for storing, retrieving, accessing, retaining, and disposing of records in the system:

Storage:

Records may be stored as paper records, electronic media, and videotapes.

Retrievability:

Records may be retrieved by name and/or social security number.

Safeguards:

Paper records and videotapes are maintained in locked cabinets. Electronic records are controlled through established DOE computer center procedures (personnel screening and physical security), secured for classified information and are password protected. Passwords are known only by the system manager. Access is limited to those whose official duties require access to the records.

Retention and disposal:

Records retention and disposal authorities are contained in the National Archives and Records Administration (NARA) General Records Schedule and DOE record schedules that have been approved by NARA.

System manager(s) and address:

Director, Office of Counterintelligence, U.S. Department of Energy, Forrestal Building, 1000 Independence Avenue, SW., Washington, DC 20585.

Field Offices: The Managers of the “System locations” listed above are the system managers for their respective portions of this system.

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Office at the appropriate address identified above under “System locations.” Requests for polygraph records should be directed to Headquarters, Freedom of Information and Privacy Act Division, U.S. Department of Energy. The request should include the requester's complete name, time period for which records are sought, and the geographic location(s) where the requester believes the records are located.

Record access procedures:

Same as notification procedures above. Records are generally kept at locations where work is performed. In accordance with the DOE Privacy Act regulation, proper identification is required before a request is processed.

Contesting record procedures:

Same as Notification Procedures above.

Record source categories:

The subject individual, present and former DOE employees and DOE contractor employees, applicants for employment, individuals assigned or detailed to Federal positions at DOE, and consultants; any user of the DOE e-mail systems at Sandia National Laboratories, Los Alamos National Laboratory, Lawrence Livermore National Laboratory, and Pacific Northwest National Laboratory; publicly available material; other agencies within the Intelligence Community; other offices within the DOE; the FBI, and other federal, state and local law enforcement agencies; and sources contacted during investigations.

System exempted from certain provisions of the Act:

This system is exempt pursuant to subsections (j)(2) and (k)(1), (2) and (5) of the Privacy Act, 5 U.S.C. 552a, to the extent that information within the system meets the requirements of those subsections of the Act. Under subsection (j)(2) of the Privacy Act, this system has been exempted from subsections (c)(3) and (4), (d), (e)(1), (2), and (3), (e)(4)(G) and (H), (e)(8), (f) and (g) of 5 U.S.C. 552a. See DOE the Privacy Act Regulation at 10 CFR 1008.12.

To the extent the information in this system of records is exempt pursuant to 5 U.S.C. 552a(k)(1), (2) and (5), the system has been further exempted from subsections (c)(3), (d), (e)(1), (e)(4)(G) and (H) and (f) of 5 U.S.C. 552a under the Privacy Act of 1974. See the DOE Privacy Act Regulation at 10 CFR 1008.12(b).

DOE-86

System name:

Human Radiation Experiments Records.

Security classification:

None.

Locations:

U.S. Department of Energy, Office of Human Radiation Experiments, 1000 Independence Avenue, SW., Washington, DC 20585

U.S. Department of Energy, Coordination and Information Center, 3084 S. Highland St., Las Vegas, NV 89109

Categories of individuals covered by the system:

Persons who participated in the organizing, conducting, and financing of the Human Radiation Experiments and environmental releases of radiation described in Executive Order 12891, 59 FR 2935 (January 20, 1994). Records are also maintained on persons who were subjects of the experiments or were affected by the releases. Generally, the records pertain to persons in the following categories: (1) Former and current employees of the DOE, its predecessor agencies and their contractors and subcontractors; (2) members of the public; (3) persons exposed to radiation as a result of proximity to nuclear facilities or the intentional or accidental release of radiation.

Categories of records in the system:

Records pertaining to the planning, organizing, financing, conducting, effects and results of experiments and environmental releases, gathered from DOE, its predecessor agencies and their contractors and subcontractors. Such records include correspondence, memoranda, published and unpublished reports, notes, logs, proposals, contracts, minutes of meetings of the Atomic Energy Commission and its advisory committees and subcommittees dealing with radiation, correspondence with members of the public, transcripts of interviews of persons associated with the organizing, financing and conducting of the experiments, reports of Congressional hearings, personal notes, diaries and papers, archival collections, interagency memoranda and agreements, consent forms, medical and laboratory reports, transcripts of medical conferences, and newspaper and magazine articles.

Authority for maintenance of the system:

42 U.S.C. 7101 et seq.; 50 U.S.C. 2401 et seq.; 42 U.S.C. 7151; 42 U.S.C. 2201 and 42 U.S.C. 5813 and 5817.

Purpose(s):

The purpose of this system of records is to assist members of the public in piecing together their own (or immediate family) history of possible involvement in government-sponsored radiation experiments.

Routine uses of records maintained in the system, including categories of users and the purposes of such uses:

1. A record from this system may be disclosed as a routine use to the Advisory Committee on Human Radiation Experiments to perform its assigned task of evaluating the scientific and ethical aspects of the Human Radiation Experiments and environmental releases. A record from this system of records may be disclosed to that Committee to provide it with information concerning experiments or releases of radiation that were sponsored, financed or conducted by DOE, its predecessors, or other Federal agencies, and their contractors and subcontractors. Those provided information under this routine use are subject to the same limitations applicable to Department officers and employees under the Privacy Act.

2. A record from this system may be disclosed as a routine use pertaining to another Federal agency if it appears from the record, or other available information, that the other Federal agency conducted the Human Radiation Experiment or environmental release or that referral to the other Federal agency is appropriate for remedial purposes.

3. A record from this system may be disclosed as a routine use to DOE contractors and subcontractors conducting epidemiological, industrial safety or hygiene studies to ascertain or determine: (a) How radiation exposure effects the health and well being of individuals or groups of individuals; and (b) the risks of working with, or being in proximity to, nuclear equipment, devices and facilities and how such risks may be ameliorated. Those provided information under this routine use are subject to the same limitations applicable to Department officers and employees under the Privacy Act.

4. A record from this system may be disclosed as a routine use to the Centers for Disease Control and Prevention, other Federal and state health agencies, and Federal and state agencies involved with industrial or employee safety to be used for epidemiological or industrial safety or hygiene studies to ascertain or determine: (a) How radiation exposure effects the health and well being of individuals or groups of individuals; and (b) the risks of working with, or being in proximity to, nuclear equipment, devices and facilities, and how such risks may be ameliorated.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from the system may be disclosed as a routine use to a Federal, State, or local agency to obtain information relevant to a Departmental decision concerning the hiring or retention of an employee, the issuance of a security clearance, the letting of a contract, or the issuance of a license, grant, or other benefit. The Department must deem such disclosure to be compatible with the purpose for which the Department collected the information.

8. A record from this system of records may be disclosed to a Federal agency to facilitate the requesting agency's decision concerning the hiring or retention of an employee, the issuance of a security clearance, the reporting of an investigation of an employee, the letting of a contract, or the issuance of a license, grant, or other benefit, to the extent that the information is relevant and necessary to the requesting agency's decision on the matter. The Department must deem such disclosure to be compatible with the purpose for which the Department collected the information.

9. A record from the system may be disclosed as a routine use to the appropriate local, state, or Federal agency when the record, alone or in conjunction with other information, indicates a violation or potential violation of law whether civil, criminal, or regulatory in nature.

10. A record from this system of records may be disclosed to a member of Congress submitting a request involving the constituent when the constituent has requested assistance from the member with respect to the subject matter of the record. The member of Congress must provide a copy of the constituent's request for assistance.

11. A record from the system may be disclosed as a routine use to DOE contractors in performance of their contracts, and their officers and employees who have a need for the record in the performance of their duties. Those provided information under this routine use are subject to the same limitations applicable to Department officers and employees under the Privacy Act.

12. A record from this system of records may be disclosed to officials and contractor personnel of the Agency for Toxic Substances and Disease Registry in carrying out that agency's authorized activities at DOE's facilities pursuant to section 104(I) of the Comprehensive Environmental Response, Compensation, and Liability Act.

Policies and practices for storing, retrieving, accessing, retaining and disposing of records in the system:

Storage:

Records may be stored as paper records and electronic media.

Retrievability:

The records may be retrieved by name or other personal identifier as dictated by the needs of the particular researcher.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

U.S. Department of Energy, Director, Office of Human Radiation Experiments, 1000 Independence Avenue, SW., Washington, DC 20585

U.S. Department of Energy, Manager, Nevada Operations Office, P.O. Box 98518, Las Vegas, NV 89193-8518

Notification procedures:

In accordance with the DOE regulation implementing the Privacy Act, Title 10, Code of Federal Regulations, part 1008, a request by an individual to determine if a system of records contains information about him/her should be directed to the Director, Headquarters Freedom of Information Act and Privacy Act Division, U.S. Department of Energy, or the Privacy Act Officer at the appropriate address identified above under “System locations.” The request should include the requester's complete name, time period for which records are sought, and the geographic location(s) where the requester believes the records are located.

Record access procedures:

Same as Notification procedures above. Records are generally kept at locations where the work is performed. In accordance with the DOE Privacy Act regulation, proper identification is required before a request is processed.

Contesting record procedures:

Same as Notification procedures.

Record source categories:

Persons conducting or otherwise having a role in the organization and financing of experiments or releases, present and former DOE and predecessor agency contractors and subcontractors, physicians, medical records, dosimetry records, subject individuals, DOE and its predecessor agency officials and operating offices.

Systems exempted from certain provisions of the Act:

None.

DOE-88

System name:

Epidemiologic and Other Health Studies, Surveys and Surveillances.

Security classification:

None.

System Location:

U.S. Department of Energy, Office of Environment, Safety and Health, Office of Health Studies, Germantown, MD. 20874-1290. Portions also may be located with contractors, other entities involved in conducting or managing health studies, surveys, and surveillances, or other Department offices listed below:

U.S. Department of Energy, Albuquerque Operations Office, P.O. Box 5400, Albuquerque, NM 87185-5400

U.S. Department of Energy, Bonneville Power Administration, P.O. Box 3621, Portland, OR 97208

U.S. Department of Energy, Chicago Operations Office, 9800 South Cass Avenue, Argonne, IL 60439

U.S. Department of Energy, Golden Field Office, 1617 Cole Boulevard, Golden, CO 80401

U.S. Department of Energy, Grand Junction, P.O. Box 2567, Grand Junction, CO 81502-2567

U.S. Department of Energy, Headquarters, 1000 Independence Avenue, SW., Washington, DC 20585

U.S. Department of Energy, Idaho Operations Office, 850 Energy Drive, Idaho Falls, ID 83401

U.S. Department of Energy, National Energy Technology Laboratory (Morgantown), 3610 Collins Ferry Road Morgantown, WV 26507-0880

U.S. Department of Energy, National Energy Technology Laboratory (Pittsburgh), P.O. Box 10940, Pittsburgh, PA 15236-0940

U.S. Department of Energy, National Petroleum Technology Office, William Center Tower One, 1 West Third Street, Tulsa, OK 74103

U.S. Department of Energy, Nevada Operations Office, P.O. Box 98518, Las Vegas, NV 89193-8518

U.S. Department of Energy, Oak Ridge Operations Office, P.O. Box 2001, Oak Ridge, TN 37831

U.S. Department of Energy, Oakland Operations Office, 1301 Clay Street, Oakland, CA 94612-5208

U.S. Department of Energy, Ohio Field Office, 1 Mound Road, Miamisburg, OH 45342

U.S. Department of Energy, Pittsburgh Naval Reactors, P.O. Box 109, West Mifflin, PA 15122-0109

U.S. Department of Energy, Richland Operations Office, 825 Jadwin Avenue, P.O. Box 550, Richland, WA 99352

U.S. Department of Energy, Rocky Flats Field Office, 10808 Highway 93, Unit A, Golden, CO 80402-0928

U.S. Department of Energy, Savannah River Operations Office, P.O. Box A, Aiken, SC 29801

U.S. Department of Energy, Schenectady Naval Reactors Office, P.O. Box 1069, Schenectady, NY 12301

U.S. Department of Energy, Southeastern Power Administration, Samuel Elbert Building, Public Square, Elberton, GA 30635

U.S. Department of Energy, Southwestern Power Administration, P.O. Box 1619, Tulsa, OK 74101

U.S. Department of Energy, Strategic Petroleum Reserve Project Office, 900 Commerce Road East New Orleans, LA 70123

U.S. Department of Energy, Western Area Power Administration, P.O. Box 3402, Golden, CO 80401

U.S. Department of Energy, Yucca Mountain Site Characterization Office, 1551 Hillshire Drive, Suite A, Las Vegas, NV 89134

Categories of individuals covered by the system:

Data about individuals who were included in any authorized epidemiologic or other health study, survey, or surveillance. Such persons include current and former employees of the Department, its predecessor agencies, and their contractors and subcontractors, as well as other individuals included in health studies, surveys, and surveillances pertaining to any potential health hazard (including electromagnetic fields) associated with energy production, transmission, or use. Accordingly, persons having access, or in proximity, to the Department's facilities, persons involved in or effected by energy production activities, and members of the general population selected as control groups also may be included.

As defined in Executive Order 12891, Human Radiation Experiments include: (1) Experiments on individuals involving intentional exposure to ionizing radiation. This category does not include common and routine clinical practices, such as established diagnosis and treatment methods, involving incidental exposures to ionizing radiation; (2) experiments involving intentional environmental releases of radiation that (A) were designed to test human health effects of ionizing radiation; or (B) were designed to test the extent of human exposure to ionizing radiation; (3) the experiment into the atmospheric diffusion of radioactive gases and test of detectability, commonly referred to as the “Green Run test,” conducted by the former Atomic Energy Commission and the Air Force in December 1949 in Hanford, Washington; (4) two radiation warfare field experiments conducted at the Atomic Energy Commission's Oak Ridge office in 1948 involving gamma radiation released from non-bomb point sources at or near ground level; (5) six tests conducted during 1949-1952 of radiation warfare ballistic dispersal devices containing radioactive agents at the U.S. Army's Dugway, Utah, site; (6) four atmospheric radiation-tracking tests in 1950 at Los Alamos, New Mexico; and (7) other similar human experiments that may later be identified by the Human Radiation Interagency Working Group.

Categories of records in the system:

Specific types of records collected and maintained are determined by the needs of the individual study, survey, or surveillance. Examples include, but are not limited to, questionnaires, demographic information, work history, medical and reproductive history, birth data, radiation and other exposure history, laboratory test results, data from prior studies, surveys, and surveillances, alcohol and tobacco use history, and illness absence information. Information may be collected directly from individuals, as well as extracted as necessary from personnel files and lists, training files, medical records, legal case files, bioassay records, industrial hygiene files, payroll and leave records, radiation and other hazard exposure records, occupational and industrial accident records, employee insurance claims, personnel security clearance questionnaires, personnel assurance program records, and related sources.

Authority for maintenance of the System:

42 U.S.C. 7101 et seq.; 50 U.S.C. 2401 et seq.; 42 U.S.C. 7151 and 7297; 42 U.S.C. 2201(c), 2201(i)(3), 5813 and 5817

Purpose(s):

The information is maintained and used by the Department to conduct epidemiological and other health studies, surveys and surveillances, conducted by the Department and the Department of Health and Human Services performing studies for the Department, their contractors, grantees, and collaborating researchers. The health studies pertain to individual and aggregate population health risks from exposures to radiation, or other chemical, physical, or biological hazards that may occur or may have occurred as a result of the Department's, or its predecessor agencies' operations, or as a result of energy production, transmission, or use. Individually identifiable information does not appear in published epidemiological studies or other published health studies, surveys, and surveillances. However, the system will contain records compiled in completing published and unpublished studies, surveys, and surveillances from which information may be retrieved by name or other personal identifier.

Routine uses of records maintained in the system, including categories of users and the purposes of such uses:

1. A record from this system may be disclosed as a routine use to contractor personnel, grantees, and cooperative agreement holders of components of the Department of Health and Human Services, including the National Institute for Occupational Safety and Health, the National Center for Environmental Health of the Centers for Disease Control and Prevention, and the Agency for Toxic Substances and Disease Registry pursuant to a Memoranda of Understanding between the Department and the Department of Health and Human Services or its components. Those provided information under this routine use are subject to the same limitations applicable to Department officers and employees under the Privacy Act.

2. A record from this system of records may be disclosed as a routine use to contractors, grantees, participants in cooperative agreements and collaborating researchers, or the employees of these parties, when conducting health studies or related health or environmental duties pursuant to their contracts, grants, and cooperating or collaborating research agreements. In order to perform such studies, the Department, its contractors, grantees, participants in cooperative agreements, and collaborating researchers may disclose a record: to Federal, State, and local health and medical agencies or authorities; to subcontractors in order to determine a subject's vital status or cause of death; to health care providers to verify a diagnosis or cause of death; or to third parties to obtain current addresses for participants in health-related studies, surveys and surveillances. All recipients of such records are required to comply with the Privacy Act, to follow prescribed measures to protect personal privacy, and to disclose or use personally identifiable information only for the above described research purposes. Those provided information under this routine use are subject to the same limitations applicable to Department officers and employees under the Privacy Act.

3. A record from this system of records may be disclosed to members of Department advisory committees, the Department of Health and Human Services Advisory Committee on Projects Related to Department of Energy Facilities, and to designated employees of Federal, State, or local government, or government-sponsored entities, authorized to provide advice to the Department concerning health, safety, or environmental issues. All recipients of such records are required to comply with the Privacy Act, to follow prescribed measures to protect personal privacy, and to disclose or use personally identifiable information only for the purpose of providing advice to the Department or to the Department of Health and Human Services. Those provided information under this routine use are subject to the same limitations applicable to Department officers and employees under the Privacy Act.

4. A record from this system of records may be disclosed as a routine use, to DOE contractors in performance of their contracts, and their officers and employees who have a need for the record in the performance of their duties subject to the same limitations applicable to DOE officers and employees under the Privacy Act.

5. A record from this system may be disclosed as a routine use for the purpose of an investigation, settlement of claims, or the preparation and conduct of litigation to a (1) person representing the Department in the investigation, settlement or litigation, and to individuals assisting in such representation; (2) others involved in the investigation, settlement, and litigation, and their representatives and individuals assisting those representatives; (3) witness, potential witness, or their representatives and assistants, and any other person who possesses information pertaining to the matter, when it is necessary to obtain information or testimony relevant to the matter.

6. A record from this system may be disclosed as a routine use in court or administrative proceedings to the tribunals, counsel, other parties, witnesses, and the public (in publically available pleadings, filings or discussion in open court) when such disclosure: (1) Is relevant to, and necessary for, the proceeding; and (2) is compatible with the purpose for which the Department collected the records; and (3) the proceedings involve:

(a) The Department, its predecessor agencies, current or former contractors of the Department, or other United States Government agencies and their components, or

(b) A current or former employee of the Department and its predecessor agencies, current or former contractors of the Department, or other United States Government agencies and their components, who is acting in an official capacity, or in any individual capacity where the Department or other United States Government agency has agreed to represent the employee.

7. A record from this system be disclosed to Department of Health and Human Services, their contractors, grantees, and cooperative agreement holders, pursuant to the Energy Employees Occupational Illness Compensation Program Act of 2000, to estimate radiation doses and other workplace exposures received by Department of Energy and contractor employees. The Secretary of Health and Human Services and the Secretary of Energy shall each make available to researchers and the general public information on the assumptions, methodology, and data used in establishing radiation doses consistent with the protection of private medical records. Those provided information under this routine use are subject to the same limitations applicable to Department officers and employees under the Privacy Act.

Policies and practices for storing, retrieving, accessing, retaining, and disposing of records in the system:

Storage:

Records may be stored as microfilm, paper records, and electronic media.

Retrievability:

Records may be retrieved by name, study/surveillance-assigned control number, social security number, or other personal identifier, as dictated by the needs of the particular researcher.

Safeguards:

Paper records are maintained in locked cabinets and desks. Electronic records are controlled through established DOE computer center procedures (personnel screening and physical security), and they are password protected. Passwords are known only by the system manager. Access is limited to those whose official duties require access to the records.

Retention and disposal:

Records retention and disposal authorities are contained in the National Archives and Records Administration (NARA) General Records Schedule and DOE record schedules that have been approved by NARA.

System manager(s) and address:

U.S. Department of Energy, Director, Office of Epidemiologic Studies, Germantown, Md. 20874-1290.

Notification procedures:

In accordance with the DOE regulation implementing the Privacy Act, Title 10, Code of Federal Regulations, part 1008, a request by an individual to determine if a system of records contains information about him/her should be directed to the Director, Headquarters, Freedom of Information Act and Privacy Act Division, U. S. Department of Energy, or the Privacy Act Officer at the appropriate address identified above under “System locations.” The request should include the requester's complete name, time period for which records are sought, and the geographic location(s) where the requester believes the records are located.

Record access procedures:

Same as Notification procedures above. Records are generally kept at location where the work is performed. In accordance with the DOE Privacy Act regulation, proper identification is required before a request is processed.

Contesting record procedures:

Same as notification procedures.

Record source categories:

Subject individual and the individual's employer, including DOE and its predecessor agencies and their contractors and subcontractors.

Systems exempted from certain provisions of the Act:

None.

[FR Doc. 01-11673 Filed 5-15-01; 8:45 am]

BILLING CODE 6450-01-P